ENVIRONMENTAL PROTECTION AGENCY

40 CFR Part 52

[EPA-R09-OAR-2024-0527; FRL-12792-01-R9]

Air Plan Approval; California; Revised Format for Nonregulatory Provisions

AGENCY: Environmental Protection Agency (EPA).

ACTION: Final rule; administrative change.

SUMMARY: Under the Clean Air Act, the Environmental Protection Agency (EPA) is taking another action in a series of actions to revise the format of the former “Identification of plan” section for the California State Implementation Plan (SIP). Specifically, the EPA is adding the nonregulatory provisions and quasi-regulatory measures to the “Identification of plan—in part” section that the EPA established to provide for the phased transition of the California SIP to the revised format. The nonregulatory provisions and quasi-regulatory measures affected by this format revision have been previously submitted by the State of California and approved by the EPA. This action is the third in a series of actions intended to change the format for the entire California SIP.

DATES: This rule is effective on July 7, 2025.

ADDRESSES: The EPA has established a docket for this action under Docket ID No. EPA-R09-OAR-2024-0527. Nonregulatory and quasi-regulatory SIP materials are available for inspection by appointment at Environmental Protection Agency, Region IX, 75 Hawthorne Street, San Francisco, CA 94105-3901. For information on the availability of this material at the EPA Regional Office, please contact the person in the FOR FURTHER INFORMATION CONTACT section of this document.

FOR FURTHER INFORMATION CONTACT: Kira Wiesinger, EPA Region IX, 75 Hawthorne Street, San Francisco, CA 94105; telephone number: (415) 972-3827; email address: wiesinger.kira@epa.gov.

SUPPLEMENTARY INFORMATION: Throughout this document, the terms “we,” “us,” and “our” refer to the EPA. This supplementary information section is organized as follows:

Table of Contents

I. Background

II. Public Comments

III. Statutory and Executive Order Reviews

I. Background

Under the Clean Air Act (CAA or “Act”), each State is required to have a State implementation plan (SIP) that contains, among other things, the control measures and strategies which will be used to attain and maintain the national ambient air quality standards (NAAQS). The SIP is extensive, containing such elements as emission inventories, monitoring networks, attainment demonstrations, and enforcement mechanisms. The control measures and strategies must be formally adopted by each State after the public has had an opportunity to comment on them. They are then submitted to the EPA as requested SIP revisions on which EPA must formally act.

The SIP is a dynamic document that can be revised by the State as necessary to address the unique air pollution problems in the State. Therefore, EPA must periodically take action on State SIP submissions containing new and/or revised regulations or other materials in order to make them part of the federally-approved SIP. In May 1972, the EPA approved, with certain exceptions, the initial SIPs for 50 States, four territories and the District of Columbia.¹ Since 1972, each State and territory has submitted numerous SIP revisions, either on their own initiative or because they were required to as a result of various amendments to the CAA or EPA regulations. The EPA codifies its approvals and disapprovals of SIPs and SIP revisions in 40 CFR part 52 (“Approval and promulgation of implementation plans”).

¹ 37 FR 10842 (May 31, 1972). The EPA approved an additional SIP—for the Commonwealth of the Northern Mariana Islands—on November 10, 1986 (51 FR 40799).

Within 40 CFR part 52, there are 58 subparts (subparts A through FFF). Subpart A contains general requirements applicable to all States and territories, while subparts B through DDD and subpart FFF contain requirements that are specific to a given State or territory. Subpart EEE contains historical information pertaining to EPA action on SIP material originally submitted by States to the National Air Pollution Control Administration (Department of Health, Education, and Welfare) in 1970.

Until 1997, the first or second section of each subpart within 40 CFR part 52 (other than subparts A and EEE) was called “Identification of plan.” This section summarized State-developed requirements which the EPA has approved as part of a given SIP since May 31, 1972, and was amended by adding new paragraphs for each new approval of a State SIP revision submission. On May 22, 1997 (62 FR 27968), the EPA established a new format for the “Identification of plan” sections assigned to each subpart in 40 CFR part 52 (except A and EEE). With the new format, revised “Identification of plan” sections contain five paragraphs: (a) Purpose and scope, (b) Incorporation by reference, (c) EPA-approved regulations, (d) EPA-approved source-specific requirements, and (e) EPA-approved nonregulatory provisions and quasi-regulatory measures. “Nonregulatory provisions and quasi-regulatory measures” refers to such items as transportation control measures, certain statutory provisions, control strategies, and monitoring networks. In our May 1997 rule, we indicated that the EPA would begin to phase in the new format on a State-by-State basis. Please see our May 1997 rule for more information concerning the revised format for SIPs.

The California SIP is identified in subpart F (“California”) of part 52, and the “Identification of plan” section was designated as 40 CFR 52.220. Given the size of the California SIP, the EPA is revising the format of the California SIP in a phased manner. On May 26, 2016 (81 FR 33397), we took the first action to revise the format of the “Identification of plan” section in subpart F in accordance with the revised format described above. Through that first action, we revised the heading of § 52.220 to read, “Identification of plan—in part,” and added an introductory paragraph to convey our division of the California “Identification of plan” section into two sections:

• Amended 40 CFR 52.220, which would continue for the time being to function as it has in the past to list past and newly-approved air district rules, local ordinances, source-specific requirements, and nonregulatory and quasi-regulatory provisions and which lists State statutes and State regulations approved on or prior to April 1, 2016; and

• New 40 CFR 52.220a (“Identification of plan—in part”), which lists the State statutes and State regulations approved as part of the California SIP as of April 1, 2016, using the new table format.

This meant that subsequent EPA approvals of air district rules, local ordinances, source-specific requirements, and nonregulatory and quasi-regulatory provisions would continue to be promulgated in 40 CFR 52.220 using the paragraph format whereas subsequent EPA approvals of State statutes and State regulations would be promulgated in 40 CFR 52.220a using the table format.

Our phased approach to converting the format of the California SIP anticipated that, over time, as the EPA completes further rulemaking actions to convert the format of the California SIP, 40 CFR 52.220a will include a growing number of air district rules, local ordinances, source-specific requirements, and nonregulatory and quasi-regulatory provisions. Once the conversion process is completed, the EPA will redesignate 40 CFR 52.220a as 40 CFR 52.220 and rename it simply “Identification of plan.” At that point, all subsequent actions by the EPA to approve California SIP revisions will be promulgated using the new table format.

On June 4, 2025 (90 FR 23618), the EPA took a second action to revise the format of the California SIP by converting the format for local ordinances and air district rules approved on or prior to April 17, 2025, for the following air districts: Amador Air District, Antelope Valley Air Quality Management District (AQMD), Bay Area AQMD, Butte County AQMD, Calaveras County Air Pollution Control District (APCD), Colusa County APCD, Eastern Kern APCD, and El Dorado County AQMD. In this third action to convert the format of the California SIP, we are revising the format of the California SIP by converting the nonregulatory provisions and quasi-regulatory measures portion of the California SIP.

II. Public Comments

The EPA has determined that this rule falls under the “good cause” exemption in section 553(b)(B) of the Administrative Procedure Act (APA) that, upon finding “good cause,” authorizes agencies to dispense with public participation and section 553(d)(3), which allows an agency to make a rule effective immediately (thereby avoiding the 30-day delayed effective date otherwise provided for in the APA). This action simply reformats and recodifies provisions that are already in effect as a matter of law in Federal and approved State programs.

Under section 553 of the APA, an agency may find good cause where notice and public procedure are “impractical, unnecessary, or contrary to the public interest.” Public comment is “unnecessary” and “contrary to the public interest” for this action because the EPA is merely reformatting and recodifying existing law. Immediate notice in the CFR benefits the public by clearly identifying the current nonregulatory provisions and quasi-regulatory measures of the California SIP.

III. Statutory and Executive Order Reviews

This action merely addresses administrative requirements related to previously approved State law found to meet Federal requirements and does not impose additional requirements beyond those previously approved into the SIP and already imposed by State law. For that reason, this action:

• Is not a significant regulatory action subject to review by the Office of Management and Budget under Executive Order 12866 (58 FR 51735, October 4, 1993);

• Is not subject to Executive Order 14192 (90 FR 9065, February 6, 2025) because SIP actions are exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it is an administrative action related to State program approval;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where the EPA or an Indian Tribe has demonstrated that a Tribe has jurisdiction. In those areas of Indian country, the rule does not have Tribal implications and will not impose substantial direct costs on Tribal governments or preempt Tribal law as specified by Executive Order 13175 (65 FR 67249, November 9, 2000).

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary, or contrary to the public interest. This action simply reformats and recodifies provisions that are already in effect as a matter of law in Federal and approved State programs. 5 U.S.C. 802(2). As stated previously, the EPA has made such a good cause finding, including the basis for that finding, and established an effective date of July 7, 2025. The EPA will submit a report containing this rule and other required information to the U.S. Senate, the U.S. House of Representatives, and the Comptroller General of the United States prior to publication of the rule in the Federal Register. This action is not a “major rule” as defined by 5 U.S.C. 804(2).

The EPA has also determined that the provisions of section 307(b)(1) of the CAA pertaining to petitions for judicial review are not applicable to this action. Prior EPA rulemaking actions for each individual component of the California SIP compilation had previously afforded interested parties the opportunity to file a petition for judicial review in the United States Court of Appeals for the appropriate circuit within 60 days of such rulemaking action. Thus, the EPA believes judicial review of this action under section 307(b)(1) is not available.

List of Subjects in 40 CFR Part 52

Environmental protection, Air pollution control, Carbon oxides, Incorporation by reference, Intergovernmental relations, Lead, Nitrogen oxides, Ozone, Particulate matter, Reporting and recordkeeping requirements, Sulfur oxides, Volatile organic compounds.

Dated: June 20, 2025.
Cheree D. Peterson,
Acting Regional Administrator, Region IX.

For the reasons stated in the preamble, the Environmental Protection Agency amends part 52, chapter I, title 40 of the Code of Federal Regulations as follows:

PART 52—APPROVAL AND PROMULGATION OF IMPLEMENTATION PLANS

1. The authority citation for part 52 continues to read as follows:

Authority: 42 U.S.C. 7401 et seq.

Subpart F—California

2. Section 52.220 is amended by revising the introductory text to read as follows:

§ 52.220 Identification of plan—in part.

This section identifies the local and regional air district rules, local ordinances, source-specific requirements, and nonregulatory materials and quasi-regulatory measures submitted by the State of California and approved as part of the California State implementation plan. This section also identifies California statutes and State regulations submitted by the State of California and approved as part of the California State implementation plan on or prior to April 1, 2016. New or amended California statutes and State regulations approved after April 1, 2016, are identified in § 52.220a. New or amended local ordinances approved after April 17, 2025, are identified in § 52.220a. New or amended air district rules approved after April 17, 2025, are identified in § 52.220a for the following air districts: Amador Air District, Antelope Valley Air Quality Management District, Bay Area Air Quality Management District, Butte County Air Quality Management District, Calaveras County Air Pollution Control District, Colusa County Air Pollution Control District, Eastern Kern Air Pollution Control District, and El Dorado County Air Quality Management District. Nonregulatory materials and quasi-regulatory measures approved after July 3, 2025, are identified in § 52.220a.

* * * * *

3. Section 52.220a is amended by revising paragraph (e) to read as follows:

§ 52.220a Identification of plan—in part.

* * * * *

(e) EPA-approved California nonregulatory provisions and quasi-regulatory measures.

Table 1—General Provisions of California State Implementation Plan (SIP); Infrastructure and Regional Haze SIPs; Materials Related to the Prevention of Significant Deterioration (PSD) Program; and Compliance Schedules
Name of SIP provision | Applicable geographic area | State submittal date | EPA approval date | Explanation
General Provisions
Part I—General Plan | Statewide | February 21, 1972 | May 31, 1972, 37 FR 10842 | Part of original SIP submittal. Includes cover page and table of contents. See 40 CFR 52.220(b).
Chapter 1—Summary | Statewide | February 21, 1972 | May 31, 1972, 37 FR 10842 | Part of original SIP submittal. See 40 CFR 52.220(b).
Chapter 2—Statewide Perspective | Statewide | December 29, 1978 | August 11, 1980, 45 FR 53136 | See 40 CFR 52.220(c)(46)(i).
Chapter 2—Description of State | Statewide | February 21, 1972 | May 31, 1972, 37 FR 10842 | Part of original SIP submittal. See 40 CFR 52.220(b).
Redesignation of AQCR's in California | Statewide | September 11, 1978 | January 16, 1981, 46 FR 3883 | See 40 CFR 52.220(c)(61).
Air quality maintenance area designations | Statewide | July 12, 1974 | September 9, 1975, 40 FR 41942; re-codified at 41 FR 8956 (March 2, 1976) | See 40 CFR 52.220(c)(18).
Chapter 3—Legal Authority of the California SIP | Statewide | March 16, 1979 | August 11, 1980, 45 FR 53136 | See 40 CFR 52.220(c)(48).
Chapter 3—Emissions Inventory | Statewide | February 21, 1972 | May 31, 1972, 37 FR 10842 | Part of original SIP submittal. See 40 CFR 52.220(b).
Emission inventory | Statewide | April 21, 1972 | May 31, 1972, 37 FR 10842; re-codified at 41 FR 8956 (March 2, 1976) | See 40 CFR 52.220(c)(3).
Chapter 4—California Air Quality Control Strategies | Statewide | May 23, 1979 | September 26, 1980, 45 FR 63843 | See 40 CFR 52.220(c)(60).
Chapter 4—Air Quality Surveillance | Statewide | February 21, 1972 | May 31, 1972, 37 FR 10842 | Part of original SIP submittal. See 40 CFR 52.220(b).
Information (Non-regulatory) regarding air quality surveillance | Statewide | July 19, 1972 | September 22, 1972, 37 FR 19812; re-codified at 41 FR 8956 (March 2, 1976) | See 40 CFR 52.220(c)(7).
Air quality data | Statewide | April 10, 1972 | May 31, 1972, 37 FR 10842; re-codified at 41 FR 8956 (March 2, 1976) | See 40 CFR 52.220(c)(1).
Air quality data | Statewide | April 26, 1972 | May 31, 1972, 37 FR 10842; re-codified at 41 FR 8956 (March 2, 1976) | See 40 CFR 52.220(c)(4).
Air quality data | Statewide | May 5, 1972 | May 31, 1972, 37 FR 10842; re-codified at 41 FR 8956 (March 2, 1976) | See 40 CFR 52.220(c)(5).
Commitments by the Bay Area AQMD, Fresno County APCD, Kern County APCD, Monterey Bay Unified APCD, Sacramento County APCD, San Diego County APCD, Santa Barbara County APCD, South Coast AQMD, and Ventura County APCD to carry out public notification programs as required by section 127 of the Clean Air Act and in accordance with EPA guidance | Bay Area AQMD, Fresno County APCD, Kern County APCD, Monterey Bay Unified APCD, Sacramento County APCD, San Diego County APCD, Santa Barbara County APCD, South Coast AQMD, and Ventura County APCD | January 22, 1981 | January 22, 1982, 47 FR 3110 | See 40 CFR 52.220(c)(99).
Chapter 5—Ambient Air Quality Compared to Ambient Air Quality Standards | Statewide | February 21, 1972 | May 31, 1972, 37 FR 10842 | Part of original SIP submittal. See 40 CFR 52.220(b).
Chapter 6—Control Strategy and Its Effects | Statewide | February 21, 1972 | May 31, 1972, 37 FR 10842 | Part of original SIP submittal. See 40 CFR 52.220(b).
Report on status of regulations | Statewide | April 19, 1972 | May 31, 1972, 37 FR 10842; re-codified at 41 FR 8956 (March 2, 1976) | See 40 CFR 52.220(c)(2).
Chapter 8—Organization and Resources | Statewide | February 21, 1972 | May 31, 1972, 37 FR 10842 | Part of original SIP submittal. See 40 CFR 52.220(b).
County of Riverside, Board of Supervisors, Resolution No. 77-362, December 1977 | Southeast Desert Air Basin portion of Riverside County | August 11, 1980 | June 9, 1982, 47 FR 25013 | Revision to the California SIP that adds the Southeast Desert Air Basin portion of Riverside County into the South Coast AQMD. Effective December 1, 1977. See 40 CFR 52.220(c)(107).
South Coast AQMD Resolution 82-23 | Southeast Desert Air Basin portion of Los Angeles County | February 3, 1983 | November 18, 1983, 48 FR 52451 | Resolution to include the Southeast Desert Air Basin portion of Los Angeles County within South Coast AQMD jurisdiction. Adopted on July 9, 1982. See 40 CFR 52.220(c)(127)(vii)(A).
South Coast AQMD Resolution 82-35 | Southeast Desert Air Basin portion of Los Angeles County | February 3, 1983 | November 18, 1983, 48 FR 52451 | Resolution to adopt rules and regulations for the Southeast Desert Air Basin portion of Los Angeles County. Adopted on October 15, 1982. See 40 CFR 52.220(c)(127)(vii)(A).
Antelope Valley APCD, Resolution No. 97-01 dated July 1, 1997 | Antelope Valley portion of Los Angeles County | March 10, 1998 | December 31, 1998, 63 FR 72197 | The resolution is titled “A Resolution of the Governing Board of the Antelope Valley Air Pollution Control District Affirming the Rules and Regulations of the South Coast Air Quality Management District Until the Antelope Valley Air Pollution Control District Adopts New Rules and Regulations that Supersede Them.” See 40 CFR 52.220(c)(254)(i)(E)(1).
Chapter 20—Compliance | Statewide | December 29, 1978 | August 11, 1980, 45 FR 53136 | See 40 CFR 52.220(c)(46)(ii).
Chapter 22—Air Quality Monitoring by State and Local Air Monitoring Stations (SLAMS) | Statewide | December 31, 1979 | August 10, 1981, 46 FR 40512 | See 40 CFR 52.220(c)(90)(i).
Letter and attachments from James D. Boyd, Executive Officer, California Air Resources Board, to Felicia Marcus, Regional Administrator, EPA Region IX, November 10, 1993 | South Coast, Southeast Desert, Sacramento Metro, San Diego County, San Joaquin Valley and Ventura County 1-hour ozone nonattainment areas | November 10, 1993 | September 28, 2017, 82 FR 45191 | Photochemical Assessment Monitoring Stations (PAMS) SIP Revision. See 40 CFR 52.220(c)(495)(ii)(A)(1).
Chapter 23—Source Surveillance | Statewide | December 29, 1978 | August 11, 1980, 45 FR 53136 | See 40 CFR 52.220(c)(46)(iii).
Addendum to Chapter 23—Source Surveillance | Statewide | March 29, 1979 | August 11, 1980, 45 FR 53136 | See 40 CFR 52.220(c)(49).
Chapter 24—Resources | Statewide | December 29, 1978 | August 11, 1980, 45 FR 53136 | See 40 CFR 52.220(c)(46)(iv).
Chapter 25—Intergovernmental Relations | Statewide | December 29, 1978 | August 11, 1980, 45 FR 53136 | See 40 CFR 52.220(c)(46)(v).
Small Business Stationary Source Technical and Environmental Compliance Assistance Program | Statewide | November 13, 1992 | March 22, 1995, 60 FR 15061 | Program developed to address CAA section 507. Adopted by California Air Resources Board on October 15, 1992. See 40 CFR 52.220(c)(200)(i)(A).
Part XIII—Appendix I (Description of California Air Basins in 1968 (Federal Air Quality Control Regions) and Description of California Air Basins in 1971) | Statewide | February 21, 1972 | May 31, 1972, 37 FR 10842 | Part of original SIP submittal. See 40 CFR 52.220(b).
Part XIII—Appendix III (Local Air Pollution Control Officials in California) | Statewide | February 21, 1972 | May 31, 1972, 37 FR 10842 | Part of original SIP submittal. See 40 CFR 52.220(b).
Part XIII—Appendix IV (Emission Factors) | Statewide | February 21, 1972 | May 31, 1972, 37 FR 10842 | Part of original SIP submittal. See 40 CFR 52.220(b).
Part XIII—Appendix V (Methods for Estimating Control Requirements) | Statewide | February 21, 1972 | May 31, 1972, 37 FR 10842 | Part of original SIP submittal. See 40 CFR 52.220(b).
Infrastructure SIPs
Proposed State Implementation Plan Revision for Federal Lead Standard Infrastructure Requirements | Statewide | October 6, 2011 | April 1, 2016, 81 FR 18766 | Referred to as the 2011 Pb Infrastructure SIP. See 40 CFR 52.220(c)(466)(ii)(A)(2).
California Air Resources Board Resolution 11-28, dated September 22, 2011 | Statewide | October 6, 2011 | April 1, 2016, 81 FR 18766 | Resolution adopting the “Proposed State Implementation Plan Revision for Federal Lead Standard Infrastructure Requirements.” See 40 CFR 52.220(c)(466)(ii)(A)(1).
California Lead SIP | Statewide | November 19, 1979 | June 30, 1982, 47 FR 28374 | See 40 CFR 52.220(c)(78)(ii).
Amendments to “Chapter 27—California Lead Control Strategy” | Statewide | April 8, 1983 | November 28, 1983, 48 FR 53558 | See 40 CFR 52.220(c)(139).
Amendments to “Chapter 27—California Lead Control Strategy” | Statewide | February 22, 1984 | July 12, 1984, 49 FR 28406 | See 40 CFR 52.220(c)(152).
Proposed State Implementation Plan Revision for Federal Nitrogen Dioxide Standard Infrastructure Requirements | Statewide | December 12, 2012 | April 1, 2016, 81 FR 18766 | Referred to as the 2012 NO2 Infrastructure SIP. See 40 CFR 52.220(c)(467)(ii)(A)(2).
California Air Resources Board Resolution 12-34, dated November 15, 2012 | Statewide | December 12, 2012 | April 1, 2016, 81 FR 18766 | Resolution adopting the “Proposed State Implementation Plan Revision for Federal Nitrogen Dioxide Standard Infrastructure Requirements.” See 40 CFR 52.220(c)(467)(ii)(A)(1).
California Infrastructure State Implementation Plan (SIP) Revision, Clean Air Act Section 110(a)(2)(D) | Statewide | January 19, 2016 | December 19, 2018, 83 FR 65093 | Referred to as “California Transport Plan.” Adopted by California Air Resources Board on December 17, 2015. See 40 CFR 52.220(c)(512)(ii)(A)(1).
California Infrastructure SIP | Statewide | March 6, 2014 | April 1, 2016, 81 FR 18766 | Also referred to as the 2014 Multi-pollutant Infrastructure SIP. See 40 CFR 52.220(c)(468)(ii)(A)(2).
California Air Resources Board Resolution 14-1, dated January 23, 2014 | Statewide | March 6, 2014 | April 1, 2016, 81 FR 18766 | Resolution adopting the “California Infrastructure SIP.” See 40 CFR 52.220(c)(468)(ii)(A)(1).
California Infrastructure SIP Revision for the 0.070 parts per million Federal 8-Hour Ozone Standard, release date September 27, 2018, excluding Attachments 1, 3, and 4 | Statewide | October 1, 2018 | March 30, 2021, 86 FR 16533 | See 40 CFR 52.220(c)(551)(ii)(A)(1).
Interstate Transport State Implementation Plan (SIP) for the 1997 8-hour Ozone Standard and PM2.5 to satisfy the Requirements of Clean Air Act section 110(a)(2)(D)(i) for the State of California (September 21, 2007), as modified by Attachment A and submitted as Appendix C to the 2007 State Strategy (“2007 Transport SIP”), at page 5 (“Evaluation of Interference with Other States' Measures Required to Meet Regional Haze and Visibility SIP Requirements”) | Statewide | November 16, 2007 | June 14, 2011, 76 FR 34608 | See 40 CFR 52.220(c)(386)(ii)(A)(2).
California Air Resources Board Resolution 07-28, dated September 27, 2007 | Statewide | November 16, 2007 | June 14, 2011, 76 FR 34608 | Resolution adopting the “2007 State Implementation Plan for the 1997 ozone and PM2.5 National Ambient Air Quality Standards” (“2007 State Strategy”). See 40 CFR 52.220(c)(386)(ii)(A)(1).
2007 Transport SIP at pages 19-20 (Attachment A) (“Evaluation of Significant Contribution to Nonattainment or Interference with Maintenance of Attainment Standards in Another State”) | Statewide | November 16, 2007 | June 15, 2011, 76 FR 34872 | See 40 CFR 52.220(c)(386)(ii)(A)(3).
2007 Transport SIP at pages 21-22 (Attachment A) (“Evaluation of interference with Prevention of Significant Deterioration Measures of any other State”) | Statewide | November 16, 2007 | August 8, 2011, 76 FR 48002 | See 40 CFR 52.220(c)(386)(ii)(A)(4).
110(a)(2) Infrastructure SIP, submitted as Appendix B to the 2007 State Strategy, and “Legal Authority and Other Requirements,” submitted as Appendix G to the 2007 State Strategy | Statewide | November 16, 2007 | April 1, 2016, 81 FR 18766 | Collectively, these plans are referred to as “2007 Infrastructure SIP”. See 40 CFR 52.220(c)(386)(ii)(A)(5).
Regional Haze SIPs
California Regional Haze Plan 2014 Progress Report | Statewide | June 16, 2014 | April 1, 2015, 80 FR 17327 | Adopted by California Air Resources Board on May 22, 2014. See 40 CFR 52.220(c)(454)(ii)(A)(2).
California Air Resources Board Resolution 14-15, dated May 22, 2014 | Statewide | June 16, 2014 | April 1, 2015, 80 FR 17327 | Resolution approving the “California Regional Haze Plan 2014 Progress Report.” See 40 CFR 52.220(c)(454)(ii)(A)(1).
The “California Regional Haze Plan”, adopted on January 22, 2009, as amended and supplemented on September 8, 2009, in a letter from James N. Goldstene, California Air Resources Board to Laura Yoshii, EPA, and as amended and supplemented on June 9, 2010, in a letter from James N. Goldstene, California Air Resources Board to Jared Blumenfeld, EPA | Statewide | March 16, 2009 | June 14, 2011, 76 FR 34608 | Adopted by California Air Resources Board on January 22, 2009. See 40 CFR 52.220(c)(387)(ii)(A)(2).
California Air Resources Board Resolution 09-4, dated January 22, 2009 | Statewide | March 16, 2009 | June 14, 2011, 76 FR 34608 | Resolution adopting the “California Regional Haze Plan”. See 40 CFR 52.220(c)(387)(ii)(A)(1).
PSD-Related Materials
Letter dated December 16, 2014, from Larry R. Allen, San Luis Obispo County APCD, to Gerardo Rios, EPA Region 9 regarding clarifications of District Rule 220 and 40 CFR 51.166 | San Luis Obispo County Air Pollution Control District | December 16, 2014 | November 12, 2015, 80 FR 69880 | See 40 CFR 52.220(c)(441)(ii)(A)(1).
Letter dated November 25, 2014, from David Van Mullem, Santa Barbara County APCD, to Gerardo Rios, EPA Region 9, regarding clarifications of District Rule 810 and 40 CFR 51.166 | Santa Barbara County Air Pollution Control District | November 25, 2014 | November 12, 2015, 80 FR 69880 | See 40 CFR 52.220(c)(442)(ii)(A)(1).
Letter dated December 18, 2014, from Christopher D. Brown, Feather River AQMD, to Gerardo Rios, EPA Region 9, regarding clarifications of District Rule 10.10 and 40 CFR 51.166 | Feather River Air Quality Management District | December 18, 2014 | November 12, 2015, 80 FR 69880 | See 40 CFR 52.220(c)(429)(ii)(A)(1).
Letter dated November 13, 2014, from Theodore D. Schade, Great Basin Unified APCD, to Gerardo Rios, EPA Region 9, regarding clarifications of District Rule 221 and 40 CFR 51.166 | Great Basin Unified Air Pollution Control District | November 13, 2014 | November 12, 2015, 80 FR 69880 | See 40 CFR 52.220(c)(428)(ii)(A)(1).
Letter dated April 15, 2015, from Phillip L. Kiddoo, Great Basin Unified APCD, to Gerardo Rios, EPA Region 9, regarding additional clarifications of District Rule 221 and 40 CFR 51.166 | Great Basin Unified Air Pollution Control District | April 15, 2015 | November 12, 2015, 80 FR 69880 | See 40 CFR 52.220(c)(428)(ii)(A)(2).
Letter dated November 13, 2014, from W. James Wagoner, Butte County AQMD, to Gerardo Rios, EPA Region 9, regarding clarifications of District Rule 1107 and 40 CFR 51.166 | Butte County Air Quality Management District | November 13, 2014 | November 12, 2015, 80 FR 69880 | See 40 CFR 52.220(c)(428)(ii)(B)(1).
Letter dated April 8, 2015, from W. James Wagoner, Butte County AQMD, to Gerardo Rios, EPA Region 9, regarding additional clarifications of District Rule 1107 and 40 CFR 51.166 | Butte County Air Quality Management District | April 8, 2015 | November 12, 2015, 80 FR 69880 | See 40 CFR 52.220(c)(428)(ii)(B)(2).
Letter dated August 15, 2012, from Mohsen Nazemi, South Coast AQMD, to Gerardo Rios, EPA Region 9, regarding Clarifications for Rule 1714—Prevention of Significant Deterioration for Greenhouse Gases | South Coast Air Quality Management District | August 15, 2012 | December 10, 2012, 77 FR 73320 | See 40 CFR 52.220(c)(421)(ii)(A)(1).
Letter dated August 7, 2012, from Mat Ehrhardt, Yolo-Solano AQMD, to Gerardo Rios, EPA Region 9, regarding Clarifications of District Rule 210.4 and 40 CFR 51.166 | Yolo-Solano Air Quality Management District | August 7, 2012 | December 10, 2012, 77 FR 73316 | See 40 CFR 52.220(c)(420)(ii)(A)(1).
Letter dated July 19, 2012, from David L. Jones, Eastern Kern APCD, to Gerardo Rios, EPA Region 9, regarding Clarifications of District Rule 210.4 and 40 CFR 51.166 | Eastern Kern Air Pollution Control District | July 19, 2012 | December 10, 2012, 77 FR 73316 | See 40 CFR 52.220(c)(419)(ii)(A)(1).
Letter dated August 21, 2012, from David L. Jones, Eastern Kern APCD, to Gerardo Rios, EPA Region 9, regarding Clarifications of District Rule 210.4 and 40 CFR 52.21(k)(2) | Eastern Kern Air Pollution Control District | August 21, 2012 | December 10, 2012, 77 FR 73316 | See 40 CFR 52.220(c)(419)(ii)(A)(2).
Letter dated May 18, 2012, from David Warner, San Joaquin Valley Unified APCD, to Gerardo Rios, EPA Region 9, regarding Clarifications of District Rule 2410 and 40 CFR 51.166 | San Joaquin Valley Unified Air Pollution Control District | May 18, 2012 | October 26, 2012, 77 FR 65305 | See 40 CFR 52.220(c)(415)(ii)(A)(1).
Letter dated July 10, 2012, from Brad Poiriez, Imperial County APCD, to Gerardo Rios, EPA Region 9, regarding Clarifications of District Rule 904 and 40 CFR 51.166 | Imperial County Air Pollution Control District | July 10, 2012 | December 10, 2012, 77 FR 73316 | See 40 CFR 52.220(c)(411)(ii)(A)(1).
Letter dated August 21, 2012, from Brad Poiriez, Imperial County APCD, to Gerardo Rios, EPA Region 9, regarding Clarifications of District Rule 904 and 40 CFR 52.21(k)(2) | Imperial County Air Pollution Control District | August 21, 2012 | December 10, 2012, 77 FR 73316 | See 40 CFR 52.220(c)(411)(ii)(A)(2).
Letter dated July 6, 2012, from Thomas J. Christofk, Placer County APCD, to Gerardo Rios, EPA Region 9, regarding Clarifications of District Rule 518 and 40 CFR 51.166 | Placer County Air Pollution Control District | July 6, 2012 | December 10, 2012, 77 FR 73316 | See 40 CFR 52.220(c)(391)(ii)(A)(1).
Letter dated August 20, 2012, from Thomas Christofk, Placer County APCD, to Gerardo Rios, EPA Region 9, regarding Clarifications of District Rule 518 and 40 CFR 52.21(k)(2) | Placer County Air Pollution Control District | August 20, 2012 | December 10, 2012, 77 FR 73316 | See 40 CFR 52.220(c)(391)(ii)(A)(2).
Compliance Schedules
Compliance schedules | Source-Specific | December 27, 1973 | January 29, 1975, 40 FR 4267; re-codified at 41 FR 8956 (March 2, 1976) | See 40 CFR 52.220(c)(8).
Compliance schedules | Source-Specific | February 19, 1974 | January 29, 1975, 40 FR 4267; re-codified at 41 FR 8956 (March 2, 1976) | See 40 CFR 52.220(c)(9).
Compliance schedules | Source-Specific | April 22, 1974 | January 29, 1975, 40 FR 4267; re-codified at 41 FR 8956 (March 2, 1976) | See 40 CFR 52.220(c)(10).
Compliance schedules | Source-Specific | June 7, 1974 | January 29, 1975, 40 FR 4267; re-codified at 41 FR 8956 (March 2, 1976) | See 40 CFR 52.220(c)(11).
Compliance schedules | Source-Specific | June 19, 1974 | March 28, 1975, 40 FR 14069; re-codified at 41 FR 8956 (March 2, 1976) | See 40 CFR 52.220(c)(12).
Compliance schedules | Source-Specific | September 4, 1974 | March 28, 1975, 40 FR 14069; re-codified at 41 FR 8956 (March 2, 1976) | See 40 CFR 52.220(c)(13).
Compliance schedules | Source-Specific | September 19, 1974 | March 28, 1975, 40 FR 14069; re-codified at 41 FR 8956 (March 2, 1976) | See 40 CFR 52.220(c)(14).
Compliance schedules | Source-Specific | October 18, 1974 | March 28, 1975, 40 FR 14069; re-codified at 41 FR 8956 (March 2, 1976) | See 40 CFR 52.220(c)(15).
Compliance schedules | Source-Specific | December 4, 1974 | July 15, 1975, 40 FR 29712; re-codified at 41 FR 8956 (March 2, 1976) | See 40 CFR 52.220(c)(16).
Compliance schedules | Source-Specific | January 13, 1975 | July 15, 1975, 40 FR 29712; re-codified at 41 FR 8956 (March 2, 1976) | See 40 CFR 52.220(c)(17).

Table 2—1994 California Ozone Plan—State and Local Measures; Vehicle Inspection and Maintenance (I/M) Program SIPs; Gasoline and Diesel Fuel Provisions and Related Test Methods; Base Year Emission Inventory and VMT Offset Demonstration Ozone SIPs; Pesticide-Related SIPs; Multi-Area Ozone Plan Elements; and Multi-Area Carbon Monoxide Maintenance Plans
Name of SIP provision | Applicable geographic area | State submittal date | EPA approval date | Explanation
1994 California Ozone Plan—State and Local Measures
Long Term Measures, Improved Control Technology for Light-Duty Vehicles (Measure M2), Off-Road Industrial Equipment (Diesel), Consumer Products Long-Term Program (Measure CP4), and Additional Measures (Possible Market-Incentive Measures and Possible Operational Measures Applicable to Heavy-Duty Vehicles), as contained in “The California State Implementation Plan for Ozone, Volume II: The Air Resources Board's Mobile Source and Consumer Products Elements” | Statewide | November 15, 1994 | August 21, 1995, 60 FR 43379 | Adopted by California Air Resources Board on November 15, 1994. See 40 CFR 52.220(c)(204)(i)(A)(4).
Mid-Term Measures, Accelerated Ultra-Low Emission Vehicle (ULEV) requirement for Medium-Duty Vehicles (Measure M3), Heavy-Duty Vehicles NOX regulations (Measure M5), Heavy-Duty Gasoline Vehicles lower emission standards (Measure M8), Industrial Equipment, Gas & LPG-3-way catalyst technology (Measure M11), Mid-Term Consumer Products (Measure CP-2), as contained in The California State Implementation Plan for Ozone, Volume II: The Air Resources Board's Mobile Source and Consumer Products Elements | Statewide | November 15, 1994 | December 14, 1995, 60 FR 64126 | Adopted by California Air Resources Board on November 15, 1994. See 40 CFR 52.220(c)(204)(i)(A)(5).
State control measures: Accelerated Retirement of LDV's (Measure M1), Early Introduction of 2g/bhp-hr Heavy Duty Diesel Vehicles (Measure M4), Accelerated Retirement of Heavy-Duty Vehicles (Measure M7), Aerosol Paints (Measure CP3), and California Department of Pesticide Regulation's Pesticide Plan, as contained in “The California State Implementation Plan for Ozone, Volume II: The Air Resources Board's Mobile Source and Consumer Products Elements,” and tables of local agency control measures and revisions to local Rate-of-Progress plan elements as contained in “The California State Implementation Plan for Ozone, Volume IV: “Local Plans” | Statewide | November 15, 1994 | January 8, 1997, 62 FR 1150 | Adopted by California Air Resources Board on November 15, 1994. See 40 CFR 52.220(c)(204)(i)(A)(6).
Letter dated June 13, 1996, from James D. Boyd to David Howekamp, including “Corrections to State and Local Measures” (Attachment A) and “Summary Emission Reduction Spreadsheets” (Attachment C) | Los Angeles-South Coast Air Basin; Sacramento Metro; San Diego; San Joaquin Valley; Southeast Desert Modified AQMD; and Ventura County | June 13, 1996 | January 8, 1997, 62 FR 1150 | See 40 CFR 52.220(c)(236)(i)(A)(1).
California Air Resources Board Executive Order G-125-145, dated November 7, 1994 | Los Angeles-South Coast Air Basin; Sacramento Metro; San Diego; San Joaquin Valley; Southeast Desert Modified AQMD; and Ventura County | November 7, 1994 | August 27, 1999, 64 FR 46849 | Executive Order requesting opt-out of the Clean Air Act's Clean Fuel Fleet vehicle program requirement. See 40 CFR 52.220(c)(201)(i)(A)(1).
Vehicle Inspection and Maintenance (I/M) Program SIPs
California Smog Check Contingency Measure State Implementation Plan Revision | Coachella Valley, Eastern Kern County, Mariposa County, Sacramento Metro Area, San Diego County, San Joaquin Valley, South Coast Air Basin, Ventura County, Western Mojave Desert and Western Nevada County | November 13, 2023 | July 9, 2024, 89 FR 56222 | Adopted by CARB on October 26, 2023. Submitted electronically on November 13, 2023 as an attachment to a letter of the same date. See 40 CFR 52.220(c)(613)(ii)(A)(1).
California Smog Check Performance Standard Modeling and Program Certification for the 70 Parts Per Billion (ppb) 8-Hour Ozone Standard, excluding the San Diego County area portion | Coachella Valley, Eastern Kern, Mariposa County, Sacramento Metro, San Joaquin Valley, Los Angeles-South Coast Air Basin, Ventura County, West Mojave Desert and Western Nevada County | April 26, 2023 | August 30, 2024, 89 FR 70497 | Adopted by the California Air Resources Board on March 23, 2023. See 40 CFR 52.220(c)(611)(ii)(A)(2).
The San Diego County area portion of the “California Smog Check Performance Standard Modeling and Program Certification for the 70 Parts Per Billion (ppb) 8-Hour Ozone Standard” | San Diego County | April 26, 2023 | March 1, 2024, 89 FR 15035 | Adopted by the California Air Resources Board on March 23, 2023. See 40 CFR 52.220(c)(611)(ii)(A)(1).
Non-regulatory portion of the Revised State Implementation Plan for California's Motor Vehicle Inspection & Maintenance Program (April 7, 2009), excluding chapter 51.351 (except as it applies to the San Francisco Bay Area), chapter 51.352, and attachments 4 and 5 | Statewide | June 5, 2009 | July 1, 2010, 75 FR 38023 | See 40 CFR 52.220(c)(372)(ii)(A)(2).
California Air Resources Board Executive Order S-09-008, dated June 9, 2009 | Statewide | June 5, 2009 | July 1, 2010, 75 FR 38023 | Executive Order adopting the 2009 I/M Revision. See 40 CFR 52.220(c)(372)(ii)(A)(1).
Health and Safety Code (2009): Division 26, Part 1, Chapter 2, section 39032.5; Part 5, Chapter 5 (Motor Vehicle Inspection Program), Articles 1-9 | Statewide | June 5, 2009 | July 1, 2010, 75 FR 38023 | See 40 CFR 52.220(c)(372)(ii)(A)(3). Section 39032.5 of chapter 2 defines the term “Gross Polluters.” Articles 1 through 9 of chapter 5 include sections 44000-44005 (article 1); sections 44010-44025 (article 2); sections 44030-44045.6 (article 3); sections 44050-44059 (article 4); sections 44060-44063 (article 5); sections 44070-44071 (article 6); sections 44072-44072.11 (article 7); sections 44080-44086 (article 8); and sections 44090-44099 (article 9).
Business and Professions Code (2008): Division 3, Chapter 20.3 (Automotive Repair), Article 4, sections 9886, 9886.1, 9886.2, 9886.3, 9886.4 | Statewide | June 5, 2009 | July 1, 2010, 75 FR 38023 | See 40 CFR 52.220(c)(372)(ii)(A)(4).
Vehicle Code (2009): Division 3, Chapter 1 (Original and Renewal of Registration; Issuance of Certificates of Title), Article 1, sections 4000.1, 4000.2, 4000.3, 4000.6 | Statewide | June 5, 2009 | July 1, 2010, 75 FR 38023 | See 40 CFR 52.220(c)(372)(ii)(A)(5).
California I/M Program SIP Revision-Additional Enhanced I/M Performance Modeling, Tables of Results, excluding New Mobile 6 Input and Output Files and New Registration Distribution Files | Statewide | October 28, 2009 | July 1, 2010, 75 FR 38023 | See 40 CFR 52.220(c)(373)(ii)(A)(1).
Motor Vehicle Inspection and Maintenance Program adopted on January 22, 1996 | Statewide | January 22, 1996 | January 8, 1997, 62 FR 1150 | See 40 CFR 52.220(c)(234)(i)(A)(1).
Enabling legislation, Chapter 892, Statutes of 1982, (Senate Bill No. 33) for a California motor vehicle inspection and maintenance program and the California Air Resources Board's Executive Order G-125-15 | Statewide | September 17, 1982 | November 25, 1983, 48 FR 53114 | See 40 CFR 52.220(c)(133).
A schedule to implement the California motor vehicle inspection and maintenance (I/M) program, the California Air Resources Board's Executive Order G-125-33, and local resolutions and requests from the Bay Area AQMD, Sacramento County APCD, Placer County APCD, Yolo-Solano APCD, San Diego County APCD, South Coast AQMD and Ventura County APCD to have the State implement the I/M program | Statewide | July 26, 1983 | November 25, 1983, 48 FR 53114 | See 40 CFR 52.220(c)(134).
Gasoline and Diesel Fuel Provisions and Related Test Methods
California Air Resources Board Executive Order G-125-320, dated June 15, 2004 | Statewide | June 15, 2004 | May 12, 2010, 75 FR 26653 | Executive order adopting the 2004 RFG Revision. See 40 CFR 52.220(c)(374)(ii)(A)(1).
California Air Resources Board Executive Order S-09-001, dated February 3, 2009 | Statewide | February 3, 2009 | May 12, 2010, 75 FR 26653 | Executive order adopting the 2009 RFG Revision. See 40 CFR 52.220(c)(375)(ii)(A)(1).
California Air Resources Board Executive Order S-09-001, dated February 3, 2009 | Statewide | February 3, 2009 | May 12, 2010, 75 FR 26653 | Executive order adopting the 2009 Diesel Fuels Revision. See 40 CFR 52.220(c)(376)(ii)(A)(1).
Standard Test Method for Determination of Ethanol Content of Denatured Fuel Ethanol by Gas Chromatography, Designation: D 5501-94 (1998); Standard Test Method for Gum Content in Fuels by Jet Evaporation, Designation: D 381-00; Standard Test Method for Water Using Volumetric Karl Fischer Titration, Designation: E 203-96; Standard Test Method for Water in Organic Liquids by Coulometric Karl Fischer Titration, Designation: E 1064-00; Standard Test Methods for Chloride Ion In Water, Designation: D 512-89 (1999); Standard Test Methods for Copper in Water, Designation: D 1688-95; Standard Test Method for Acidity in Volatile Solvents and Chemical Intermediates Used in Paint, Varnish, Lacquer, and Related Products, Designation: D 1613-96 (1999); Standard Test Method for Determination of pHe of Ethanol, Denatured Fuel Ethanol, and Fuel Ethanol (Ed75-Ed85), Designation: D 6423-99 | Statewide | June 15, 2004 | May 12, 2010, 75 FR 26653 | See 40 CFR 52.220(c)(374)(ii)(A)(2)(i).
Standard Test Method for Determination of Total Sulfur in Light Hydrocarbons, Motor Fuels and Oils by Ultraviolet Fluorescence, Designation: D 5453-93 | Statewide | June 15, 2004 | May 12, 2010, 75 FR 26653 | See 40 CFR 52.220(c)(374)(ii)(A)(2)(ii).
Standard Test Method for Determination of MTBE, ETBE, TAME, DIPE, tertiary-Amyl Alcohol and C1 to C4 Alcohols in Gasoline by Gas Chromatography, Designation: D 4815-99; Standard Test Method for Distillation of Petroleum Products at Atmospheric Pressure, Designation: D 86-99a; Standard Test Method for Determination of Olefin Content of Gasolines by Supercritical-Fluid Chromatography, Designation: D 6550-00 | Statewide | June 15, 2004 | May 12, 2010, 75 FR 26653 | See 40 CFR 52.220(c)(374)(ii)(A)(2)(iii).
Base Year Emission Inventory and VMT Offset Demonstration Ozone SIPs
California Air Resources Board “70 ppb Ozone SIP Submittal,” section III, “VMT Offset Demonstration,” adopted on June 25, 2020 | Los Angeles—South Coast Air Basin, Riverside County (Coachella Valley), San Joaquin Valley | July 27, 2020 | November 6, 2023, 88 FR 76139 | VMT Offset Demonstrations for three areas designated as nonattainment areas for the 2015 ozone NAAQS. See 40 CFR 52.220(c)(589)(ii)(A)(2).
California Air Resources Board, “70 ppb Ozone SIP Submittal,” excluding section III, “VMT Offset Demonstration,” release date: May 22, 2020 | Amador County, Butte County, Calaveras County, Imperial County, Kern County (Eastern Kern), Los Angeles—San Bernardino Counties (West Mojave Desert), Los Angeles—South Coast Air Basin, Mariposa County, Nevada County (Western part), Riverside County (Coachella Valley), Sacramento Metro, San Francisco Bay Area, San Joaquin Valley, San Luis Obispo (Eastern part), Sutter Buttes, Tuolumne County, Tuscan Buttes, and Ventura County | July 27, 2020 | September 29, 2022, 87 FR 59015 | Base year emissions inventories for 18 areas designated as nonattainment areas for the 2015 ozone NAAQS. See 40 CFR 52.220(c)(589)(ii)(A)(1).
8-Hour Ozone State Implementation Plan Emission Inventory Submittal, excluding the tables of 2012 average summer daily emissions (tons per day) other than the tables for Chico (Butte County), San Luis Obispo County (Eastern San Luis Obispo), Calaveras County, and San Francisco Bay Area | Chico (Butte County), San Luis Obispo County (Eastern San Luis Obispo), Calaveras County, and San Francisco Bay Area | July 17, 2014 | October 19, 2016, 81 FR 71997 | See 40 CFR 52.220(c)(481)(ii)(A)(1).
1990 Base-Year Emission Inventory for Ozone Nonattainment Areas in California | Los Angeles-South Coast Air Basin; Sacramento Metro; San Diego; San Joaquin Valley; Southeast Desert Modified AQMA; and Ventura County | March 30, 1995 | January 8, 1997, 62 FR 1150 | California Statewide emission inventory adopted by California Air Resources Board. See 40 CFR 52.220(c)(213)(i)(A)(1)(i).
1990 Base-Year Emission Inventory for Ozone Nonattainment Areas in California | Santa Barbara County | March 30, 1995 | January 8, 1997, 62 FR 1187; re-codified at 62 FR 17083 (April 9, 1997) | California Statewide emission inventory adopted by California Air Resources Board. See 40 CFR 52.220(c)(213)(i)(A)(1)(ii).
1990 Base-Year Emission Inventory for Ozone Nonattainment Areas in California | Monterey Bay Area | March 30, 1995 | January 17, 1997, 62 FR 2597; re-codified at 62 FR 17083 (April 9, 1997) | California Statewide emission inventory adopted by California Air Resources Board. See 40 CFR 52.220(c)(213)(i)(A)(1)(iii).
Pesticide-Related SIPs
Decision, “In the Matter of Proposed Ozone SIP Commitment for the San Joaquin Valley,” signed by Mary-Ann Warmerdam, April 17, 2009, including Exhibit A, “Department of Pesticide Regulation Proposed SIP Commitment for San Joaquin Valley” | San Joaquin Valley | October 12, 2009 | October 26, 2012, 77 FR 65294 | Adopted by the California Department of Pesticide Regulation. See 40 CFR 52.220(c)(413)(ii)(A)(1).
Memorandum, Rosemary Neal, Ph.D., California Department of Pesticide Regulation to Randy Segawa, California Department of Pesticide Regulation, November 5, 2008; Subject: Update to the Pesticide Volatile Organic Inventory. Estimated Emissions 1990-2006, and Preliminary Estimates for 2007 | San Joaquin Valley | October 12, 2009 | October 26, 2012, 77 FR 65294 | Adopted by the California Department of Pesticide Regulation. See 40 CFR 52.220(c)(413)(ii)(A)(2).
Multi-Area Ozone Plan Elements
California Clean Fuels for Fleets Certification for the 70 ppb Ozone Standard | Riverside County (Coachella Valley), Sacramento Metro, San Joaquin Valley, Los Angeles—South Coast Air Basin (South Coast), Ventura County, and Los Angeles—San Bernardino Counties (West Mojave Desert) nonattainment areas | February 3, 2022 | May 25, 2023, 88 FR 33830 | Adopted by the California Air Resources Board on January 27, 2022. See 40 CFR 52.220(c)(597)(ii)(A)(1).
Multi-Area Carbon Monoxide Maintenance Plans
2004 Revision to the California State Implementation Plan for Carbon Monoxide, Updated Maintenance Plan for Ten Federal Planning Areas | Bakersfield Metropolitan Area, Chico Urbanized Area, Fresno Urbanized Area, Lake Tahoe North Shore Area, Lake Tahoe South Shore Area, Modesto Urbanized Area, Sacramento Urbanized Area, San Diego Area, San Francisco-Oakland-San Jose Area, and Stockton Urbanized Area | November 8, 2004 | November 30, 2005, 70 FR 71776 | Adopted by California Air Resources Board on July 22, 2004. See 40 CFR 52.220(c)(341)(i)(A)(1).
Carbon Monoxide Redesignation Request and Maintenance Plan for Ten Federal Planning Areas | Bakersfield Metropolitan Area, Chico Urbanized Area, Fresno Urbanized Area, Lake Tahoe North Shore, Lake Tahoe South Shore, Modesto Urbanized Area, Sacramento Area, San Diego Area, San Francisco-Oakland-San Jose Area, and Stockton Urbanized Area | July 3, 1996 | March 31, 1998, 63 FR 15305 | Adopted by California Air Resources Board on April 26, 1996. See 40 CFR 52.220(c)(253)(i)(A)(1).

Table 3—Great Basin Valleys, Mojave Desert and Salton Sea Air Basins
Name of SIP provision | Applicable geographic area | State submittal date | EPA approval date | Explanation
California Air Resources Board, Staff Report, “2020 Coachella Valley Vehicle Miles Traveled Emissions Offset Demonstration,” Release Date: January 22, 2021 | Coachella Valley | March 18, 2021 | January 21, 2025, 90 FR 6823 | Submitted electronically on March 18, 2021 as an attachment to a letter dated March 15, 2021. See 40 CFR 52.220(c)(624)(ii)(A)(1).
“South Coast Air Quality Management District, Final Coachella Valley Extreme Area Plan for the 1997 8-Hour Ozone Standard,” dated December 2020, the section titled “Reasonable Further Progress,” pages 6-1 through 6-7 | Coachella Valley | December 29, 2020 | January 21, 2025, 90 FR 6823 | Adopted by South Coast AQMD on December 4, 2020. Submitted electronically on December 29, 2020 as an attachment to a letter dated December 28, 2020. See 40 CFR 52.220(c)(614)(ii)(A)(2).
“South Coast Air Quality Management District, Final Coachella Valley Extreme Area Plan for the 1997 8-Hour Ozone Standard,” dated December 2020, except for the sections titled “Reasonable Further Progress” and “Supplemental RACT Demonstration,” pages 6-1 through 6-11 | Coachella Valley | December 29, 2020 | June 12, 2024, 89 FR 49815 | Adopted by South Coast AQMD on December 4, 2020. Submitted electronically on December 29, 2020 as an attachment to a letter dated December 28, 2020. See 40 CFR 52.220(c)(614)(ii)(A)(1).
Final 2016 Air Quality Management Plan (March 2017), Chapter 7 (“Current and Future Air Quality—Desert Nonattainment Areas”), excluding the portions of pages 7-13 to 7-22 regarding particulate matter and other criteria pollutants, and excluding the portions of pages 7-26 to 7-30 regarding reasonable further progress | Coachella Valley | April 27, 2017 | September 16, 2020, 85 FR 57714 | Adopted by South Coast AQMD on March 3, 2017. See 40 CFR 52.220(c)(517)(ii)(B)(6).
2018 Updates to the California State Implementation Plan, chapter VII (“SIP Elements for the Coachella Valley”), excluding section VII.D (“Contingency Measures”); and pages A-23 through A-26 of appendix A (“Nonattainment Area Inventories”) | Coachella Valley | December 11, 2018 | September 16, 2020, 85 FR 57714 | Adopted by California Air Resources Board on October 25, 2018. Submitted electronically on December 11, 2018 as an attachment to a letter dated December 5, 2018. See 40 CFR 52.220(c)(514)(ii)(A)(7).
California Air Resources Board, Staff Report, Proposed Updates to the 1997 8-Hour Ozone Standard, State Implementation Plans; Coachella Valley and Western Mojave Desert (excluding section III (pp. 8-12), Table A-2, Table B-2, Table C-2, the bottom row of Table E-1, Table E-3 and accompanying discussion of Western Mojave Desert ROG calculations on p. E-7, and Figure E-2 (regarding Western Mojave Desert); Table B-3 (regarding contingency measures); and Appendix D (regarding transportation conformity budgets)) | Coachella Valley | November 6, 2014 | June 12, 2017, 82 FR 26854 | Adopted by California Air Resources Board on October 24, 2014. See 40 CFR 52.220(c)(486)(ii)(A)(1).
Final South Coast 2007 Air Quality Management Plan, Chapter 8 (“Future Air Quality—Desert Nonattainment Areas”) (excluding pp. 8-14 to 8-17 (regarding transportation conformity budgets)) | Coachella Valley | November 28, 2007 | June 12, 2017, 82 FR 26854 | Adopted by South Coast AQMD on June 1, 2007. See 40 CFR 52.220(c)(398)(ii)(A)(4).
2003 Coachella Valley PM-10 State Implementation Plan: Baseline and projected emissions inventories in Tables 2-2, 2-3, 2-4, and 2-5; reasonable further progress in Tables 2-9 and 2-7; attainment demonstration in Chapter 3; and motor vehicle emissions budgets in “2003 Coachella Valley PM-10 SIP On-Road Motor Vehicle Emissions Budgets” | Coachella Valley planning area | January 9, 2004 | November 14, 2005, 70 FR 69081 | Adopted by South Coast AQMD on August 1, 2003, and by California Air Resources Board on October 23, 2003. See 40 CFR 52.220(c)(339)(i)(A)(2).
Baseline and projected emissions inventories, South Coast AQMD commitment to adopt and implement control measures, reasonable further progress, contingency measures, attainment demonstration, PM-10 attainment date extension, and motor vehicle emissions budgets, as contained in Chapters 3, 4, 5, 6 and 8 of the 2002 Coachella Valley PM-10 SIP adopted by South Coast AQMD on June 21, 2002, and the 2002 Coachella Valley PM-10 SIP Addendum (Appendix E) adopted by South Coast AQMD on September 13, 2002 | Coachella Valley planning area | November 18, 2002 | April 18, 2003, 68 FR 19318 | See 40 CFR 52.220(c)(309)(i)(A)(2).
South Coast AQMD commitment to adopt and implement control measures, as contained in the Coachella Request for Redesignation and Maintenance Plan for PM-10 | Coachella Valley planning area | February 5, 1997 | April 18, 2003, 68 FR 19318 | See 40 CFR 52.220(c)(247)(i)(A)(5).
Coso Junction PM-10 Planning Area Second 10-Year Maintenance Plan | Coso Junction planning area | October 21, 2021 | July 13, 2023, 88 FR 44707; corrected at 88 FR 54899 (August 14, 2023) | Submitted on October 21, 2021 by CARB as an attachment to a letter dated October 20, 2021. Adopted by Great Basin Unified APCD on September 23, 2021. See 40 CFR 52.220(c)(603)(ii)(A)(1).
Non-regulatory portions of “The 2010 PM-10 Maintenance Plan and Redesignation Request for the Coso Junction Planning Area” (the 2010 Plan), including Appendices A, B, and D | Coso Junction planning area | July 14, 2010 | September 3, 2010, 75 FR 54031 | Adopted by Great Basin Unified APCD on May 17, 2010. See 40 CFR 52.220(c)(380)(ii)(A)(1).
Letter dated June 10, 2010 from Theodore D. Schade, Great Basin Unified APCD, to Deborah Jordan, EPA Region 9, regarding Coso Junction PM-10 Contingency Measures | Coso Junction planning area | June 10, 2010 | September 3, 2010, 75 FR 54031 | See 40 CFR 52.220(c)(380)(ii)(A)(2).
Great Basin Unified APCD Board Resolution 2010-01, dated May 17, 2010 | Coso Junction planning area | July 14, 2010 | September 3, 2010, 75 FR 54031 | Resolution adopting the 2010 Plan. See 40 CFR 52.220(c)(380)(ii)(A)(3).
California Air Resources Board Resolution 10-25, dated June 24, 2010 | Coso Junction planning area | July 14, 2010 | September 3, 2010, 75 FR 54031 | Resolution adopting the 2010 Plan. See 40 CFR 52.220(c)(380)(ii)(B)(1).
2018 Updates to the California State Implementation Plan, adopted on October 25, 2018, chapter IV (“SIP Elements for Eastern Kern County”); and pages A-11 through A-14 of appendix A (“Nonattainment Area Inventories”), only | Eastern Kern | December 11, 2018 | June 25, 2021, 86 FR 33528 | Adopted by California Air Resources Board on October 25, 2018. Submitted electronically on December 11, 2018 as an attachment to a letter dated December 5, 2018. See 40 CFR 52.220(c)(514)(ii)(A)(8).
2017 Ozone Attainment Plan For 2008 Federal 75 ppb 8-Hour Ozone Standard, adopted on July 27, 2017, excluding chapter XI (“Reasonably Available Control Measures Demonstration”) and chapter XIII (“Attainment Demonstration”) | Eastern Kern | October 25, 2017 | June 25, 2021, 86 FR 33528 | See 40 CFR 52.220(c)(560)(ii)(A)(1).
Transportation Conformity Budget State Implementation Plan Update for the Eastern Kern 2017 Ozone Attainment Plan, release date: June 19, 2020 | Eastern Kern | August 31, 2020 | June 25, 2021, 86 FR 33528 | Submitted on August 31, 2020 as an attachment to a letter dated August 25, 2020. See 40 CFR 52.220(c)(561)(ii)(A)(1).
Reasonable Available Control Technology (RACT) State Implementation Plan (SIP) for the 2008 Ozone National Ambient Air Quality Standards (NAAQS) except the portion addressing the Negative Declaration for the Oil and Natural Gas CTG | Eastern Kern | August 9, 2017 | November 4, 2021, 86 FR 60771 | Adopted by Eastern Kern APCD on May 11, 2017. See 40 CFR 52.220(c)(503)(ii)(A)(2).
Reasonably Available Control Technology (RACT) State Implementation Plan (SIP) for the 2008 Ozone National Ambient Air Quality Standards—Negative Declaration for Oil and Natural Gas CTG only | Eastern Kern | August 9, 2017 | January 15, 2021, 86 FR 3816 | Adopted by Eastern Kern APCD on May 11, 2017. See 40 CFR 52.220(c)(503)(ii)(A)(1).
Commitments for the installation and operation of a FRM or FEM PM-10 monitor and SIP development and submittal | East Kern | February 29, 2008 | November 12, 2008, 73 FR 66759 | See 40 CFR 52.220(c)(357)(i)(A).
Kern County APCD Resolution No. 2008-001-02, February 27, 2008 | East Kern | February 29, 2008 | November 12, 2008, 73 FR 66759 | See 40 CFR 52.220(c)(357)(i)(A)(1).
California Air Resources Board Executive Order S-08-004, March 3, 2008 | East Kern | February 29, 2008 | November 12, 2008, 73 FR 66759 | See 40 CFR 52.220(c)(357)(i)(A)(2).
East Kern County Ozone Attainment Demonstration, Maintenance Plan and Redesignation Request: Chapter 5—“Regional Forecast,” including emissions inventory summary (Table 5-1) and motor vehicle emissions budgets (Table 5-2); Chapter 6—“Emission Control Measures,” including contingency measures (Table 6-1); and Appendix B—“Emission Inventories” | East Kern County | December 9, 2003 | April 22, 2004, 69 FR 21731 | Adopted by Kern County APCD on May 1, 2003. See 40 CFR 52.220(c)(322)(i)(A)(1).
Emissions inventory, 15% Rate-of-Progress plan, Post-1996 Rate-of-Progress plan, modeling, and ozone attainment demonstration, as contained in “Rate-of-Progress and Attainment Demonstration Plans for the Kern County Air Pollution Control District” | East Kern portion of San Joaquin Valley ozone nonattainment area | December 28, 1994 | January 8, 1997; 62 FR 1150; corrected at 84 FR 45422 (August 29, 2019) | Adopted by Kern County APCD on December 1, 1994. EPA inadvertently failed to list the 15% ROP and Post-1996 ROP plan approvals in our 1997 final rule. They were added in 2019. See 40 CFR 52.220(c)(205)(i)(A)(1).
Part XI—Great Basin Valleys Air Basin | Great Basin Valleys Air Basin | February 21, 1972 | May 31, 1972, 37 FR 10842 | Part of original SIP submittal. See 40 CFR 52.220(b).
Imperial County 2018 Redesignation Request and Maintenance Plan for Particulate Matter Less Than 10 Microns in Diameter, excluding appendix B (“Executed Settlement Agreement”) and appendix F (“Regulation VIII Fugitive Dust Rules”) | Imperial Valley planning area | February 13, 2019 | September 18, 2020, 85 FR 58286 | Adopted by Imperial County APCD on adopted October 23, 2018. See 40 CFR 52.220(c)(541)(ii)(A)(1).
The Certification of the Nonattainment New Source Review Permit Program for Imperial County Applicable to the 2015 Ozone National Ambient Air Quality Standard | Imperial County | August 3, 2021 | August 15, 2023, 88 FR 55377 | Adopted by the Imperial County Air Pollution Control District on June 22, 2021. Submitted on August 3, 2021, as an attachment to a letter of the same date. See 40 CFR 52.220(c)(591)(ii)(D)(1).
Imperial County 2017 State Implementation Plan for the 2008 8-Hour Ozone Standard, except Chapter 7 (“Reasonably Available Control Technology 21 Assessment”) and Appendix B (“Reasonably Available Control Technology Analysis for the 2017 Imperial County State Implementation Plan for the 2008 8-Hour Ozone Standard”) | Imperial County | November 14, 2017 | February 27, 2020, 85 FR 11817 | Adopted by Imperial County APCD on adopted September 12, 2017. See 40 CFR 52.220(c)(530)(ii)(A)(3).
2018 Updates to the California State Implementation Plan, Chapter II (“SIP Elements for Imperial County”) and pages A-3 through A-6 of Appendix A (“Nonattainment Area Inventories”), only | Imperial County | December 11, 2018 | February 27, 2020, 85 FR 11817 | Adopted by California Air Resources Board on October 25, 2018. Submitted electronically on December 11, 2018 as an attachment to a letter dated December 5, 2018. See 40 CFR 52.220(c)(514)(ii)(A)(5).
Imperial County 2017 State Implementation Plan for the 2008 8-Hour Ozone Standard, Chapter 7 (“Reasonably Available Control Technology Assessment”) | Imperial County | November 14, 2017 | February 13, 2020, 85 FR 8181 | Adopted by Imperial County APCD on adopted September 12, 2017. See 40 CFR 52.220(c)(530)(ii)(A)(1).
Imperial County 2017 State Implementation Plan for the 2008 8-Hour Ozone Standard, Appendix B (“Reasonably Available Control Technology Analysis for the 2017 Imperial County State Implementation Plan for the 2008 8-Hour Ozone Standard”) | Imperial County | November 14, 2017 | February 13, 2020, 85 FR 8181 | Adopted by Imperial County APCD on adopted September 12, 2017. See 40 CFR 52.220(c)(530)(ii)(A)(2).
Imperial County 2013 State Implementation Plan for the 2006 24-Hour PM2.5 Moderate Nonattainment Area, Chapter 3 (“Emissions Inventory”) excluding: Section 3.4.1 (“Determination of Significant Sources of PM2.5 Precursors”); Section 3.4.2 (“Determination of Significant Sources of PM2.5”); the 2011 and 2012 winter and annual average inventories in Table 3.1 (“PM2.5 Emissions Inventory by Major Source Category 2008, 2011 and 2012 Winter and Annual Planning Emissions Inventories”); the 2011 and 2012 winter and annual average inventories in Table 3.7 (“NOX Emissions Inventory by Major Source Category 2008, 2011 and 2012 Winter and Annual Planning Emissions Inventories”); the 2011 and 2012 winter and annual average inventories in Table 3.8 (“VOCs Emissions Inventory by Major Source Category 2008, 2011 and 2012 Winter and Annual Planning Emissions Inventories”); the 2011 and 2012 winter and annual average inventories in Table 3.9 (“SOX Emissions Inventory by Major Source Category 2008, 2011 and 2012 Winter and Annual Planning Emissions Inventories”); and the 2011 and 2012 winter and annual average inventories in Table 3.10 (“Ammonia Emissions Inventory by Major Source Category 2008, 2011 and 2012 Winter and Annual Planning Emissions Inventories”) | Imperial County 2006 PM2.5 nonattainment area | January 9, 2015 | March 13, 2017, 82 FR 13392; corrected on May 30, 2017, 82 FR 24527 | Adopted by Imperial County APCD on December 2, 2014. See 40 CFR 52.220(c)(484)(ii)(A)(1).
Final 2009 Reasonably Available Control Technology State Implementation Plan | Imperial County | December 21, 2010 | November 12, 2015, 80 FR 69876 | Adopted by Imperial County APCD on adopted on July 13, 2010. See 40 CFR 52.220(c)(464)(ii)(A)(1) and 40 CFR 52.222(a)(12)(i).
California Air Resources Board Resolution No. 10-35, November 18, 2010 | Imperial County | December 21, 2010 | October 23, 2014, 79 FR 63332 | See 40 CFR 52.220(c)(445)(ii)(A)(1).
Imperial County Air Pollution Control Board, Minute Order No. 15, July 13, 2010 | Imperial County | December 21, 2010 | October 23, 2014, 79 FR 63332 | See 40 CFR 52.220(c)(445)(ii)(B)(1).
Chapter 4-Emission Inventory, in “Imperial County 2009 1997 8-Hour Ozone Modified Air Quality Management Plan” | Imperial County | December 21, 2010 | October 23, 2014, 79 FR 63332 | Adopted by Imperial County APCD on July 13, 2010. See 40 CFR 52.220(c)(445)(ii)(B)(2).
Summary of Plan Compliance with Clean Air Act Requirements | Imperial County | October 11, 1979 | November 10, 1980, 45 FR 74480 | See 40 CFR 52.220(c)(55)(i).
Imperial County plan to attain National Ambient Air Quality Standards for oxidants, October 31, 1978 | Imperial County | October 11, 1979 | November 10, 1980, 45 FR 74480 | See 40 CFR 52.220(c)(55)(ii).
SIP Revision-Imperial County ARB Staff Report, No. 79-4-2 | Imperial County | October 11, 1979 | November 10, 1980, 45 FR 74480 | See 40 CFR 52.220(c)(55)(iii).
California Air Resources Board Resolution 79-9, February 21, 1979 | Imperial County | October 11, 1979 | November 10, 1980, 45 FR 74480 | See 40 CFR 52.220(c)(55)(iv).
Copies of Board hearing testimony | Imperial County | October 11, 1979 | November 10, 1980, 45 FR 74480 | See 40 CFR 52.220(c)(55)(v).
Indian Wells Valley Second 10-Year PM10 Maintenance Plan | Indian Wells Valley planning area | July 30, 2020 | January 18, 2023, 88 FR 2839 | Adopted by the Eastern Kern APCD on June 5, 2020. Submitted on July 30, 2020 as an attachment to a letter dated July 23, 2020. See 40 CFR 52.220(c)(594)(ii)(A)(1).
PM-10 (Respirable Dust) Attainment Demonstration, Maintenance Plan, and Redesignation Request (excluding pages 4-1, 4-2, 6-1, 6-2, Appendix A, and pages D-12 through D-37 of Appendix D) | Indian Wells Valley planning area | December 5, 2002 | May 7, 2003, 68 FR 24368 | Adopted by Kern County APCD on September 5, 2002. See 40 CFR 52.220(c)(306)(i)(A)(1).
California Air Resources Board Executive Order G-125-295, December 4, 2002 | Indian Wells Valley planning area | December 5, 2002 | May 7, 2003, 68 FR 24368 | See 40 CFR 52.220(c)(306)(i)(B)(1).
2014 Air Quality Maintenance Plan and Redesignation Request for the Town of Mammoth Lakes | Mammoth Lakes planning area | October 21, 2014 | October 5, 2015, 80 FR 60049 | Adopted by Great Basin Unified APCD on May 5, 2014. See 40 CFR 52.220(c)(462)(ii)(A)(1).
Great Basin Unified APCD Board Order #140505-03, May 5, 2014 | Mammoth Lakes planning area | October 21, 2014 | October 5, 2015, 80 FR 60049 | Board Order adopting the Mammoth Lakes PM-10 Maintenance Plan. See 40 CFR 52.220(c)(462)(ii)(A)(2).
California Air Resources Board Resolution 14-27, September 18, 2014 | Mammoth Lakes planning area | October 21, 2014 | October 5, 2015, 80 FR 60049 | Resolution adopting the redesignation request and Mammoth Lakes PM-10 Maintenance Plan. See 40 CFR 52.220(c)(462)(ii)(B)(1).
Air Quality Management Plan for the Mammoth Lakes PM-10 Planning Area | Mammoth Lakes planning area | September 11, 1991 | June 24, 1996, 61 FR 32341 | Adopted by Great Basin Unified APCD on December 12, 1990. See 40 CFR 52.220(c)(226)(i)(A)(1).
Revisions to the Air Quality Management Plan for Mammoth Lakes PM-10 Planning Area | Mammoth Lakes planning area | January 9, 1992 | June 24, 1996, 61 FR 32341 | Adopted by Great Basin Unified APCD on November 6, 1991. See 40 CFR 52.220(c)(228)(i)(A)(1).
2016 Owens Valley Planning Area PM10 State Implementation Plan, excluding all of the following: Section 10.1 (“Proposed Rule 433”); Appendix I-1 (“2006 Settlement Agreement”); Appendix II-1 (“2014 Stipulated Judgement”); Appendices D (“2008 GBUAPCD Board Order No. 080128-01”), E (“2013 GBUAPCD Board Order No. 130916-01”), and F (“GBUAPCD Fugitive Dust Rules (400, 401, 402)”) of Appendix V-1 (“Owens Valley Planning Area 2016 State Implementation Plan BACM Assessment”); Appendix VI-2 (“Owens Lake Dust Mitigation Program Phase 9/10 Project—Final Environmental Impact Report (May 2015)”); and Appendix X-1 (“Proposed Rule 433”) | Owens Valley planning area | June 9, 2016 | March 13, 2017, 82 FR 13390 | Adopted by the Great Basin Unified APCD on April 13, 2016. See 40 CFR 52.220(c)(483)(ii)(A)(1).
Owens Valley PM-10 Planning Area Demonstration of Attainment State Implementation Plan, Section 7-4, Commitment to adopt 2003 SIP Revision and Section 8-2, the Board Order adopted on November 16, 1998 with Exhibit 1 | Owens Valley planning area | December 10, 1998 | September 3, 1999, 64 FR 48305 | See 40 CFR 52.220(c)(267)(ii)(A)(1).
The Southeast Desert Air Basin Control Strategy for ozone | Southeast Desert Air Basin | February 15, 1980 | June 9, 1982, 47 FR 25013 | This plan is chapter 19 of the Comprehensive Revisions to the State of California Implementation Plan for the Attainment and Maintenance of the Ambient Air Quality Standards. The portions of the Southeast Desert Air Basin Control Strategy identified in Table 19-1 (Summary of Plan Compliance with Clean Air Act Requirements), except those which pertain to Imperial County, comprise the plan. The remaining portions are for informational purposes only. See 40 CFR 52.220(c)(106).
Part XII—Southeast Desert Air Basin | Southeast Desert Air Basin | February 21, 1972 | May 31, 1972, 37 FR 10842 | Part of original SIP submittal. See 40 CFR 52.220(b).
Control measures, emissions inventory, modeling, and ozone attainment demonstration, as contained in “Rate-of-Progress and Attainment Demonstration Plans for the Mojave Desert” | Southeast Desert Modified AQMA Area | November 15, 1994 | January 8, 1997, 62 FR 1150 | Adopted by Mojave Desert AQMD on October 26, 1994. See 40 CFR 52.220(c)(204)(i)(F)(1).
Antelope Valley Air Quality Management District Federal Negative Declaration for Resin Manufacturing and Antelope Valley Air Quality Management District Federal Negative Declaration for Surfactant Manufacturing | Southeast Desert Modified AQMA Area—Los Angeles County portion | July 19, 2004 | September 21, 2004, 69 FR 56355 | Adopted on March 16, 2004. See 40 CFR 52.222(a)(6)(vi).
Antelope Valley Air Quality Management District Federal Negative Declaration for Metal Container, Closure and Coil Coating Operations and Antelope Valley Air Quality Management District Federal Negative Declaration for Magnet Wire Coating Operations | Southeast Desert Modified AQMA Area—Los Angeles County portion | June 3, 2004 | September 21, 2004, 69 FR 56355 | Adopted on February 17, 2004. See 40 CFR 52.222(a)(6)(v).
Antelope Valley Air Pollution Control District, Federal Negative Declaration for Rule 1103—Pharmaceuticals and Cosmetics Manufacturing Operations | Southeast Desert Modified AQMA Area—Los Angeles County portion | March 28, 2000 | November 3, 2000, 65 FR 66175 | Adopted on January 18, 2000. See 40 CFR 52.222(a)(6)(iv).
Antelope Valley Air Pollution Control District, Federal Negative Declaration for Rule 1106—Marine Coating Operations | Southeast Desert Modified AQMA Area—Los Angeles County portion | June 23, 1998 | May 17, 2000, 65 FR 31267 | Adopted on January 20, 1998. See 40 CFR 52.222(a)(6)(iii).
Resolution No. 98-03, A Resolution of the Governing Board of the Antelope Valley Air Pollution Control District Making Findings, Certifying the Notice of Exemption, Rescinding Rule 1142—Marine Tank Vessel Operations, Adopting a Federal Negative Declaration for Marine Tank Vessel Operations and Directing Staff Actions | Southeast Desert Modified AQMA Area—Los Angeles County portion | June 23, 1998 | May 17, 2000, 65 FR 31267 | Adopted on January 20, 1998. See 40 CFR 52.222(a)(6)(iii).
Antelope Valley Air Pollution Control District, Federal Negative Declaration for Rule 1148—Thermally Enhanced Oil Recovery Wells | Southeast Desert Modified AQMA Area—Los Angeles County portion | June 23, 1998 | May 17, 2000, 65 FR 31267 | Adopted on January 20, 1998. See 40 CFR 52.222(a)(6)(iii).
Antelope Valley Air Pollution Control District, Federal Negative Declaration for Rule 1123—Refinery Process Turnarounds | Southeast Desert Modified AQMA Area—Los Angeles County portion | February 16, 1999 | May 17, 2000, 65 FR 31267 | Adopted on November 18, 1997. See 40 CFR 52.222(a)(6)(ii).
Antelope Valley Air Pollution Control District, Federal Negative Declaration for Rule 1115—Motor Vehicle Assembly Line Coating Operations | Southeast Desert Modified AQMA Area—Los Angeles County portion | January 12, 1999 | May 17, 2000, 65 FR 31267 | Adopted on November 18, 1997. See 40 CFR 52.222(a)(6)(i).
Antelope Valley Air Pollution Control District, Federal Negative Declaration for Rule 1159—Nitric Acid Units—Oxides of Nitrogen | Southeast Desert Modified AQMA Area—Los Angeles County portion | March 28, 2000 | November 3, 2000, 65 FR 66175 | Adopted on January 18, 2000. See 40 CFR 52.222(b)(4)(iii).
Antelope Valley Air Pollution Control District, Federal Negative Declaration for Rule 1117—Emissions of Oxides of Nitrogen from Glass Melting Furnaces | Southeast Desert Modified AQMA Area—Los Angeles County portion | July 23, 1999 | May 17, 2000, 65 FR 31267 | Adopted on March 16, 1999. See 40 CFR 52.222(b)(4)(ii).
Antelope Valley Air Pollution Control District, Federal Negative Declaration for Rule 1112—Emissions of Oxides of Nitrogen from Cement Kilns | Southeast Desert Modified AQMA Area—Los Angeles County portion | July 23, 1999 | May 17, 2000, 65 FR 31267 | Adopted on March 16, 1999. See 40 CFR 52.222(b)(4)(ii).
Antelope Valley Air Pollution Control District, Federal Negative Declaration for Rule 1109—Emissions of Oxides of Nitrogen from Boilers and Process Heaters In Petroleum Refineries | Southeast Desert Modified AQMA Area—Los Angeles County portion | May 13, 1999 | May 17, 2000, 65 FR 31267 | Adopted on April 21, 1998. See 40 CFR 52.222(b)(4)(i).
Federal Negative Declaration for Eight Post-Enactment CTG Categories | Southeast Desert Modified AQMA Area—San Bernardino County portion | August 7, 1995 | November 1, 1996, 61 FR 56474 | Negative declarations for Synthetic Organic Chemical Manufacturing Industry (SOCMI) Distillation, SOCMI Reactors, SOCMI Batch Processing, Offset Lithography, Industrial Wastewater, Plastic Parts Coating (Business Machines), Plastic Parts Coating (Other), and Ship Building adopted by the Mojave Desert AQMD on June 28, 1995. See 40 CFR 52.222(a)(1)(iv).
Negative Declaration for Vacuum Producing Devices or Systems | Southeast Desert Modified AQMA Area—San Bernardino County portion | December 29, 1994 | September 11, 1995, 60 FR 47074 | Adopted by Mojave Desert AQMD on December 21, 1994 through Resolution 94-38. See 40 CFR 52.222(a)(1)(iii).
Negative Declaration for Asphalt Air Blowing | Southeast Desert Modified AQMA Area—San Bernardino County portion | December 20, 1994 | September 11, 1995, 60 FR 47074 | Adopted by Mojave Desert AQMD on October 26, 1994 in Resolution 94-26. See 40 CFR 52.222(a)(1)(ii).
Negative declaration for Natural Gas/Gasoline Processing Equipment | Southeast Desert Modified AQMA Area—San Bernardino County portion | July 13, 1994 | September 11, 1995, 60 FR 47074 | Negative declaration is contained in a letter from Charles L. Fryxell, Air Pollution Control Officer, Mojave Desert AQMD to Ron Friesen, Assistant Chief, California Air Resources Board, dated May 25, 1994. Adopted by Mojave Desert AQMD on May 25, 1994. See 40 CFR 52.222(a)(1)(i).
Negative declaration for Chemical Processing and Manufacturing | Southeast Desert Modified AQMA Area—San Bernardino County portion | July 13, 1994 | September 11, 1995, 60 FR 47074 | Negative declaration is contained in a letter from Charles L. Fryxell, Air Pollution Control Officer, Mojave Desert AQMD to Ron Friesen, Assistant Chief, California Air Resources Board, dated May 25, 1994. Adopted by Mojave Desert AQMD on May 25, 1994. See 40 CFR 52.222(a)(1)(i).
West Mojave Desert Vehicle-Miles Traveled Offset Demonstration | West Mojave Desert | December 29, 2020 | November 6, 2023, 88 FR 76139 | Adopted by California Air Resources Board on October 22, 2020. Submitted electronically on December 29, 2020 as an attachment to a letter dated December 28, 2020. See 40 CFR 52.220(c)(605)(ii)(A)(1).
2018 Updates to the California State Implementation Plan, adopted on October 25, 2018, chapter VI (“SIP Elements for the Western Mojave Desert”), excluding section VI.D (“Contingency Measures”); and pages A-19 through A-22 of Appendix A (“Nonattainment Area Inventories”). | West Mojave Desert | December 11, 2018 | September 27, 2021, 86 FR 53223; corrected at 86 FR 57586 (October 18, 2021) | Adopted by California Air Resources Board on October 25, 2018. Submitted electronically on December 11, 2018 as an attachment to a letter dated December 5, 2018. See 40 CFR 52.220(c)(514)(ii)(A)(9).
CARB Review of the Mojave Desert AQMD and Antelope Valley AQMD Federal 75 ppb Ozone Attainment Plans for the Western Mojave Desert Nonattainment Area, released April 21, 2017, excluding section V.D (“Contingency Measures”) | West Mojave Desert | June 2, 2017 | September 27, 2021, 86 FR 53223; corrected at 86 FR 57586 (October 18, 2021) | See 40 CFR 52.220(c)(563)(ii)(A)(1).
California Air Resources Board, Staff Report, Proposed Updates to the 1997 8-Hour Ozone Standard, State Implementation Plans; Coachella Valley and Western Mojave Desert: “Reasonable Further Progress Demonstration Update,” at p. 10 (excluding those portions that pertain to reasonable further progress targets after 2011); Table A-2 (excluding pp. A-10 through A-12, and those portions that pertain to reasonable further progress targets after 2011); Table C-2 (excluding those portions that pertain to reasonable further progress targets after 2011) | Western Mojave Desert | November 6, 2014 | June 23, 2017, 82 FR 28560 | Adopted by California Air Resources Board on October 24, 2014. See 40 CFR 52.220(c)(486)(ii)(A)(2).
Emission Statement Certification | West Mojave Desert—Los Angeles County portion | August 3, 2020 | July 29, 2022, 87 FR 45657 | Adopted by Antelope Valley AQMD on July 21, 2020. See 40 CFR 52.220(c)(574)(ii)(A)(1).
AVAQMD Federal 75 ppb Ozone Attainment Plan (Western Mojave Desert Nonattainment Area), adopted on March 21, 2017, except the following portions: Chapter 2 -Emission Inventories; “Contingency Measures” (page 18); “Reasonable Further Progress Requirements,” including Table 3 (pages 18-20); “Conformity Budgets” (page 21); “Transportation Conformity,” including Table 4 (pages 21-23); Appendix A—Base Year Emission Inventory; and Appendix B—Future Year Emission Inventories | West Mojave Desert—Los Angeles County portion | June 2, 2017 | September 27, 2021, 86 FR 53223; corrected at 86 FR 57586 (October 18, 2021) | See 40 CFR 52.220(c)(563)(ii)(B)(1).
Federal Negative Declaration for Control Techniques Guidelines (CTG) for the Oil and Natural Gas Industry Source Category | West Mojave Desert—Los Angeles County portion | May 1, 2020 | January 15, 2021, 86 FR 3816 | Adopted by the Antelope Valley AQMD on January 21, 2020. Submitted on May 1, 2020 as an attachment to a letter dated April 30, 2020. See 40 CFR 52.220(c)(549)(ii)(A)(1).
Nonattainment New Source Review (NNSR) Compliance Demonstrations for the 2008 Ozone National Ambient Air Quality Standard (NAAQS) | West Mojave Desert—Los Angeles County portion | August 31, 2018 | December 3, 2019, 84 FR 66074 | Adopted by the Antelope Valley AQMD on July 17, 2018. See 40 CFR 52.220(c)(528)(ii)(A)(1).
8-Hour Reasonably Available Control Technology—State Implementation Plan Analysis (RACT SIP Analysis), July 2015 | West Mojave Desert—Los Angeles County portion | October 23, 2015 | October 10, 2017, 82 FR 46923 | Adopted by the Antelope Valley AQMD on adopted on July 21, 2015. See 40 CFR 52.220(c)(493)(ii)(A)(1).
Antelope Valley Air Quality Management District Federal Negative Declaration (8 hr Ozone Standard) for Twenty CTG Source Categories | West Mojave Desert—Los Angeles County portion | October 23, 2015 | October 10, 2017, 82 FR 46923 | Adopted on adopted on July 21, 2015. See 40 CFR 52.220(c)(493)(ii)(A)(2) and 40 CFR 52.222(a)(6)(x).
Antelope Valley Air Quality Management District Federal Negative Declaration (8-hour Ozone Standards) for Seven Control Techniques Guideline Source Categories | West Mojave Desert—Los Angeles County portion | June 7, 2017 | October 10, 2017, 82 FR 46923 | Adopted on December 20, 2016. See 40 CFR 52.220(c)(494)(ii)(A)(1) and 40 CFR 52.222(a)(6)(xi) and (xiii).
8-Hour Reasonably Available Control Technology—State Implementation Plan Analysis (RACT SIP Analysis), August 2006 | Western Mojave Desert—Los Angeles County portion | January 31, 2007 | October 10, 2017, 82 FR 46923 | Adopted by the Antelope Valley AQMD on adopted on September 19, 2006. See 40 CFR 52.220(c)(358)(ii)(A)(1).
Antelope Valley Air Quality Management District Federal Negative Declaration for Petroleum Coke Calcining Operations | Western Mojave Desert—Los Angeles County portion | June 20, 2011 | March 1, 2012, 77 FR 12491 | Adopted on January 18, 2011. See 40 CFR 52.222(a)(6)(ix).
Antelope Valley Air Quality Management District Federal Negative Declaration (8-hr Ozone Standard) for Three Source Categories | Western Mojave Desert—Los Angeles County portion | January 7, 2011 | July 1, 2011, 76 FR 38572 | Adopted on October 19, 2010. See 40 CFR 52.222(a)(6)(viii).
Antelope Valley Air Quality Management District Federal Negative Declaration (8 hr Ozone Standard) for Fifty-One CTG Categories | Western Mojave Desert—Los Angeles County portion | January 31, 2007 | July 1, 2011, 76 FR 38572 | Adopted on September 19, 2006. See 40 CFR 52.222(a)(6)(vii).
70 ppb Ozone Standard Implementation Evaluation: RACT SIP Analysis; Federal Negative Declarations; and Emission Statement Certification—Negative Declaration for Oil and Natural Gas CTG | West Mojave Desert—San Bernardino County portion | December 20, 2019 | November 4, 2024, 89 FR 87505 | Adopted by Mojave Desert AQMD on October 28, 2019. See 40 CFR 52.222(a)(1)(x).
Emission Statement Certification | West Mojave Desert—San Bernardino County portion | December 20, 2019 | July 29, 2022, 87 FR 45657 | Adopted by Mojave Desert AQMD on October 28, 2019. See 40 CFR 52.220(c)(578)(ii)(A)(1).
MDAQMD Federal 75 ppb Ozone Attainment Plan (Western Mojave Desert Nonattainment Area), adopted on February 27, 2017, except the following portions: Chapter 2 -Emission Inventories; “Contingency Measures” (page 20); “Reasonable Further Progress Requirements,” including Table 3 (pages 20-22); “Conformity Budgets” (page 23); “Transportation Conformity,” including Table 4 (pages 23-25); Appendix A—Base Year Emission Inventory; and Appendix B—Future Year Emission Inventories | West Mojave Desert—San Bernardino County portion | June 2, 2017 | September 27, 2021, 86 FR 53223; corrected at 86 FR 57586 (October 18, 2021) | See 40 CFR 52.220(c)(563)(ii)(C)(1).
Federal Negative Declaration (8 hr Ozone Standard) for Two Control Technologies Guidelines Source Categories | West Mojave Desert—San Bernardino County portion | July 16, 2018 | February 27, 2020, 85 FR 11812 | Adopted by Mojave Desert AQMD on April 23, 2018. See 40 CFR 52.220(c)(519)(ii)(A)(1) and 40 CFR 52.222(a)(1)(viii).
Federal Negative Declaration (8 hr Ozone Standard) for One Control Technologies Guidelines Source Category | West Mojave Desert—San Bernardino County portion | December 7, 2018 | February 27, 2020, 85 FR 11812 | Adopted by Mojave Desert AQMD on October 22, 2018. See 40 CFR 52.220(c)(531)(ii)(A)(1) and 40 CFR 52.222(a)(1)(ix).
8-Hour Reasonably Available Control Technology—State Implementation Plan Analysis (RACT SIP Analysis), February 2015 | West Mojave Desert—San Bernardino County portion | September 9, 2015 | February 12, 2018, 83 FR 5921 | Adopted by Mojave Desert AQMD on February 23, 2015. See 40 CFR 52.220(c)(499)(ii)(A)(1).
Mojave Desert Air Quality Management District Federal Negative Declaration (8 hr Ozone Standard) for Nineteen CTG Categories | West Mojave Desert—San Bernardino County portion | September 9, 2015 | February 12, 2018, 83 FR 5921 | Adopted on February 23, 2015. See 40 CFR 52.220(c)(499)(ii)(A)(2) and 40 CFR 52.222(a)(1)(vii).
8-Hour Reasonably Available Control Technology—State Implementation Plan Analysis (RACT SIP Analysis), August 2006 | Western Mojave Desert—San Bernardino County portion | July 11, 2007 | February 12, 2018, 83 FR 5921 | Adopted by Mojave Desert AQMD on January 22, 2007. See 40 CFR 52.220(c)(382)(ii)(E)(1).
Mojave Desert Air Quality Management District Federal Negative Declaration (8 hr Ozone Standard) for Three Source Categories | Western Mojave Desert—San Bernardino County portion | October 22, 2010 | May 20, 2011, 76 FR 29153 | Adopted on August 23, 2010. See 40 CFR 52.222(a)(1)(vi).
Mojave Desert Air Quality Management District Federal Negative Declaration (8 hr Ozone Standard) for Forty-Four CTG Categories | Western Mojave Desert—San Bernardino County portion | July 11, 2007 | May 20, 2011, 76 FR 29153 | Adopted on January 22, 2007. See 40 CFR 52.222(a)(1)(v).

Table 4—Lake County, Lake Tahoe, Mountain Counties, North Coast, Northeast Plateau and Sacramento Valley Air Basins
Name of SIP provision | Applicable geographic area | State submittal date | EPA approval date | Explanation
The Sacramento Valley Air Basin Control Strategy: those portions pertaining to Butte, Yuba, and Sutter Counties | Butte, Yuba, and Sutter Counties | November 13, 1979 | May 3, 1982, 47 FR 18854 | This plan is chapter 13 of the Comprehensive Revisions to the State of California Implementation Plan for the Attainment and Maintenance of Ambient Air Quality Standards. See 40 CFR 52.220(c)(91)(ii).
Chico, CA/Butte County PM2.5 Nonattainment Area Redesignation Request and Maintenance Plan | Chico (Butte County) | December 18, 2017 | July 11, 2018, 83 FR 32064 | Adopted by Butte County AQMD on October 26, 2017. See 40 CFR 52.220(c)(506)(ii)(A)(1).
Chico Nonattainment Area (Partial Butte County) 2011 Daily Winter-Time Emissions Inventory (Base Year 2005—Grown and Controlled in Tons Per Day) | Chico (Butte County) | November 15, 2012 | March 14, 2014, 79 FR 14404; corrected at 79 FR 25014 (May 2, 2014) | See 40 CFR 52.220(c)(435)(ii)(A)(1).
Request for Exemption of the Ozone Emergency Episode Plan | Lake County | June 25, 2020 | March 30, 2021, 86 FR 16533 | Adopted by the Lake County Air Quality Management District on April 7, 2020. Submitted on June 25, 2020 as an attachment to a letter dated June 16, 2020. See 40 CFR 52.220(c)(552)(ii)(A)(1).
The 1982 CO Air Quality Plan for the Lake Tahoe Air Basin | Lake Tahoe Air Basin | December 20, 1982 | February 24, 1984, 49 FR 6897 | See 40 CFR 52.220(c)(141).
Lake Tahoe Basin Control Strategy, including Support Documents and Appendices | Lake Tahoe Air Basin | August 21, 1979 | June 23, 1982, 47 FR 27065 | This plan is chapter 9 of the “Comprehensive Revisions to the State of California Implementation Plan for the Attainment and Maintenance of the Ambient Air Quality Standards.” The Transportation Improvement Program and Regional Transportation Plan are for informational purposes only. See 40 CFR 52.220(c)(80)(ii).
Negative Declaration for the Control Techniques Guidelines for the Oil and Natural Gas Industry Source Category | Mariposa County | May 1, 2020 | January 15, 2021, 86 FR 3816 | Adopted by Mariposa County APCD on March 10, 2020. Submitted on May 1, 2020 as an attachment to a letter dated April 30, 2020. See 40 CFR 52.220(c)(549)(ii)(B)(1).
The Mountain Counties Air Basin Control Strategy for ozone | Mountain Counties Air Basin | April 3, 1981 | July 7, 1982, 47 FR 29536 | This plan is chapter 9 of the “Comprehensive Revisions to the State of California Implementation Plan for the Attainment and Maintenance of the Ambient Air Quality Standards.” See 40 CFR 52.220(c)(120).
Part II—North Coast Air Basin | North Coast Air Basin | February 21, 1972 | May 31, 1972, 37 FR 10842 | Part of original SIP submittal. See 40 CFR 52.220(b).
Part VIII—Northeast Plateau Air Basin | Northeast Plateau Air Basin | February 21, 1972 | May 31, 1972, 37 FR 10842 | Part of original SIP submittal. See 40 CFR 52.220(b).
Portola Fine Particulate Matter (PM2.5) Attainment Plan, subchapter VI.B (“Contingency Measure”), as supplemented and revised October 26, 2020 | Plumas County PM2.5 nonattainment area (Portola) | February 28, 2017 | March 3, 2021, 86 FR 12263 | Adopted by Northern Sierra AQMD on January 23, 2017. See 40 CFR 52.220(c)(500)(ii)(A)(2).
Portola Fine Particulate Matter (PM2.5) Attainment Plan, excluding subchapter V.G (“Demonstrating Attainment of the 24-hour Standard”), subchapter VI.B (“Contingency Measure”), and appendices | Plumas County PM2.5 nonattainment area (Portola) | February 28, 2017 | March 25, 2019, 84 FR 11208 | Adopted by Northern Sierra AQMD on January 23, 2017. See 40 CFR 52.220(c)(500)(ii)(A)(1).
California Air Resources Board Resolution 17-28, “Supplemental Transportation Conformity Emissions Budgets for the Portola Fine Particulate Matter (PM2.5) Attainment Plan,” October 26, 2017, excluding the 2022 conformity budget | Plumas County PM2.5 nonattainment area (Portola) | December 20, 2017 | March 25, 2019, 84 FR 11208 | Adopted on October 26, 2017. See 40 CFR 52.220(c)(515)(ii)(A)(1).
California Air Resources Board, Resolution 20-26, “Proposed Portola PM2.5 Plan Contingency Measure State Implementation Plan Submittal” | Plumas County PM2.5 nonattainment area (Portola) | December 29, 2020 | March 3, 2021, 86 FR 12263 | Adopted November 19, 2020. Submitted on December 29, 2020 as an attachment to a letter dated December 28, 2020. See 40 CFR 52.220(c)(553)(ii)(A)(1).
Northern Sierra Air Quality Management District Resolution 2020-09 | Plumas County PM2.5 nonattainment area (Portola) | December 29, 2020 | March 3, 2021, 86 FR 12263 | Adopted October 26, 2020. Submitted on December 29, 2020 as an attachment to a letter dated December 28, 2020. See 40 CFR 52.220(c)(553)(ii)(B)(1).
Emissions Statements Certification for the 2015 Ozone NAAQS | Sacramento County | August 3, 2020 | July 29, 2022, 87 FR 45657 | Adopted by Sacramento Metropolitan AQMD on July 23, 2020. See 40 CFR 52.220(c)(574)(ii)(B)(1).
Rule 421, “Mandatory Episodic Curtailment of Wood and Other Solid Fuel Burning,” Financial Hardship Exemption Decision Tree, dated December 12, 2007 | Sacramento County | September 21, 2012 | March 16, 2015, 80 FR 13495 | See 40 CFR 52.220(c)(423)(ii)(A)(1).
Second 10-Year PM10 Maintenance Plan for Sacramento County | Sacramento County | October 21, 2021 | March 14, 2024, 89 FR 18548 | Adopted by Sacramento Metropolitan AQMD on September 23, 2021. Submitted on October 21, 2021, as an attainment to a letter dated October 20, 2021. See 40 CFR 52.220(c)(603)(ii)(B)(1).
PM-10 Implementation/Maintenance Plan and Redesignation Request for Sacramento County, including motor vehicle emissions budgets (MVEBs) and attainment year emission inventory | Sacramento County | December 7, 2010 | September 26, 2013, 78 FR 59261 | Adopted by Sacramento Metropolitan AQMD on October 28, 2010. See 40 CFR 52.220(c)(431)(ii)(A)(1).
Sacramento Metropolitan AQMD Resolution Number 2010-046, dated October 28, 2010 | Sacramento County | December 7, 2010 | September 26, 2013, 78 FR 59261 | Resolution for adoption of Sacramento Metropolitan AQMD PM-10 Implementation/Maintenance Plan and Redesignation Request for Sacramento County, including attainment year emissions inventory and MVEBs for 2012 and 2022. See 40 CFR 52.220(c)(431)(ii)(A)(2).
California Air Resources Board Resolution Number 10-37, dated November 18, 2010 | Sacramento County | December 7, 2010 | September 26, 2013, 78 FR 59261 | Resolution for adoption and submittal of the PM-10 Implementation/Maintenance Plan and Redesignation Request for Sacramento County, including attainment year emissions inventory and MVEBs for 2012 and 2022. See 40 CFR 52.220(c)(431)(ii)(B)(1).
Sacramento Regional 2008 NAAQS 8-Hour Ozone Attainment and Reasonable Further Progress Plan, dated July 24, 2017, excluding the following portions: subchapter 7.9, “Contingency Measures”; subchapter 10.5, “Proposed New Motor Vehicle Emissions Budgets”; and chapter 12 (regarding reasonable further progress) | Sacramento Metro | December 18, 2017 | October 22, 2021, 86 FR 58581 | See 40 CFR 52.220(c)(566)(ii)(A)(1).
2018 Updates to the California State Implementation Plan, adopted on October 25, 2018, chapter V (“SIP Elements for the Sacramento Metropolitan Area”), excluding section V.D (“Contingency Measures”); and pages A-15 through A-18 of Appendix A (“Nonattainment Area Inventories”) | Sacramento Metro | December 11, 2018 | October 22, 2021, 86 FR 58581 | Submitted on December 11, 2018 as an attachment to a letter dated December 5, 2018. See 40 CFR 52.220(c)(514)(ii)(A)(10).
Sacramento Regional Nonattainment Area 8-Hour Ozone Rate-of-Progress Plan, Final Draft, December 2005 | Sacramento Metro | February 24, 2006 | January 29, 2015, 80 FR 4795 | See 40 CFR 52.220(c)(450)(ii)(A)(1).
Sacramento Regional 8-Hour Ozone Attainment and Reasonable Further Progress Plan (With Errata Sheets Incorporated), March 26, 2009 (Reasonable further progress demonstration and related contingency demonstration for milestone year 2011 as presented in chapter 13 (“Reasonable Further Progress Demonstrations”) only) | Sacramento Metro | April 17, 2009 | January 29, 2015, 80 FR 4795 | See 40 CFR 52.220(c)(451)(ii)(A)(1).
Sacramento Regional 8-Hour Ozone Attainment and Reasonable Further Progress Plan (2013 SIP Revisions), September 26, 2013, including appendices | Sacramento Metro | December 31, 2013 | January 29, 2015, 80 FR 4795 | See 40 CFR 52.220(c)(452)(ii)(A)(1).
Supplemental information, titled “Sacramento Federal Ozone Nonattainment Area, July 24, 2014,” for Appendix F-1 (“Vehicle Miles Traveled Offset Demonstration”) of the Sacramento Regional 8-Hour Ozone Attainment and Reasonable Further Progress Plan (2013 SIP Revisions) | Sacramento Metro | December 31, 2013 | January 29, 2015, 80 FR 4795 | See 40 CFR 52.220(c)(452)(ii)(A)(2).
Emissions inventory, Post-1996 Rate-of-Progress plan, modeling, and ozone attainment demonstration, as contained in “Sacramento Area Attainment and Rate-of-Progress Plans” | Sacramento Metro | December 29, 1994 | January 8, 1997, 62 FR 1150 | Adopted by Sacramento Metropolitan AQMD on December 1, 1994; by Feather River AQMD on December 12, 1994; by El Dorado County APCD on December 13, 1994; by Yolo-Solano APCD on December 14, 1994; and by Placer County APCD on December 20, 1994. See 40 CFR 52.220(c)(233)(i)(B)(1).
Reasonably Available Control Technology (RACT) State Implementation Plan (SIP) Update, Analysis Staff Report | Sacramento Metro—El Dorado County portion | January 4, 2017 | December 31, 2018, 83 FR 67696 | Adopted by El Dorado County AQMD on January 3, 2017. See 40 CFR 52.220(c)(513)(ii)(A)(1) and 40 CFR 52.222(a)(7)(iv).
El Dorado County AQMD, Resolution No. 002-2017, January 3, 2017 | Sacramento Metro—El Dorado County portion | January 4, 2017 | December 31, 2018, 83 FR 67696 | Resolution approving 2008 RACT SIP Update Analysis. See 40 CFR 52.220(c)(513)(ii)(A)(2).
El Dorado County AQMD, Resolutions No. 177-2012, 178-2012 and 179-2012, December 11, 2012 | Sacramento Metro—El Dorado County portion | September 30, 2013 | January 14, 2014, 79 FR 2375 | Negative declarations for three CTG source categories. See 40 CFR 52.222(a)(7)(ii).
El Dorado County Air Quality Management District Reasonably Available Control Technology (RACT) State Implementation Plan (SIP) Update Analysis Staff Report (“2006 RACT SIP”) | Sacramento Metro—El Dorado County portion | July 11, 2007 | March 13, 2014, 79 FR 14176 | Adopted by El Dorado County AQMD on February 6, 2007. See 40 CFR 52.220(c)(382)(ii)(A)(1). This plan included negative declarations—see 79 FR 21849 (April 18, 2014) and 40 CFR 52.222(a)(7)(iii).
Negative Declaration of the Board of Directors of the El Dorado County APCD, April 3, 2001 | Sacramento Metro—El Dorado County portion | May 23, 2001 | August 27, 2001, 66 FR 44974 | Negative declaration for Bulk Terminal Facilities or External or Internal Floating Roof Tank Sources. See 40 CFR 52.222(a)(7)(i).
Negative Declaration for the Control Techniques Guidelines for the Oil and Natural Gas Industry Source Category | Sacramento Metro—Placer County portion | January 23, 2020 | January 15, 2021, 86 FR 3816 | Adopted by Placer County APCD on December 12, 2019. Submitted on January 23, 2020 as an attachment to a letter dated January 21, 2020. See 40 CFR 52.220(c)(548)(ii)(A)(1).
2014 Reasonably Available Control Technology State Implementation Plan Analysis | Sacramento Metro—Placer County portion | July 18, 2014 | August 15, 2017, 82 FR 38604 | Adopted by Placer County APCD on April 10, 2014. See 40 CFR 52.220(c)(449)(ii)(B)(1).
2006 Reasonably Available Control Technology State Implementation Plan Update Analysis | Sacramento Metro—Placer County portion | July 11, 2007 | August 15, 2017, 82 FR 38604 | Adopted by Placer County APCD on August 10, 2006. See 40 CFR 52.220(c)(382)(ii)(D)(1).
Placer County APCD, Negative Declaration for 16 Source Categories | Sacramento Metro—Placer County portion | April 14, 2014 | August 19, 2014, 79 FR 48995 | Placer County APCD adopted the negative declaration on February 13, 2014. The negative declaration was submitted as Enclosure A to California Air Resources Board Executive Order No. S-14-005, April 14, 2014. See 40 CFR 52.222(a)(4)(ii) and (iii).
Before the Board of Directors, Placer County Air Pollution Control District, State of California, Resolution No. 97-33 | Sacramento Metro—Placer County portion | February 25, 1998 | September 23, 1998, 63 FR 50766 | Negative declarations for Aerospace Coatings; Industrial Waste Water Treatment; Plastic Parts Coating: Business Machines; Plastic Parts Coating: Other; Shipbuilding and Repair; Synthetic Organic Chemical Manufacturing, Batch Plants; and Synthetic Organic Chemical Manufacturing, Reactors adopted on October 9, 1997. See 40 CFR 52.222(a)(4)(i).
Before the Board of Directors, Placer County Air Pollution Control District, State of California, Resolution No. 97-34 | Sacramento Metro—Placer County portion | February 25, 1998 | September 23, 1998, 63 FR 50766 | Negative Declaration for Nitric and Adipic Acid Manufacturing Plants, Utility Boilers, Cement Manufacturing Plants, Glass Manufacturing Plants, and Iron and Steel Manufacturing Plants adopted on October 9, 1997. See 40 CFR 52.222(b)(3)(i).
State Implementation Plan Submittal: Reasonably Available Control Technology (RACT) Permits for Major Stationary Sources of Nitrogen Oxides | Sacramento Metro—Sacramento County portion | April 11, 2024 | September 25, 2024, 89 FR 78255 | Addresses the RACT requirement for the 2008 ozone NAAQS. Adopted by Sacramento Metropolitan AQMD on February 26, 2024. See 40 CFR 52.220(c)(617)(ii)(A)(1).
The Reasonably Available Control Technology (RACT) determination for non-CTG major sources of NOX as contained in the RACT State Implementation Plan (SIP) for the 2008 8-Hour Ozone National Ambient Air Quality Standards (NAAQS) (“Demonstration of Reasonably Available Control Technology for the 2008 Ozone NAAQS”) | Sacramento Metro—Sacramento County portion | May 5, 2017 | September 25, 2024, 89 FR 78255 | Addresses the RACT requirement for the 2008 ozone NAAQS. Adopted by Sacramento Metropolitan AQMD on March 23, 2017. See 40 CFR 52.220(c)(599)(ii)(A)(2).
Demonstration of Reasonably Available Control Technology for the 2008 Ozone NAAQS (RACT SIP), except the RACT determination for non-CTG major sources of NOX | Sacramento Metro—Sacramento County portion | May 5, 2017 | June 30, 2023, 88 FR 42248 | Addresses the RACT requirement for the 2008 ozone NAAQS. Adopted by Sacramento Metropolitan AQMD on March 23, 2017. See 40 CFR 52.220(c)(599)(ii)(A)(1).
Negative Declaration for “Control Techniques Guidelines for Miscellaneous Metal and Plastic Parts Coatings,” EPA-453/R-08-003, September 2008 (Pleasure Craft Coating Portion Only) | Sacramento Metro—Sacramento County portion | June 11, 2018 | November 19, 2020, 85 FR 73640 | Adopted by Sacramento Metropolitan AQMD on March 22, 2018. See 40 CFR 52.220(c)(543)(ii)(A)(1).
Reasonably Available Control Technology (RACT) as Applicable to the 8-Hour Ozone Standard, dated October 26, 2006, excluding the RACT determinations for: (i) Pharmaceutical Products Manufacturing Source Category; (ii) Kiefer Landfill (RACT for volatile organic compounds) | Sacramento Metro—Sacramento County portion | July 11, 2007 | August 12, 2016, 81 FR 53280 | Adopted by Sacramento Metropolitan AQMD on October 26, 2006. See 40 CFR 52.220(c)(382)(ii)(C)(1) and 40 CFR 52.222(a)(2)(iv).
Reasonably Available Control Technology (RACT) Update as Applicable to the 8-Hour Ozone Standard, dated October 23, 2008 | Sacramento Metro—Sacramento County portion | January 21, 2009 | August 12, 2016, 81 FR 53280 | Adopted by Sacramento Metropolitan AQMD on October 23, 2008. See 40 CFR 52.220(c)(475)(ii)(A)(1) and 40 CFR 52.222(a)(2)(iv).
Negative Declaration, Automobile and Light-Duty Truck Assembly Coatings; and Negative Declaration, Fiberglass Boat Manufacturing Materials | Sacramento Metro—Sacramento County portion | July 12, 2012 | October 17, 2012, 77 FR 63743 | Negative declarations adopted by Sacramento Metropolitan AQMD on March 22, 2012. See 40 CFR 52.222(a)(2)(iii).
Negative Declaration, Coating Operations at Aerospace Manufacturing and Rework Operations | Sacramento Metro—Sacramento County portion | January 12, 2012 | April 18, 2012, 77 FR 23130 | Adopted by Sacramento Metropolitan AQMD on October 27, 2011. See 40 CFR 52.222(a)(2)(ii).
Negative Declaration [FCAAA Sec. 182(b)], Sacramento Metropolitan Air Quality Management District | Sacramento Metro—Sacramento County portion | June 6, 1996 | July 31, 1997, 62 FR 40934 | Negative declaration for Plastic Parts Coating: Business Machines and Plastic Parts Coating: Other adopted by the Sacramento Metropolitan AQMD on May 2, 1996. See 40 CFR 52.222(a)(2)(i).
Negative Declaration [FCAAA Sec. 182(f)], Sacramento Metropolitan Air Quality Management District | Sacramento Metro—Sacramento County portion | March 4, 1996 | November 1, 1996, 61 FR 56472 | Negative declaration for Nitric and Adipic Acid Manufacturing Plants, Utility Boilers, Cement Manufacturing Plants, Glass Manufacturing Plants, and Iron and Steel Manufacturing Plants adopted by the Sacramento Metropolitan AQMD on August 3, 1995. See 40 CFR 52.222(b)(1)(i).
The RACT determination for non-CTG major sources of NOX as contained in the Reasonably Available Control Technology (RACT) State Implementation Plan (SIP) for the 2008 8-Hour Ozone National Ambient Air Quality Standards (NAAQS) (“Reasonably Available Control Technology (RACT) State Implementation Plan (SIP) Analysis” | Sacramento Metro—Solano and Yolo Counties portion | November 13, 2017 | March 14, 2024, 89 FR 18546 | Addresses the RACT requirement for the 2008 ozone NAAQS. Adopted by Yolo-Solano AQMD on September 13, 2017. See 40 CFR 52.220(c)(505)(ii)(A)(3).
Reasonably Available Control Technology (RACT) State Implementation Plan (SIP) Analysis, except the RACT determination for non-CTG major sources of NOX | Sacramento Metro—Solano and Yolo Counties portion | November 13, 2017 | June 30, 2023, 88 FR 42252 | Addresses the RACT requirement for the 2008 ozone NAAQS. Adopted by Yolo-Solano AQMD on September 13, 2017. See 40 CFR 52.220(c)(505)(ii)(A)(2).
2015 Federal Ozone Standard Emissions Statement Certification for the Yolo-Solano Air Quality Management District | Sacramento Metro—Solano and Yolo Counties portion | November 2, 2020 | July 29, 2022, 87 FR 45657 | Adopted by Yolo-Solano AQMD on September 9, 2020. See 40 CFR 52.220(c)(580)(ii)(A)(1).
Certification that Yolo-Solano's Existing NNSR Program meets the 2008 Ozone NAAQS SIP Requirements Rule | Sacramento Metro—Solano and Yolo Counties portion | June 19, 2018 | December 13, 2018, 83 FR 64026 | Adopted by Yolo-Solano AQMD on March 14, 2018. See 40 CFR 52.220(c)(511)(ii)(B)(1).
Reasonably Available Control Technology (RACT) State Implementation Plan (SIP) Analysis: “Table 3—CTG Categories for Which YSAQMD Will Adopt a Negative Declaration” | Sacramento Metro—Solano and Yolo Counties portion | November 13, 2017 | July 3, 2018, 83 FR 31072 | Adopted by Yolo-Solano AQMD on September 13, 2017. See 40 CFR 52.220(c)(505)(ii)(A)(1) and 40 CFR 52.222(a)(14)(ii).
Yolo-Solano AQMD Resolution No. 18-01: Adoption of Four Negative Declarations | Sacramento Metro—Solano and Yolo Counties portion | February 22, 2018 | April 6, 2018, 83 FR 14754 | Adopted by Yolo-Solano AQMD on January 10, 2018. See 40 CFR 52.220(c)(501)(ii)(A)(1) and 40 CFR 52.222(a)(14)(i).
Reasonably Available Control Technology (RACT) State Implementation Plan (SIP) | Sacramento Metro—Solano and Yolo Counties portion | January 31, 2007 | April 6, 2018, 83 FR 14754 | Adopted by Yolo-Solano AQMD on September 13, 2006. See 40 CFR 52.220(c)(358)(ii)(B)(1) and 40 CFR 52.222(a)(14)(i).
Nonattainment New Source Review Certification for the 2015 8-hour Ozone National Ambient Air Quality Standard (Adoption) | Sacramento Metro—Sutter County portion and Sutter Buttes | August 3, 2021 | April 22, 2024, 89 FR 29257 | Adopted by Feather River AQMD on June 7, 2021. The approval relates to NNSR program requirements applicable to the southern portion of Sutter County as a Moderate ozone nonattainment area and the Sutter Buttes portion of Sutter County as a Marginal ozone nonattainment area. See 40 CFR 52.220(c)(591)(ii)(E)(1).
Reasonably Available Control Technology (RACT) State Implementation Plan (SIP) Revision for the South Sutter County Portion of the Sacramento Metropolitan Nonattainment Area for 8-Hour ozone—Negative Declaration for Control Techniques Guidelines for the Oil and Natural Gas Industry | Sacramento Metro—Sutter County portion | December 7, 2018 | September 14, 2020, 85 FR 56521; heading corrected at 85 FR 59672 (September 23, 2020) | Adopted by Feather River AQMD on August 6, 2018. See 40 CFR 52.222(a)(11)(ii).
2006 Reasonably Available Control Technology (RACT) Analysis for State Implementation Plan (SIP) | Sacramento Metro—Sutter County portion and Sutter Buttes | July 11, 2007 | July 8, 2015, 80 FR 38959 | The 2006 RACT SIP was adopted by Feather River AQMD on December 4, 2006. See 40 CFR 52.220(c)(382)(ii)(B)(1) and 40 CFR 52.222(a)(11)(i).
Reasonably Available Control Technology (RACT) State Implementation Plan (SIP) Revision | Sacramento Metro—Sutter County portion and Sutter Buttes | October 27, 2009 | July 8, 2015, 80 FR 38959; corrected on July 31, 2019, 84 FR 37103 | The 2009 RACT SIP was adopted by Feather River AQMD on June 1, 2009. See 40 CFR 52.220(c)(459)(ii)(A)(1) and 40 CFR 52.222(a)(11)(i).
Reasonably Available Control Technology (RACT) Analysis and Negative Declaration | Sacramento Metro—Sutter County portion and Sutter Buttes | September 29, 2014 | July 8, 2015, 80 FR 38959; corrected on September 8, 2015, 80 FR 53739 | The 2014 RACT SIP was adopted by Feather River AQMD on August 4, 2014. See 40 CFR 52.220(c)(460)(ii)(A)(1) and 40 CFR 52.222(a)(11)(i).
The 1982 ozone and CO Air Quality Plan for the Sacramento nonattainment area, except for the attainment and RFP demonstration portions of the ozone plan | Sacramento Metropolitan Area | January 10, 1984 | July 30, 1984, 49 FR 30300 | See 40 CFR 52.220(c)(142).
Revisions to the 1982 ozone and CO Air Quality Plan for the Sacramento nonattainment area | Sacramento Metropolitan Area | February 10, 1984 | July 30, 1984, 49 FR 30300 | See 40 CFR 52.220(c)(143).
Emission Inventory, 1976 for the Sacramento Metropolitan Area | Sacramento Metropolitan Area | October 9, 1980 | July 1, 1982, 47 FR 28617 | See 40 CFR 52.220(c)(109)(ii).
Air Quality Plan Technical Appendix, January 1979 for the Sacramento Metropolitan Area | Sacramento Metropolitan Area | October 9, 1980 | July 1, 1982, 47 FR 28617 | See 40 CFR 52.220(c)(109)(iii).
The Sacramento Valley Air Basin Control Strategy: those portions pertaining to the Sacramento Metropolitan Area | Sacramento Metropolitan Area | November 13, 1979 | July 1, 1982, 47 FR 28617 | This plan is chapter 13 of the Comprehensive Revisions to the State of California Implementation Plan for the Attainment and Maintenance of Ambient Air Quality Standards. See 40 CFR 52.220(c)(91)(i).
Part IX—Sacramento Valley Air Basin | Sacramento Valley Air Basin | February 21, 1972 | May 31, 1972, 37 FR 10842 | Part of original SIP submittal. See 40 CFR 52.220(b).
Reasonably Available Control Technology (RACT) State Implementation Plan (SIP) Revision for Western Nevada County 8-Hour Ozone Nonattainment Area | Western Nevada County | March 23, 2021 | August 3, 2022, 87 FR 47354 | Adopted by the Northern Sierra AQMD on January 25, 2021. Submitted on March 23, 2021 as an attachment to a letter dated March 22, 2021. See 40 CFR 52.220(c)(585)(ii)(A)(1).
Certification of Emissions Statements Rule Adequacy | Western Nevada County | March 23, 2021 | July 29, 2022, 87 FR 45657 | Adopted by the Northern Sierra AQMD on January 25, 2021. See 40 CFR 52.220(c)(582)(ii)(A)(1).
Ozone Attainment Plan, Western Nevada County, State Implementation Plan for the 2008 Primary Federal 8-Hour Ozone Standard of .075 ppm | Western Nevada County | December 7, 2018 | May 21, 2021, 86 FR 27524 | Adopted by the Northern Sierra AQMD on October 22, 2018. See 40 CFR 52.220(c)(554)(ii)(A)(1).
Reasonably Available Control Technology (RACT) State Implementation Plan (SIP) Revision for Western Nevada County 8-Hour Ozone Nonattainment Area | Western Nevada County | June 7, 2018 | January 15, 2020, 85 FR 2313 | Adopted by the Northern Sierra AQMD on March 26, 2018. See 40 CFR 52.220(c)(529)(ii)(A)(1).
Reasonably Available Control Technology (RACT) State Implementation Plan (SIP) Revision for Western Nevada County 8-Hour Ozone Non-Attainment Area | Western Nevada County | February 7, 2008 | April 13, 2015, 80 FR 19544 | Adopted by Northern Sierra AQMD on June 25, 2007. See 40 CFR 52.220(c)(456)(ii)(A)(1) and 40 CFR 52.222(a)(9)(iii).
Reasonably Available Control Technology (RACT) State Implementation Plan (SIP) Revision for Western Nevada County 8-Hour Ozone Non-Attainment Area Negative Declarations for Control Techniques Guidelines Issued in 2006 and 2007 | Western Nevada County | August 14, 2008 | April 18, 2012, 77 FR 23130 | Adopted by Northern Sierra AQMD on May 19, 2008. See 52.222(a)(9)(i).
Reasonably Available Control Technology (RACT) State Implementation Plan (SIP) Revision for Western Nevada County 8-Hour Ozone Non-Attainment Area Negative Declarations for Control Techniques Guidelines Issued in 2008 | Western Nevada County | May 17, 2011 | April 18, 2012, 77 FR 23130 | Adopted by Northern Sierra AQMD on April 25, 2011. See 52.222(a)(9)(ii).
Yuba City-Marysville PM2.5 Redesignation Request and Maintenance Plan, including motor vehicle emissions budgets (MVEBs) and attainment year emission inventory, dated April 1, 2013 | Yuba City-Marysville | May 23, 2013 | December 9, 2014, 79 FR 72981 | Adopted by Feather River AQMD on April 1, 2013. See 40 CFR 52.220(c)(446)(ii)(A)(1).
Feather River AQMD Board of Directors Resolution 2013-01, dated April 1, 2013 | Yuba City-Marysville | May 23, 2013 | December 9, 2014, 79 FR 72981 | Resolution adopting the PM2.5 Redesignation Request and Maintenance Plan, including attainment year emissions inventory and MVEBs for 2017 and 2024. See 40 CFR 52.220(c)(446)(ii)(A)(2).
California Air Resources Board Resolution Number 13-14, dated April 25, 2013 | Yuba City-Marysville | May 23, 2013 | December 9, 2014, 79 FR 72981 | Resolution is titled “Yuba City-Marysville PM2.5 Maintenance Plan and Redesignation Request.” See 40 CFR 52.220(c)(446)(ii)(B)(1).
California Air Resources Board Resolution Number 14-6, dated February 20, 2014 | Yuba City-Marysville | May 23, 2013 | December 9, 2014, 79 FR 72981 | Resolution is titled “Minor Updates to Yuba City-Marysville PM2.5 Maintenance Plan and Redesignation Request.” See 40 CFR 52.220(c)(446)(ii)(B)(2).

Table 5—North Central Coast Air Basin
Name of SIP provision | Applicable geographic area | State submittal date | EPA approval date | Explanation
2007 Federal Maintenance Plan for Maintaining the National Ozone Standard in the Monterey Bay Region (Monterey Maintenance Plan), excluding Appendix A | Monterey Bay Region | December 19, 2007 | December 17, 2009, 74 FR 66916 | Adopted by Monterey Bay Unified APCD on March 21, 2007. See 40 CFR 52.220(c)(367)(ii)(A)(1).
Monterey Bay Unified APCD Board of Directors Certified Minutes and Resolution dated March 21, 2007 | Monterey Bay Region | December 19, 2007 | December 17, 2009, 74 FR 66916 | Resolution adopting the Monterey Maintenance Plan. See 40 CFR 52.220(c)(367)(ii)(A)(2).
Letter dated May 10, 2007, from Association of Monterey Bay Area Governments (AMBAG) to Monterey Bay Unified APCD | Monterey Bay Region | December 19, 2007 | December 17, 2009, 74 FR 66916 | Letter confirms AMBAG's approval of the Monterey Maintenance Plan on May 9, 2007. See 40 CFR 52.220(c)(367)(ii)(A)(3).
California Air Resources Board Executive Order #G-07-68, dated December 19, 2007 | Monterey Bay Region | December 19, 2007 | December 17, 2009, 74 FR 66916 | Executive order adopting the Monterey Maintenance Plan. See 40 CFR 52.220(c)(367)(ii)(A)(4).
Maintenance Plan for the redesignation of the Monterey Bay Area | Monterey Bay Region | November 14, 1994 | January 17, 1997, 62 FR 2597 | Adopted on October 19, 1994 by the Monterey Bay Unified APCD, October 12, 1994 by the Association of Monterey Bay Area Governments, and October 6, 1994 by the Council of San Benito County Governments. See 40 CFR 52.220(c)(209)(i)(A).
Redesignation Request and Request for Exemption from NOX RACT Rule Requirements for the Monterey Bay Region (March 1994) | Monterey Bay Region | July 14, 1994 | January 17, 1997, 62 FR 2597 | See 40 CFR 52.220(c)(209).
The 1982 Ozone Air Quality Plan for the Monterey Bay Region | Monterey Bay Region | December 31, 1982 and January 14, 1983 | December 20, 1983, 48 FR 56215 | See 40 CFR 52.220(c)(128).
The North Central Coast Air Basin Strategy | North Central Coast Air Basin | September 12, 1979 | December 4, 1980, 45 FR 80279 | This plan is chapter 10 of the comprehensive revisions to the State of California Implementation Plan for the Attainment and Maintenance of Ambient Air Quality Standards. See 40 CFR 52.220(c)(57).
Part IV—North Central Coast Air Basin | North Central Coast Air Basin | February 21, 1972 | May 31, 1972, 37 FR 10842 | Part of original SIP submittal. See 40 CFR 52.220(b).

Table 6—San Diego Air Basin
Name of SIP provision | Applicable geographic area | State submittal date | EPA approval date | Explanation
The 1982 Ozone and CO Air Quality Plan for the San Diego Air Basin | San Diego Air Basin | February 28 and August 12, 1983 | December 28, 1983, 48 FR 57130 | See 40 CFR 52.220(c)(136).
Supplemental material for the San Diego Nonattainment Area Plan | San Diego Air Basin | July 13, 1981 | March 10, 1982, 47 FR 10206 | See 40 CFR 52.220(c)(113).
Supplemental material for the San Diego Nonattainment Area Plan | San Diego Air Basin | August 31, 1981 | March 10, 1982, 47 FR 10206 | See 40 CFR 52.220(c)(114).
Supplemental material for the San Diego Nonattainment Area Plan | San Diego Air Basin | December 8, 1981 | March 10, 1982, 47 FR 10206 | See 40 CFR 52.220(c)(115).
The San Diego Air Basin Control Strategy, except the inspection/maintenance portion | San Diego Air Basin | July 5, 1979 | April 14, 1981, 46 FR 21749 | This is chapter 14 of the Comprehensive Revisions to the State of California Implementation Plan for the Attainment and Maintenance of Ambient Air Quality Standards. Additional documents were also submitted as appendices. Those portions of the San Diego Air Basin Control Strategy, including Appendices, identified by Table 14-1, “Location of Plan Elements Which Meet Clean Air Act Requirements” (pages 6-7), comprise the submitted nonattainment area plan, except the inspection/maintenance portion. The remaining portions are for informational purposes only. See 40 CFR 52.220(c)(62).
Part VII—San Diego Air Basin | San Diego Air Basin | February 21, 1972 | May 31, 1972, 37 FR 10842 | Part of original SIP submittal. See 40 CFR 52.220(b).
2020 Plan for Attaining the National Ambient Air Quality Standards for Ozone in San Diego County (October 2020), excluding the “Emissions Statement Rule Certification,” and the contingency measure element | San Diego County | January 12, 2021 | March 1, 2024, 89 FR 15035 | Adopted by the San Diego County APCD on October 14, 2020. See 40 CFR 52.220(c)(581)(ii)(A)(2).
San Diego County Air Pollution Control District Resolution 20-166, dated October 14, 2020, adopting the “2020 Plan for Attaining the National Ambient Air Quality Standards for Ozone in San Diego County (October 2020),” including a commitment to achieve emissions reductions of 1.7 tons per day of NOX by 2032 through adoption to amendments to San Diego County Air Pollution Control District Rules 69.4.1 and 69.2.1 and to the adoption of new San Diego County Air Pollution Control District Rule 69.2.2 | San Diego County | January 12, 2021 | March 1, 2024, 89 FR 15035 | Adopted by the San Diego County APCD on October 14, 2020. See 40 CFR 52.220(c)(581)(ii)(A)(3).
Letter dated July 31, 2023, from Ted Anasis, Manager, Airport Planning, San Diego International Airport, to Nick Cormier, San Diego County Air Pollution Control District | San Diego County | July 31, 2023 | March 1, 2024, 89 FR 15035 | Commitment in support of general conformity budget in 2020 Ozone Plan. See 40 CFR 52.220(c)(581)(ii)(A)(4).
Letter dated August 16, 2023, from J.C. Golumbfskie-Jones, Fleet Environmental Director, Commander Navy Region Southwest, Department of the Navy, to Paula Forbis, Air Pollution Control Officer, San Diego County Air Pollution Control District | San Diego County | August 16, 2023 | March 1, 2024, 89 FR 15035 | Commitment in support of general conformity budget in 2020 Ozone Plan. See 40 CFR 52.220(c)(581)(ii)(A)(5).
California Air Resources Board Resolution 20-29, dated November 19, 2020, adopting a commitment to achieve an aggregate emissions reduction of 4.0 tons per day of NOX in San Diego County by 2032 and a commitment from the California Air Resources Board to propose to the Board the Heavy-Duty Engine and Vehicle Omnibus Regulation, Advanced Clean Trucks Regulation, and Heavy Duty Vehicle Inspection Program and Periodic Smoke Inspection Program | San Diego County | January 12, 2021 | March 1, 2024, 89 FR 15035 | Adopted by the California Air Resources Board on November 19, 2020. See 40 CFR 52.220(c)(581)(ii)(B)(1).
Emissions Statement Rule Certification | San Diego County | January 12, 2021 | July 29, 2022, 87 FR 45657 | Adopted by the San Diego County APCD on October 14, 2020. See 40 CFR 52.220(c)(581)(ii)(A)(1).
Negative Declaration for Oil and Natural Gas CTG | San Diego County | December 29, 2020 | November 4, 2024, 89 FR 87505 | Submitted on December 29, 2020, as an attachment to a letter dated December 28, 2020, in the 2020 Reasonably Available Control Technology Demonstration for the National Ambient Air Quality Standards for Ozone in San Diego County, adopted on October 14, 2020. See 40 CFR 52.222(a)(5)(ii) and (iii).
Negative Declaration for Major Non-CTG Stationary Sources of VOC | San Diego County | December 29, 2020 | January 17, 2023, 88 FR 2538 | Submitted on December 29, 2020, as an attachment to a letter dated December 28, 2020, in the 2020 Reasonably Available Control Technology Demonstration for the National Ambient Air Quality Standards for Ozone in San Diego County, adopted on October 14, 2020. See 40 CFR 52.220(c)(584)(ii)(A)(4).
Negative Declaration for “Control of Volatile Organic Emissions from Manufacture of Synthesized Pharmaceutical Products,” EPA-450/2-78-029, December 1978 | San Diego County | December 29, 2020 | June 29, 2022, 87 FR 38665 | Submitted on December 29, 2020, as an attachment to a letter dated December 28, 2020, in the 2020 Reasonably Available Control Technology Demonstration for the National Ambient Air Quality Standards for Ozone in San Diego County, adopted on October 14, 2020. See 40 CFR 52.220(c)(584)(ii)(A)(1).
Negative Declaration for “Control Techniques Guidelines for Miscellaneous Metal and Plastic Parts Coatings,” EPA-453/R-08-003, September 2008 (Tables 3-6) | San Diego County | December 29, 2020 | June 29, 2022, 87 FR 38665 | Submitted on December 29, 2020, as an attachment to a letter dated December 28, 2020, in the 2020 Reasonably Available Control Technology Demonstration for the National Ambient Air Quality Standards for Ozone in San Diego County, adopted on October 14, 2020. See 40 CFR 52.220(c)(584)(ii)(A)(2).
Negative Declaration for “Control Techniques Guidelines for Fiberglass Boat Manufacturing Materials,” EPA-453/R-08-004, September 2008 | San Diego County | December 29, 2020 | June 29, 2022, 87 FR 38665 | Submitted on December 29, 2020, as an attachment to a letter dated December 28, 2020, in the 2020 Reasonably Available Control Technology Demonstration for the National Ambient Air Quality Standards for Ozone in San Diego County, adopted on October 14, 2020. See 40 CFR 52.220(c)(584)(ii)(A)(3).
2008 Eight-Hour Ozone Reasonably Available Control Technology Demonstration for San Diego County except those portions addressing the following source categories: Design Criteria for Stage I Vapor Control Systems—Gasoline Service Stations (EPA-450/R-75-102); Tank Truck Gasoline Loading Terminals (EPA-450/2-77-026); Manufacture of Synthesized Pharmaceutical Products (EPA-450/2-78-029); Industrial Cleaning Solvents (EPA-453/R-06-001); Fiberglass Boat Manufacturing Materials (EPA-453/R-08-004); Non-CTG major sources of VOC; and Miscellaneous Metal and Plastic Parts Coatings (EPA-453/R-08-003) Table 3—Plastic Parts and Products, Table 4—Automotive/Transportation and Business Machine Plastic Parts, Table 5—Pleasure Craft Surface Coating, and Table 6—Motor Vehicle Materials | San Diego County | April 12, 2017 | December 3, 2020, 85 FR 77996 | See 40 CFR 52.220(c)(547)(ii)(A)(1) and 52.222(a)(5)(ii).
Redesignation Request and Maintenance Plan for the 1997 National Ozone Standard for San Diego County, including motor vehicle emissions budgets (MVEBs) and inventories | San Diego County | December 28, 2012 | June 4, 2013, 78 FR 33230 | Adopted by San Diego County APCD on December 5, 2012. See 40 CFR 52.220(c)(425)(ii)(A)(1).
San Diego APCD Resolution Number 12-175, dated December 5, 2012. “Resolution Adopting the Redesignation Request and Maintenance Plan for the 1997 National Ozone Standard for San Diego County,” including inventories and motor vehicle emissions budgets for 2020 and 2025 | San Diego County | December 28, 2012 | June 4, 2013, 78 FR 33230 | See 40 CFR 52.220(c)(425)(ii)(A)(2).
California Air Resources Board Resolution No. 12-36, dated December 6, 2012 | San Diego County | December 28, 2012 | June 4, 2013, 78 FR 33230 | Resolution is titled “Approval of the San Diego 8-Hour Ozone SIP Redesignation Request and Maintenance Plan.” See 40 CFR 52.220(c)(425)(ii)(B)(1).
Ozone Redesignation Request and Maintenance Plan for San Diego County, including motor vehicle emissions budgets for 2010 and 2014, and Resolution #02-389 | San Diego County | December 20, 2002 | June 26, 2003, 68 FR 37976 | Adopted by San Diego County APCD on December 11, 2002. See 40 CFR 52.220(c)(313)(i)(A)(1).
San Diego County Air Pollution Control Board, Resolution 97-337, Resolution Certifying the Negative Declaration for Control Technique Guideline (CTG) Sources | San Diego County | February 25, 1998 | September 23, 1998, 63 FR 50764 | Negative declarations for Synthetic organic chemical manufacturing (distillation), synthetic organic chemical manufacturing (reactors), wood furniture, plastic parts coatings (business machines), plastic parts coatings (other), offset lithography, industrial wastewater, autobody refinishing, and volatile organic liquid storage adopted on October 22, 1997. See 40 CFR 52.222(a)(5)(i).
Emissions inventory, 15% Rate-of-Progress plan, Post-1996 Rate-of-Progress plan, modeling, and ozone attainment demonstration, as contained in “1994 Ozone Attainment and Rate-of-Progress Plans for San Diego County” | San Diego County | November 15, 1994 | January 8, 1997, 62 FR 1150 | Adopted by San Diego County APCD on November 1, 1994. See 40 CFR 52.220(c)(204)(i)(C)(1).

Table 7—San Francisco Bay Area Air Basin
Name of SIP provision | Applicable geographic area | State submittal date | EPA approval date | Explanation
Bay Area Winter Emissions Inventory for Primary PM2.5 & PM Precursors: Year 2010 | San Francisco Bay Area | January 14, 2013 | March 14, 2014, 79 FR 14404; corrected at 79 FR 25014 (May 2, 2014 | See 40 CFR 52.220(c)(436)(ii)(A)(1).
Certification that the Bay Area Air Quality Management District's Existing NNSR Program Addresses the 2015 Ozone NAAQS SIP Requirements Rule | San Francisco Bay Area | October 6, 2021 | May 9, 2023, 88 FR 29825 | Adopted by the Bay Area Air Quality Management District on September 1, 2021. See 40 CFR 52.220(c)(595)(ii)(A)(1).
Clean Air Act Emissions Statement Certification | San Francisco Bay Area | August 3, 2020 | July 29, 2022, 87 FR 45657 | Adopted by San Francisco Bay Area AQMD on July 15, 2020. See 40 CFR 52.220(c)(574)(ii)(C)(1).
The San Francisco Bay Area Transportation Air Quality Conformity Protocol—Conformity Procedures (February 26, 2020) and San Francisco Bay Area Transportation Air Quality Conformity Protocol—Interagency Consultation Procedures (February 26, 2020) | San Francisco Bay Area | May 17, 2021 | December 28, 2023, 88 FR 89587 | Adopted by Bay Area AQMD on March 4, 2020, by Association of Bay Area Governments on April 23, 2020, and by Metropolitan Transportation Commission on February 26, 2020. Submitted electronically on May 17, 2021, by the Governor's designee as an attachment to a letter dated May 6, 2021. See 40 CFR 52.220(c)(608)(ii)(A)(1).
The San Francisco Bay Area Transportation Air Quality Conformity Interagency Consultation Procedures | San Francisco Bay Area | December 16, 1996 | October 21, 1997, 62 FR 54587 | Adopted by Bay Area AQMD on November 6, 1996. See 40 CFR 52.220(c)(243)(i)(A)(2). Superseded by approval of the revised conformity procedures and interagency consultation procedures at 72 FR 58013 (October 12, 2007) except for the MOU regarding conformity analyses in eastern Solano County—see 72 FR 58013, at 58014, footnote #2 (October 12, 2007).
San Francisco Bay Area Ozone Attainment Plan for the 1-hour National Ozone Standard (Section 3: Emission Inventory; Section 5: Control Strategy, except subsection “Demonstrating Reasonable Further Progress” Appendix B: Control Measure Descriptions; Appendix C: Reasonably Available Control Measure Analysis; Appendix E: Further Study Measure Descriptions) | San Francisco Bay Area | November 30, 2001 | April 22, 2004, 69 FR 21717 | Adopted by Bay Area AQMD on adopted on October 24, 2001. See 40 CFR 52.220(c)(323)(i)(A)(1).
The following portions of the 1999 Ozone Attainment Plan for the San Francisco Bay Area: the 1995 baseline emissions inventory, the reasonable further progress demonstration, and the deletion of transportation control measures #6 and #16 | San Francisco Bay Area | August 13, 1999 | September 20, 2001, 66 FR 48340 | See 40 CFR 52.223(e).
Tables 10 and 12 of the San Francisco Bay Area Ozone Attainment Plan for the 1-Hour National Ozone Standard, June 1999, which detail the commitment to adopt and implement any combination of new control measures to achieve 11 ton per day reduction in VOC emissions by June 2000 | San Francisco Bay Area | August 13, 1999 | September 20, 2001, 66 FR 48340 | See 40 CFR 52.220(c)(283)(i)(A)(1).
Contingency measures, Table 18 of the San Francisco Bay Area Ozone Attainment Plan for the 1-Hour National Ozone Standard, June 1999, “Post-Attainment Year (2000-2003) Inventory Reductions Reflected in the SIP” | San Francisco Bay Area | August 13, 1999 | September 20, 2001, 66 FR 48340 | See 40 CFR 52.220(c)(283)(i)(A)(2).
Redesignation request for the San Francisco Bay Area and the Ozone Maintenance Plan for the National Ozone Standard | San Francisco Bay Area | November 5, 1993 | May 22, 1995, 60 FR 27028 | Adopted on September 1, 1993 by the Bay Area AQMD, September 22, 1993 by the Metropolitan Transportation Commission, and September 16, 1993 by the Association of Bay Area Governments. See 40 CFR 52.220(c)(212)(i)(A).
Amendments to the San Francisco Bay Area Redesignation Request and Maintenance Plan for the National Ozone Standard and 1990 Emissions Inventory | San Francisco Bay Area | December 28, 1994 | May 22, 1995, 60 FR 27028 | Adopted on September 7, 1994 by the Bay Area AQMD, October 5, 1994 by the Metropolitan Transportation Commission, and August 24, 1994 by the Association of Bay Area Governments. See 40 CFR 52.220(c)(205)(i)(B)(1).
The 1982 Ozone and CO Air Quality Plan for the San Francisco Bay Air Basin | San Francisco Bay Air Basin | February 4, 1983 | December 28, 1983, 48 FR 57130 | See 40 CFR 52.220(c)(135).
The San Francisco Bay Area Basin Control Strategy, including appendices | San Francisco Bay Air Basin | July 25, 1979 | March 19, 1982, 47 FR 11866 | This plan is chapter 15 of the Comprehensive Revisions to the State of California Implementation Plan for the Attainment and Maintenance of Ambient Air Quality Standards See 40 CFR 52.220(c)(72).
Part III—San Francisco Bay Area Air Basin | San Francisco Bay Area Air Basin | February 21, 1972 | May 31, 1972, 37 FR 10842 | Part of original SIP submittal. See 40 CFR 52.220(b).
Plan for Attainment of the Federal Secondary Total Suspended Particulate Standard in Santa Clara County | Santa Clara County | March 16, 1981 | March 29, 1982, 47 FR 13140 | This plan is an addendum to the San Francisco Bay Area Air Basin Control Strategy (Chapter 15). See 40 CFR 52.220(c)(112).

Table 8—San Joaquin Valley Air Basin
Name of SIP provision | Applicable geographic area | State submittal date | EPA approval date | Explanation
California Air Resources Board Executive Order G-125-46, dated May 11, 1984 | Fresno County | June 11, 1984 | September 4, 1985, 50 FR 35796 | One of the revisions to the ozone and carbon monoxide nonattainment area plans for the Fresno County portion of the San Joaquin Valley Air Basin. See 40 CFR 52.220(c)(161)(i)(A).
Letters from the County of Fresno to the Bureau of Automotive Repair dated March 14, 1984 and February 14, 1984 | Fresno County | June 11, 1984 | September 4, 1985, 50 FR 35796 | Letters requesting implementation of an I/M program in Fresno County. They are among the revisions to the ozone and carbon monoxide nonattainment area plans for the Fresno County portion of the San Joaquin Valley Air Basin. See 40 CFR 52.220(c)(161)(i)(B).
County of Fresno Resolution File Number 18-13, dated February 14, 1984 | Fresno County | June 11, 1984 | September 4, 1985, 50 FR 35796 | One of the revisions to the ozone and carbon monoxide nonattainment area plans for the Fresno County portion of the San Joaquin Valley Air Basin. See 40 CFR 52.220(c)(161)(i)(C).
Schedule to implement I/M in Fresno County, adopted on February 14, 1984 | Fresno County | June 11, 1984 | September 4, 1985, 50 FR 35796 | One of the revisions to the ozone and carbon monoxide nonattainment area plans for the Fresno County portion of the San Joaquin Valley Air Basin. See 40 CFR 52.220(c)(161)(i)(D).
Air Quality Planning Addendum-Council of Fresno County Governments 1979-84 Overall Work Program | Fresno County | October 9, 1980 | July 1, 1982, 47 FR 28617 | See 40 CFR 52.220(c)(109)(i).
Federal 1992 Air Quality Attainment Plan for Carbon Monoxide and Appendices | Fresno Urbanized Area | December 28, 1992 | March 31, 1998, 63 FR 15305 | Adopted by San Joaquin Valley Unified APCD on November 18, 1992. See 40 CFR 52.220(c)(252)(i)(A)(1).
Supplemental material for the Kern County Nonattainment Area Plan | Kern County Nonattainment Area | March 4, 1982 | December 14, 1982, 47 FR 55919 | See 40 CFR 52.220(c)(123).
The 1982 Ozone and CO plan for San Joaquin County | San Joaquin County | December 1, 1982 | December 20, 1983, 48 FR 56215 | See 40 CFR 52.220(c)(129).
Selected portions titled “Amendments to the 15 μg/m³ SIP Revision and Agricultural Equipment Incentive Measure for the 1997 PM2.5 Standard,” and “Appendix B: 2022 Annual Demonstration Report: San Joaquin Valley Agricultural Equipment Incentive Measure Covering Projects Completed Through 12/31/2022,” of the Staff Report, “Review of the San Joaquin Valley 2024 Plan for the 2012 12 μg/m³ Annual PM2.5 Standard and Amendments to the Agricultural Equipment Incentive Measure and the 1997 15 μg/m³ State Implementation Plan Revision” | San Joaquin Valley | August 22, 2024 | November 19, 2024, 89 FR 91263 | Adopted July 25, 2024. See 40 CFR 52.220(c)(623)(ii)(A)(1).
The portion of CARB Resolution 24-10, dated July 25, 2024, adopting amendments to the Valley Incentive Measure to include quantification of emissions reductions of 5.0 tpd of NOX and 0.27 tpd of PM2.5 in the year 2023 from existing agricultural equipment projects and substituting the reductions from the Valley Incentive Measure to meet the aggregate emissions reduction commitment in the attainment plan for the 1997 annual PM2.5 NAAQS approved in 40 CFR 52.220(c)(537)(ii)(A)(9) | San Joaquin Valley | August 22, 2024 | November 19, 2024, 89 FR 91263 | Adopted July 25, 2024. See 40 CFR 52.220(c)(623)(ii)(A)(2).
PM2.5 Contingency Measure State Implementation Plan Revision (May 18, 2023), excluding Rule 4901, “Wood Burning Fireplaces and Wood Burning Heaters.” | San Joaquin Valley | June 8, 2023 | October 4, 2024, 89 FR 80749 | Adopted by SJVUAPCD on May 18, 2023. See 40 CFR 52.220(c)(618)(ii)(A)(1).
CARB Resolution No. 21-21, September 23, 2021 | San Joaquin Valley | November 8, 2021 | December 14, 2023, 88 FR 86581 | Submitted as a revision to the 2018 PM2.5 Plan that was submitted on May 10, 2019. See 40 CFR 52.220(c)(537)(ii)(A)(9).
CARB, Staff Report, Proposed SIP Revision for the 15 μg/m³ Annual PM2.5 Standard for the San Joaquin Valley, August 13, 2021 | San Joaquin Valley | November 8, 2021 | December 14, 2023, 88 FR 86581 | Submitted as a revision to the 2018 PM2.5 Plan that was submitted on May 10, 2019. See 40 CFR 52.220(c)(537)(ii)(A)(10).
2018 Plan for the 1997, 2006, and 2012 PM2.5 Standards (“2018 PM2.5 Plan”), adopted November 15, 2018 (portions pertaining to the 1997 annual PM2.5 NAAQS only, and excluding Chapter 4 (“Attainment Strategy for PM2.5”), Chapter 5 (“Demonstration of Federal Requirements for 1997 PM2.5 Standards”), Chapter 6 (“Demonstration of Federal Requirements for 2006 PM2.5 Standards”), Chapter 7 (“Demonstration of Federal Requirements for 2012 PM2.5 Standards”), Appendix D (“Mobile Source Control Measure Analyses”), Appendix H (“RFP, Quantitative Milestones, and Contingency”), and Appendix K (“Modeling Attainment Demonstration”)) | San Joaquin Valley | May 10, 2019 | December 14, 2023, 88 FR 86581 | Adopted by the San Joaquin Valley Unified APCD on November 15, 2018. See 40 CFR 52.220(c)(537)(ii)(B)(7).
Attainment Plan Revision for the 1997 Annual PM2.5 Standard, August 19, 2021, excluding Appendix H, section H.3 (“Contingency Measures”) | San Joaquin Valley | November 8, 2021 | December 14, 2023, 88 FR 86581 | Submitted as a revision to the 2018 PM2.5 Plan that was submitted on May 10, 2019. See 40 CFR 52.220(c)(537)(ii)(B)(8).
SJVUAPCD Governing Board Resolution No. 21-08-13, August 19, 2021 | San Joaquin Valley | November 8, 2021 | December 14, 2023, 88 FR 86581 | Submitted as a revision to the 2018 PM2.5 Plan that was submitted on May 10, 2019. See 40 CFR 52.220(c)(537)(ii)(B)(9).
San Joaquin Valley Unified Air Pollution Control District Resolution No. 21-11-7, In the Matter of: State Implementation Credit for Residential Wood Burning Device Change-Out Incentive Measure | San Joaquin Valley | March 17, 2022 | November 28, 2023, 88 FR 83034 | Adopted by SJVUAPCD on November 18, 2021. Submitted on March 17, 2022, as an attachment to a letter dated March 16, 2022. See 40 CFR 52.220(c)(606)(ii)(A)(1).
Certification that the San Joaquin Valley Unified Air Pollution Control District's Current Rules Address the Clean Air Act's Clean Fuels for Boilers Requirements for the 2015 8-Hour Ozone Standard | San Joaquin Valley | August 3, 2021 | May 8, 2023, 88 FR 29539 | Adopted by the San Joaquin Valley Unified Air Pollution Control District on June 17, 2021. Submitted on August 3, 2021, as an attachment to a letter of the same date. See 40 CFR 52.220(c)(591)(ii)(A)(1).
Emissions Statement Program Certification for the 2015 8-Hour Ozone Standard | San Joaquin Valley | August 3, 2020 | July 29, 2022, 87 FR 45657 | Adopted by San Joaquin Valley Unified APCD on June 18, 2020. See 40 CFR 52.220(c)(574)(ii)(D)(1).
Selected portions of CARB Resolution 19-26, adopted December 12, 2019, as revised and clarified by Executive Order S-20-031, adopted November 23, 2020 and Executive Order S-21-018, adopted October 6, 2021 (Amended Valley Incentive Measure), containing CARB's commitments to achieve 4.83 tpd of NOX reductions and 0.24 tpd of PM2.5 reductions by the beginning of 2024, and 4.46 tpd of NOX reductions and 0.26 tpd of PM2.5 reductions by the beginning of 2025, through implementation of the Carl Moyer Memorial Air Quality Standards Attainment Program, the Funding Agricultural Replacement Measures for Emission Reductions Program, or substitute measures | San Joaquin Valley | February 11, 2020 | December 27, 2021, 86 FR 73106 | See 40 CFR 52.220(c)(567)(ii)(A)(1).
2018 Plan for the 1997, 2006, and 2012 PM2.5 Standards (“2018 PM2.5 Plan”), adopted November 15, 2018 (portions pertaining to the 1997 24-hour PM2.5 NAAQS only, and excluding Chapter 6 (“Demonstration of Federal Requirements for 2006 PM2.5 Standards”), Chapter 7 (“Demonstration of Federal Requirements for 2012 PM2.5 Standards”), and Appendix H, section H.3 (“Contingency Measures”)) | San Joaquin Valley | May 10, 2019 | January 28, 2022, 87 FR 4503 | Adopted by the San Joaquin Valley Unified APCD on November 15, 2018. See 40 CFR 52.220(c)(537)(ii)(B)(6).
2018 Plan for the 1997, 2006, and 2012 PM2.5 Standards (“2018 PM2.5 Plan”), adopted November 15, 2018 (portions pertaining to the 2012 PM2.5 NAAQS as a Moderate area, only, and excluding Chapter 5 (“Demonstration of Federal Requirements for 1997 PM2.5 Standards”), Chapter 6 (“Demonstration of Federal Requirements for 2006 PM2.5 Standards”) and Appendix H, section H.3 (“Contingency Measures”)) | San Joaquin Valley | May 10, 2019 | November 26, 2021, 86 FR 67343 | Adopted by the San Joaquin Valley Unified APCD on November 15, 2018. See 40 CFR 52.220(c)(537)(ii)(B)(3).
2016 Moderate Area Plan for the 2012 PM2.5 Standard (“2016 PM2.5 Plan”), adopted September 15, 2016, excluding section 3.7 (“Contingency Measures”) | San Joaquin Valley | May 10, 2019 | November 26, 2021, 86 FR 67343 | Adopted by the San Joaquin Valley Unified APCD on November 15, 2018. See 40 CFR 52.220(c)(537)(ii)(B)(4).
2018 Plan for the 1997, 2006, and 2012 PM2.5 Standards (“2018 PM2.5 Plan”), adopted November 15, 2018, portions of Appendix B (“Emissions Inventory”) pertaining to the 2013 base year emissions inventories as they relate to the 1997 annual PM2.5 NAAQS only | San Joaquin Valley | May 10, 2019 | November 26, 2021, 86 FR 67329 | Adopted by the San Joaquin Valley Unified APCD on November 15, 2018. See 40 CFR 52.220(c)(537)(ii)(B)(5).
2018 Plan for the 1997, 2006, and 2012 PM2.5 Standards (“2018 PM2.5 Plan”) (portions pertaining to the 2006 PM2.5 NAAQS only), excluding Chapter 5 (“Demonstration of Federal Requirements for 1997 PM2.5 Standards”), Chapter 7 (“Demonstration of Federal Requirements for 2012 PM2.5 Standards”), Appendix H, section H.3 (“Contingency Measures”), and Appendix I (“New Source Review and Emission Reduction Credits”) | San Joaquin Valley | May 10, 2019 | July 22, 2020, 85 FR 44192 | Adopted by the San Joaquin Valley Unified APCD on November 15, 2018. See 40 CFR 52.220(c)(537)(ii)(B)(1).
San Joaquin Valley Unified APCD Resolution No. 18-11-16, November 15, 2018. Commitments to take action on the rules and measures committed to in Chapter 4 of the Plan by the dates specified therein, and to submit these rules and measures, as appropriate, to CARB within 30 days of adoption for transmittal to EPA as a revision to the State Implementation Plan. Commitments to achieve the aggregate emissions reductions of 1.88 tpd of NOX and 1.3 tpd of PM2.5 by 2024 and, if the total emission reductions from the adopted rules or measures are less than those committed to in Chapter 4 of the 2018 PM2.5 Plan, to adopt, submit, and implement substitute rules and measures that achieve equivalent reductions in emissions of direct PM2.5 or PM2.5 precursors in the same implementation timeframes or in the timeframes needed to meet CAA milestones | San Joaquin Valley | May 10, 2019 | July 22, 2020, 85 FR 44192 | Resolution titled “In the Matter of: Adopting the San Joaquin Valley Unified Air Pollution Control District 2018 Plan for the 1997, 2006, and 2012 PM2.5 Standards.” See 40 CFR 52.220(c)(537)(ii)(B)(2).
San Joaquin Valley Supplement to the 2016 State Strategy for the State Implementation Plan (portions relating to the 2006 PM2.5 NAAQS, only) (“Valley State SIP Strategy”) | San Joaquin Valley | May 10, 2019 | July 22, 2020, 85 FR 44192 | Adopted by California Air Resources Board on October 25, 2018. See 40 CFR 52.220(c)(536)(ii)(A)(1).
California Air Resources Board Resolution No. 18-49 with Attachments A and B, October 25, 2018. Commitments to begin the public process on, and bring to the Board for consideration, the list of proposed SIP measures outlined in the Valley State SIP Strategy according to the schedule set forth therein, and commitments to achieve the aggregate emissions reductions outlined in the Valley State SIP Strategy of 32 tpd of NOX and 0.9 tpd of PM2.5 emissions reductions in the San Joaquin Valley by 2024 | San Joaquin Valley | May 10, 2019 | July 22, 2020, 85 FR 44192 | See 40 CFR 52.220(c)(536)(ii)(A)(2).
California Air Resources Board Resolution No. 19-1, January 24, 2019 | San Joaquin Valley | May 10, 2019 | July 22, 2020, 85 FR 44192 | See 40 CFR 52.220(c)(537)(ii)(A)(1).
Staff Report, Review of the San Joaquin Valley 2018 Plan for the 1997, 2006, and 2012 PM2.5 Standards, December 21, 2018 | San Joaquin Valley | May 10, 2019 | July 22, 2020, 85 FR 44192 | See 40 CFR 52.220(c)(537)(ii)(A)(2).
Attachment A, Clarifying information for the San Joaquin Valley 2018 Plan regarding model sensitivity related to ammonia and ammonia controls | San Joaquin Valley | May 10, 2019 | July 22, 2020, 85 FR 44192 | See 40 CFR 52.220(c)(537)(ii)(A)(3).
Staff Report, ARB Review of San Joaquin Valley PM2.5 State Implementation Plan, including Appendix B (“San Joaquin Valley 2015 PM2.5 SIP, Additional Emission Reductions Achieved Towards Meeting Aggregate Commitment”), April 20, 2015 | San Joaquin Valley | May 10, 2019 | July 22, 2020, 85 FR 44192 | See 40 CFR 52.220(c)(537)(ii)(A)(4).
Technical Clarifications to the 2015 San Joaquin Valley PM2.5 State Implementation Plan | San Joaquin Valley | May 10, 2019 | July 22, 2020, 85 FR 44192 | See 40 CFR 52.220(c)(537)(ii)(A)(5).
“Appendix H, RFP, Quantitative Milestones, and Contingency, 2018 Plan for the 1997, 2006, and 2012 PM2.5 Standards, Appendix H Revised February 11, 2020” (portions pertaining to the 1997 24-hour PM2.5 NAAQS only, and excluding section H.3 (“Contingency Measures”)) | San Joaquin Valley | May 10, 2019 | January 28, 2022, 87 FR 4503 | See 40 CFR 52.220(c)(537)(ii)(A)(8).
“Appendix H, RFP, Quantitative Milestones, and Contingency, 2018 Plan for the 1997, 2006, and 2012 PM2.5 Standards, Appendix H Revised February 11, 2020” (portions pertaining to the 2012 PM2.5 NAAQS as a Moderate area, only, and excluding section H.3 (“Contingency Measures”)) | San Joaquin Valley | May 10, 2019 | November 26, 2021, 86 FR 67343 | See 40 CFR 52.220(c)(537)(ii)(A)(7).
Appendix H, RFP, Quantitative Milestones, and Contingency, 2018 Plan for the 1997, 2006, and 2012 PM2.5 Standards, Appendix H Revised February 11, 2020, (portion pertaining to the 2006 PM2.5 NAAQS, only, and excluding section H.3 (“Contingency Measures”)) | San Joaquin Valley | May 10, 2019 | July 22, 2020, 85 FR 44192 | See 40 CFR 52.220(c)(537)(ii)(A)(6).
Revision to the California State Implementation Plan for PM2.5 Standards in the San Joaquin Valley | San Joaquin Valley | June 19, 2020 | July 22, 2020, 85 FR 44192 | Adopted by California Air Resources Board on May 28, 2020. See 40 CFR 52.220(c)(538)(ii)(A)(1).
California Air Resources Board Resolution 20-15, dated May 28, 2020, revising the aggregate emissions reductions commitment in 40 CFR 52.220(c)(478)(ii)(A)(3) to 0.86 tpd of PM2.5 | San Joaquin Valley | June 19, 2020 | July 22, 2020, 85 FR 44192 | See 40 CFR 52.220(c)(538)(ii)(A)(2).
SJVUAPCD's commitments to adopt, submit, and implement substitute rules that will achieve equivalent reductions in emissions of direct PM2.5 or PM2.5 precursors in the same adoption and implementation timeframes or in the timeframes needed to meet CAA milestones, as stated on p. 4 of San Joaquin Valley Unified APCD Resolution 2012-12-19, dated December 20, 2012 were revised by California Air Resources Board Resolution 20-15, dated May 28, 2020, in paragraph (c)(539)(ii)(A)(2) of this section | San Joaquin Valley | March 4, 2013 | July 22, 2020, 85 FR 44192 | See 40 CFR 52.220(c)(478)(ii)(A)(4).
2016 Ozone Plan for 2008 8-Hour Ozone Standard, excluding subchapters 3.4 (“Reasonably Available Control Technology”), 3.11.1 (“Emission Inventory Requirements”), 6.3.2 (“Reasonable Further Progress Requirements”), and 6.4 (“Contingency for Attainment”); appendix C (“Stationary and Area Source Control Strategy Evaluations”); and tables D-1 and D-4 through D-8 in attachment B (“San Joaquin Valley 8-Hr Ozone Motor Vehicle Emissions Budgets”) of appendix D (“Mobile Source Control Strategy”) | San Joaquin Valley | August 24, 2016 | February 12, 2019, 84 FR 3302 | Adopted June 16, 2016. See 40 CFR 52.220(c)(496)(ii)(B)(3).
2016 Ozone Plan for 2008 8-Hour Ozone Standard, subchapter 3.11.1 (“Emission Inventory Requirements”), only | San Joaquin Valley | August 24, 2016 | March 25, 2019, 84 FR 11198 | Adopted by San Joaquin Valley Unified APCD on June 16, 2016. See 40 CFR 52.220(c)(496)(ii)(B)(4). The approval action published on March 25, 2019 included subchapters 3.11.1 and 6.4, but subchapter 6.4 (“Contingency for Attainment”) was deleted without replacement at 87 FR 59688 (October 3, 2022).
2016 Ozone Plan for 2008 8-Hour Ozone Standard, Chapter 3.4 and Appendix C only | San Joaquin Valley | August 24, 2016 | August 17, 2018, 83 FR 41006 | Adopted June 16, 2016. See 40 CFR 52.220(c)(496)(ii)(B)(1).
San Joaquin Valley Unified APCD Resolution 16-6-20, June 16, 2016, commitment to adopt, implement and submit measures committed to in the 2016 Ozone Plan for the 2008 8-Hour Ozone Standard, only | San Joaquin Valley | August 24, 2016 | February 12, 2019, 84 FR 3302 | Resolution titled “In the Matter of: Adopting the San Joaquin Valley Unified Air Pollution Control District 2016 Ozone Plan for the 2008 8-Hour Ozone Standard” and adopted on June 16, 2016. See 40 CFR 52.220(c)(496)(ii)(B)(2).
California Air Resources Board Resolution 16-8, dated July 21, 2016 | San Joaquin Valley | August 24, 2016 | October 11, 2017, 82 FR 47145 | Resolution adopting the “2016 Ozone State Implementation Plan for the San Joaquin Valley”. See 40 CFR 52.220(c)(496)(ii)(A)(1).
California Air Resources Board Staff Report, ARB Review of the San Joaquin Valley 2016 Plan for the 2008 8-Hour Ozone Standard,” section V.H (“Bakersfield Area Monitor”) and Appendix C (“U.S. EPA Letter Regarding Arvin Site Relocation”), only | San Joaquin Valley | August 24, 2016 | October 11, 2017, 82 FR 47145 | See 40 CFR 52.220(c)(496)(ii)(A)(2).
Revised Proposed 2016 State Strategy for the State Implementation Plan, except for the subchapter titled “South Coast Commitment” in chapter 3 (“Proposed SIP Commitment”) | San Joaquin Valley | April 27, 2017 | February 12, 2019, 84 FR 3302; corrected May 3, 2019, 84 FR 19680 | Adopted by California Air Resources Board on March 23, 2017. See 40 CFR 52.220(c)(517)(ii)(A)(2).
California Air Resources Board Resolution 17-7, March 23, 2017, commitments to a rulemaking schedule and to achieve aggregate emission reductions of 8 tons per day of NOX in San Joaquin Valley by 2031, and the rulemaking schedule included in attachment A to Resolution 17-7, only | San Joaquin Valley | April 27, 2017 | February 12, 2019, 84 FR 3302; corrected May 3, 2019, 84 FR 19680 | Resolution titled “2016 State Strategy for the State Implementation Plan.” See 40 CFR 52.220(c)(517)(ii)(A)(1).
2018 Updates to the California State Implementation Plan chapter VIII (“SIP Elements for the San Joaquin Valley”) excluding subchapter VIII.D (“Contingency Measures”); chapter X (“Contingency Measures”) for implementation in San Joaquin Valley for the 2008 ozone standard; and Appendix A (“Nonattainment Area Inventories”), pages A-1, A-2 and A-27 through A-30, only | San Joaquin Valley | December 11, 2018 | March 25, 2019, 84 FR 11198; revised October 3, 2022, 87 FR 59688 | Adopted by California Air Resources Board on October 25, 2018. Submitted electronically on December 11, 2018 as an attachment to a letter dated December 5, 2018. See 40 CFR 52.220(c)(514)(ii)(A)(2). Geographic applicability of Chapter X was clarified at 87 FR 59688 (October 3, 2022). Subchapter VIII.D (“Contingency Measures”) of chapter VIII was deleted without replacement at 87 FR 59688 (October 3, 2022).
California Air Resources Board Resolution 18-50, including Attachments A (“Covered Districts”), B (“Menu of Enhanced Enforcement Actions”), and C (“Correction of Typographical Error”) | San Joaquin Valley | December 5, 2018 | March 25, 2019, 84 FR 11198 | Adopted on October 25, 2018. See 40 CFR 52.220(c)(514)(ii)(A)(1).
2014 Reasonably Available Control Technology (RACT) Demonstration for the 8-Hour Ozone State Implementation Plan (SIP), dated June 19, 2014 | San Joaquin Valley | July 18, 2014 | August 17, 2018, 83 FR 41006 | Adopted by San Joaquin Valley Unified APCD on June 19, 2014. See 40 CFR 52.220(c)(449)(ii)(D)(1).
Appendix B Negative Declarations For Proposed Revision to the State Implementation Plan (SIP) to Address Federal Clean Air Act Requirements for Reasonably Available Control Technology (RACT), June 21, 2018 | San Joaquin Valley | June 29, 2018 | August 17, 2018, 83 FR 41006 | Adopted by San Joaquin Valley Unified APCD on June 21, 2018. See 40 CFR 52.220(c)(507)(ii)(A)(1) and 40 CFR 52.222(a)(8)(iii).
Certification that the San Joaquin Valley Unified Air Pollution Control District's Current NNSR Program Addresses the 2008 Ozone NAAQS SIP Requirements Rule | San Joaquin Valley | June 19, 2018 | December 13, 2018, 83 FR 64026 | Adopted by SJVUAPCD on April 19, 2018. See 40 CFR 52.220(c)(511)(ii)(A)(1).
Attachment A to California Air Resources Board Resolution 15-50, “Updates to the Transportation Conformity Budgets for the San Joaquin Valley 2007 PM10, 2007 Ozone and 2012 PM2.5 SIPs,” Table A-1 (Updated Transportation Conformity Budgets for the 2008 Ozone Plan (Tons per summer day) and Table A-3 (Updated Transportation Conformity Budgets for the 2008 PM10 Maintenance Plan (Tons per annual day)) | San Joaquin Valley | November 13, 2015 | August 12, 2016, 81 FR 53294 | See 40 CFR 52.220(c)(476)(ii)(A)(1).
Attachment A to California Air Resources Board Resolution 15-50, “Updates to the Transportation Conformity Budgets for the San Joaquin Valley 2007 PM-10, 2007 Ozone and 2012 PM2.5 SIPs,” Table A-2 (Updated Transportation Conformity Budgets for the 2012 PM2.5 Plan (Tons per winter day)) | San Joaquin Valley | November 13, 2015 | August 31, 2016, 81 FR 59876 | See 40 CFR 52.220(c)(476)(ii)(A)(2).
2012 PM2.5 Plan (dated December 20, 2012), except for the motor vehicle emission budgets used for transportation conformity purposes | San Joaquin Valley | March 4, 2013 | August 31, 2016, 81 FR 59876 | Adopted by the San Joaquin Valley Unified APCD on December 20, 2012. See 40 CFR 52.220(c)(478)(ii)(A)(1).
San Joaquin Valley Unified APCD Resolution No. 12-12-19, dated December 20, 2012 | San Joaquin Valley | March 4, 2013 | August 31, 2016, 81 FR 59876 | Resolution is titled “In the Matter of Adopting the San Joaquin Valley Unified Air Pollution Control District 2012 PM2.5 Plan.” See 40 CFR 52.220(c)(478)(ii)(A)(2).
San Joaquin Valley Unified APCD's commitments to adopt and implement specific rules and measures by the dates specified in Chapter 5 of the 2012 PM2.5 Plan to achieve the emissions reductions shown therein, and to submit these rules and measures to California Air Resources Board within 30 days of adoption for transmittal to EPA as a revision to the SIP, or if the total emission reductions from the adopted rules are less than those committed to in the Plan, to adopt, submit, and implement substitute rules that will achieve equivalent reductions in emissions of direct PM2.5 or PM2.5 precursors in the same adoption and implementation timeframes or in the timeframes needed to meet CAA milestones, as stated on p. 4 of San Joaquin Valley Unified APCD Resolution 12-12-19, dated December 20, 2012 | San Joaquin Valley | March 4, 2013 | August 31, 2016, 81 FR 59876 | See 40 CFR 52.220(c)(478)(ii)(A)(3). Note that SJVUAPCD's commitments to adopt, submit, and implement substitute rules were revised by California Air Resources Board Resolution 20-15, dated May 28, 2020, in paragraph (c)(539)(ii)(A)(2). See 40 CFR 52.220(c)(478)(ii)(A)(4).
California Air Resources Board Resolution 13-2, dated January 24, 2013 | San Joaquin Valley | March 4, 2013 | August 31, 2016, 81 FR 59876 | Resolution is titled “San Joaquin Valley PM2.5 State Implementation Plan.” Adopted by California Air Resources Board on January 24, 2013. See 40 CFR 52.220(c)(478)(ii)(B)(1).
Supplemental Document, Clean Air Act Subpart 4: The 2012 PM2.5 Plan for the 2006 PM2.5 Standard and District Rule 2201 (New and Modified Stationary Source Review) (dated September 18, 2014) | San Joaquin Valley | November 6, 2014 | August 31, 2016, 81 FR 59876 | Adopted by San Joaquin Valley Unified APCD on September 18, 2014. See 40 CFR 52.220(c)(479)(ii)(A)(1).
San Joaquin Valley Unified APCD Resolution No. 14-09-01, dated September 18, 2014 | San Joaquin Valley | November 6, 2014 | August 31, 2016, 81 FR 59876 | Resolution is titled “In the Matter of: Authorizing Submittal of “Supplemental Document for the 2012 PM2.5 Plan” to EPA.” See 40 CFR 52.220(c)(479)(ii)(A)(2).
California Air Resources Board Resolution 14-37, dated October 24, 2014 | San Joaquin Valley | November 6, 2014 | August 31, 2016, 81 FR 59876 | Resolution is titled “Supplemental Document for the San Joaquin Valley 24-Hour PM2.5 State Implementation Plan.” See 40 CFR 52.220(c)(479)(ii)(B)(1).
Report on Reductions Achieved from Incentive-based Emission Reduction Measures in the San Joaquin Valley, including appendices F-H | San Joaquin Valley | November 17, 2014 | August 12, 2016, 81 FR 53300 | Adopted by California Air Resources Board on October 24, 2014. See 40 CFR 52.220(c)(477)(ii)(A)(1).
Letter from David Warner, Deputy Air Pollution Control Officer, San Joaquin Valley Unified APCD, to Gerardo C. Rios, Chief, Air Permits Office, EPA Region IX, dated June 26, 2014 | San Joaquin Valley | June 26, 2014 | September 17, 2014, 79 FR 55637 | See 40 CFR 52.220(c)(400)(ii)(C)(1).
2013 Plan for the Revoked 1-Hour Ozone Standard, excluding section 4.4 (“Contingency Reductions”) | San Joaquin Valley | December 20, 2013 | April 5, 2016, 81 FR 19492 | Adopted by the San Joaquin Valley Unified APCD on September 19, 2013 and approved by California Air Resources Board on November 21, 2013. See 40 CFR 52.220(c)(470)(ii)(B)(1).
Letter and enclosures from Lynn Terry, Deputy Executive Officer, California Air Resources Board, dated June 19, 2014, excluding EMFAC2011 output files | San Joaquin Valley | June 19, 2014 | April 5, 2016, 81 FR 19492 | Supplemental information related to Appendix D (“VMT Emissions Offset Demonstration”) of the San Joaquin Valley 2013 Plan for the Revoked 1-Hour Ozone Standard. See 40 CFR 52.220(c)(470)(ii)(A)(1).
California Air Resources Board Executive Order S-11-024, November 18, 2011 | San Joaquin Valley | November 18, 2011 | November 29, 2012, 77 FR 71109 | Resolution adopting specified portions of San Joaquin Valley Unified APCD Rule 4694 as a revision to the SIP. See 40 CFR 52.220(c)(416)(ii)(A)(1).
San Joaquin Valley Unified APCD Resolution No. 11-08-20, August 18, 2011 | San Joaquin Valley | November 18, 2011 | November 29, 2012, 77 FR 71109 | Resolution adopting specified portions of San Joaquin Valley Unified APCD Rule 4694 as a revision to the SIP. See 40 CFR 52.220(c)(416)(ii)(B)(1).
Negative declaration for Synthesized Pharmaceutical Products Manufacturing and Coating Operations at Shipbuilding and Ship Repair Facilities | San Joaquin Valley | June 18, 2009 | March 1, 2012,77 FR 12491 | Adopted by San Joaquin Valley Unified APCD on April 16, 2009. See 40 CFR 52.222(a)(8)(i).
San Joaquin Valley Unified APCD Final Staff Report Negative Declaration for the CTG for Control of Volatile Organic Compounds Emissions from Manufacture of Pneumatic Rubber Tires | San Joaquin Valley | June 20, 2011 | March 1, 2012,77 FR 12491 | Adopted by San Joaquin Valley Unified APCD adopted on December 16, 2010. See 40 CFR 52.222(a)(8)(ii).
2007 Ozone Plan (April 30, 2007) | San Joaquin Valley | November 16, 2007 | March 1, 2012, 77 FR 12652 | Adopted by San Joaquin Valley Unified APCD on April 30, 2007. See 40 CFR 52.220(c)(397)(ii)(B)(1).
San Joaquin Valley Unified APCD Resolution No. 07-04-11a, April 30, 2007. Commitments to achieve emissions reductions as described in Table 6-1 of the 2007 Ozone Plan, as amended December 18, 2008 | San Joaquin Valley | November 16, 2007 | March 1, 2012, 77 FR 12652 | Resolution titled “In the Matter of: Adopting the San Joaquin Valley Unified Air Pollution Control District 2007 Ozone Plan.” See 40 CFR 52.220(c)(397)(ii)(B)(2).
Amendments to the 2007 Ozone Plan (amending the rulemaking schedule for Measure S-GOV-5 Organic Waste Operations) | San Joaquin Valley | April 24, 2009 | March 1, 2012, 77 FR 12652 | Adopted by San Joaquin Valley Unified APCD on December 18, 2008. See 40 CFR 52.220(c)(408)(ii)(A)(1).
San Joaquin Valley Unified APCD Resolution No. 08-12-18. December 18, 2008 | San Joaquin Valley | April 24, 2009 | March 1, 2012, 77 FR 12652 | Resolution titled “In the Matter of: Proposed Amendment to the 2007 Ozone Plan to Extend the Rule Adoption Schedule for Organic Waste Operations.” See 40 CFR 52.220(c)(408)(ii)(A)(2).
Proposed State Strategy for California's 2007 State Implementation Plan | San Joaquin Valley | November 16, 2007 | November 9, 2011, 76 FR 69896 | Adopted by California Air Resources Board on September 27, 2007. See 40 CFR 52.220(c)(356)(ii)(B)(1).
California Air Resources Board Resolution No. 07-28 with Attachments A and B, September 27, 2007. Commitments to achieve the total emissions reductions necessary to attain the Federal standards in the SJV air basin, which represent aggregate emissions reductions of 24 tons per day (tpd) of volatile organic compounds (VOC) and 46 tpd of nitrogen oxides (NOX) by 2023 from existing technologies and 81 tpd of NOX by 2023 from new technologies and to achieve 23 tpd of VOC by 2014; 88-93 tpd of NOX by 2017; 24 tpd of VOC and 56 tpd of NOX by 2020 as provided in California Air Resources Board Resolution 07-28, Attachment B, pp. 3-6 as modified by the 2009 State Strategy Status Report, pp. 20-21 as adopted by California Air Resources Board Resolution No. 09-34 (April 24, 2009) | San Joaquin Valley | November 16, 2007 | March 1, 2012, 77 FR 12652 | See 40 CFR 52.220(c)(356)(ii)(B)(4).
California Air Resources Board Resolution No. 07-28, September 27, 2007, with Attachments A and B. Commitment to achieve the total emissions reductions necessary to attain the Federal standards in the SJV air basin, which represent 2.3 tons per day (tpd) of direct PM2.5 and 17.1 tpd of nitrogen oxides by 2014 for purposes of the 1997 PM2.5 NAAQS, as described in Resolution No. 07-28 at Attachment B, pp. 3-6, and modified by California Air Resources Board Resolution No. 09-34 (April 24, 2009) adopting “Status Report on the State Strategy for California's 2007 State Implementation Plan (SIP) and Proposed Revisions to the SIP Reflecting Implementation of the 2007 State Strategy” and by California Air Resources Board Resolution No. 11-24 (April 28, 2011) adopting the “Progress Report on Implementation of PM2.5 State Implementation Plans (SIP) for the South Coast and San Joaquin Valley Air Basins and Proposed SIP Revisions” | San Joaquin Valley | November 16, 2007 | November 9, 2011, 76 FR 69896 | See 40 CFR 52.220(c)(356)(ii)(B)(2).
California Air Resources Board Executive Order S-07-002, November 16, 2007 | San Joaquin Valley | November 16, 2007 | November 9, 2011, 76 FR 69896 | Executive Order Relating to Approval of the State Strategy for California's State Implementation Plan (SIP) for the Federal 8-Hour Ozone and PM2.5 Standards. See 40 CFR 52.220(c)(356)(ii)(B)(3).
California Air Resources Board Resolution No. 07-20 with Attachment A, June 14, 2007 | San Joaquin Valley | November 16, 2007 | March 1, 2012, 77 FR 12652 | See 40 CFR 52.220(c)(397)(ii)(A)(4).
8-Hour Ozone State Implementation Plan Revisions and Technical Revisions to the PM2.5 State Implementation Plan Transportation Conformity Budgets for the South Coast and San Joaquin Valley Air Basins, Appendix A, page A-6, (dated June 20, 2011), adopted July 21, 2011 | San Joaquin Valley | July 29, 2011 | November 9, 2011, 76 FR 69896 | See 40 CFR 52.220(c)(396)(ii)(A)(1).
Commitment to develop and submit by 2020 revisions to the SIP that will: Reflect modifications to the 2023 emissions reduction target based on updated science and identify additional strategies and implementing agencies needed to achieve the needed reductions by 2023 as given in the 2011 Ozone SIP Revisions on page A-8 | San Joaquin Valley | July 29, 2011 | March 1, 2012, 77 FR 12652 | Commitment included in 8-Hour Ozone State Implementation Plan Revisions and Technical Revisions to the PM2.5 State Implementation Plan Transportation Conformity Budgets for the South Coast and San Joaquin Valley Air Basins, Appendix A. See 40 CFR 52.220(c)(396)(ii)(A)(1)(i).
California Air Resources Board Resolution No. 11-22, July 21, 2011 | San Joaquin Valley | July 29, 2011 | November 9, 2011, 76 FR 69896 | See 40 CFR 52.220(c)(396)(ii)(A)(2).
Commitment to develop, adopt and submit by 2020 contingency measures to be implemented if advanced technology measures do not achieve the planned reductions and attainment contingency measures meeting the requirements of CAA 172(c)(9), pursuant to CAA section 182(e)(5) as given on page 4 | San Joaquin Valley | July 29, 2011 | March 1, 2012, 77 FR 12652 | Commitment included in California Air Resources Board Resolution No. 11-22, July 21, 2011. See 40 CFR 52.220(c)(396)(ii)(A)(2)(i).
Commitment to update the air quality modeling in the SJV 2007 Ozone Plan to reflect the emissions inventory improvements and any other new information by December 31, 2014 or the date by which state implementation plans are due for the expected revision to the Federal 8-hour ozone standard whichever comes first, as provided on page 3 | San Joaquin Valley | July 29, 2011 | March 1, 2012, 77 FR 12652 | Commitment included in California Air Resources Board Resolution No. 11-22, July 21, 2011. See 40 CFR 52.220(c)(396)(ii)(A)(2)(ii).
Commitments to propose measures as provided in Appendix B, Table B-1 of the Progress Report on the Implementation of PM2.5 State Implementation Plans (SIP) for the South Coast and San Joaquin Valley Air Basins and Proposed SIP Revisions (Release Date: March 29, 2011), adopted April 28, 2011, as amended by Appendix A, p. A-7 of the 8-Hour Ozone State Implementation Plan Revisions and Technical Revisions to the PM2.5 State Implementation Plan Transportation Conformity Budgets for the South Coast and San Joaquin Valley Air Basins (Release Date: June 20, 2011), adopted July 21, 2011 | San Joaquin Valley | July 29, 2011 | March 1, 2012, 77 FR 12652; codified on November 27, 2012, 77 FR 70707 | Commitments included in California Air Resources Board Resolution No. 11-22, July 21, 2011. See 40 CFR 52.220(c)(396)(ii)(A)(2)(iii).
California Air Resources Board Executive Order S-11-016, July 29, 2011 | San Joaquin Valley | July 29, 2011 | November 9, 2011, 76 FR 69896 | Executive Order titled “Approval of Revisions to the 8-Hour Ozone State Implementation Plans for the South Coast Air Quality Management District and the San Joaquin Valley Air Pollution Control District.” See 40 CFR 52.220(c)(396)(ii)(A)(3).
2008 PM2.5 Plan (April 30, 2008) | San Joaquin Valley | June 30, 2008 | November 9, 2011, 76 FR 69896 | Adopted by San Joaquin Valley Unified APCD on April 30, 2008. See 40 CFR 52.220(c)(392)(ii)(A)(1).
San Joaquin Valley Unified APCD Resolution No. 08-04-10, April 30, 2008. Commitments to achieve emissions reductions (including emissions reductions of 8.97 tpd of NOX, 6.7 tpd of direct PM2.5, and 0.92 tpd of SOX by 2014) as described in Table 6-3a (p. 6-11), Table 6-3b (p. 6-12), and Table 6-3c (p. 6-12) respectively of the 2008 PM2.5 Plan and commitments to adopt and submit control measures as described in Table 6-2 (p. 6-9) of the 2008 PM2.5 Plan, as amended June 17, 2010 | San Joaquin Valley | June 30, 2008 | November 9, 2011, 76 FR 69896 | Resolution titled “In the Matter of: Adopting the San Joaquin Valley Unified Air Pollution Control District 2008 PM2.5 Plan.” See 40 CFR 52.220(c)(392)(ii)(A)(2).
California Air Resources Board Resolution No. 08-28, May 22, 2008, with Attachment A | San Joaquin Valley | June 30, 2008 | November 9, 2011, 76 FR 69896 | See 40 CFR 52.220(c)(392)(ii)(B)(1).
2008 PM2.5 Plan Amendment to Extend the Rule 4905 Amendment Schedule, June 17, 2010 | San Joaquin Valley | September 15, 2010 | November 9, 2011, 76 FR 69896 | See 40 CFR 52.220(c)(394)(ii)(A)(1).
San Joaquin Valley Unified APCD Resolution 10-06-18, June 17, 2010 | San Joaquin Valley | September 15, 2010 | November 9, 2011, 76 FR 69896 | Resolution titled “In the Matter of: Proposed Amendments to the 2008 PM2.5 Plan to Extend the Rule Amendment Schedule for Rule 4905 (Natural Gas-Fired, Fan-Type Residential Central Furnaces).” See 40 CFR 52.220(c)(394)(ii)(A)(2).
California Air Resources Board Executive Order S-10-003, September 15, 2010 | San Joaquin Valley | September 15, 2010 | November 9, 2011, 76 FR 69896 | Executive Order relating to Approval of Amendments to the 2008 PM2.5 Plan to Extend the Rule Amendment Schedule for Rule 4905 (Natural Gas-Fired, Fan-Type Residential Central Furnaces). See 40 CFR 52.220(c)(394)(ii)(B)(1).
Status Report on the State Strategy for California's 2007 State Implementation Plan (SIP) and Proposed Revisions to the SIP Reflecting Implementation of the 2007 State Strategy, pages 11-17, April 24, 2009 | San Joaquin Valley | August 12, 2009 | November 9, 2011, 76 FR 69896 | See 40 CFR 52.220(c)(393)(ii)(A)(1).
California Air Resources Board Resolution No. 09-34, April 24, 2009 | San Joaquin Valley | August 12, 2009 | November 9, 2011, 76 FR 69896 | See 40 CFR 52.220(c)(393)(ii)(A)(2).
Progress Report on Implementation of PM2.5 State Implementation Plans (SIP) for the South Coast and San Joaquin Valley Air Basins and Proposed SIP Revisions, Release Date: March 29, 2011 | San Joaquin Valley | May 18, 2011 | November 9, 2011, 76 FR 69896 | See 40 CFR 52.220(c)(395)(ii)(A)(1).
California Air Resources Board Resolution No. 11-24, April 28, 2011. Commitment to propose measures as described in Appendix B of the Progress Report on the Implementation of PM2.5 State Implementation Plans (SIP) for the South Coast and San Joaquin Valley Air Basins and Proposed SIP Revisions | San Joaquin Valley | May 18, 2011 | November 9, 2011, 76 FR 69896 | See 40 CFR 52.220(c)(395)(ii)(A)(2).
California Air Resources Board Executive Order S-11-010, May 18, 2011 | San Joaquin Valley | May 18, 2011 | November 9, 2011, 76 FR 69896 | Executive Order titled “Approval of Revisions to the Fine Particulate Matter State Implementation Plans for the South Coast Air Quality Management Plans for the South Coast Air Quality Management District and the San Joaquin Valley Air Pollution Control District.” See 40 CFR 52.220(c)(395)(ii)(A)(3).
Reasonably Available Control Technology (RACT) Demonstration for Ozone State Implementation Plan (SIP) | San Joaquin Valley | June 18, 2009 | January 10, 2012, 77 FR 1417 | Adopted by San Joaquin Valley Unified APCD on April 16, 2009. See 40 CFR 52.220(c)(407)(ii)(A)(1).
2007 PM10 Maintenance Plan and Request for Redesignation, section 6. Contingency Plan on pages 16 to 17 | San Joaquin Valley | November 16, 2007 | November 12, 2008, 73 FR 66759 | Adopted by the San Joaquin Valley Unified APCD on September 20, 2007. See 40 CFR 52.220(c)(356)(i)(A)(1).
2007 PM10 Maintenance Plan and Request for Redesignation, except for Appendices A through F | San Joaquin Valley | November 16, 2007 | November 12, 2008, 73 FR 66759 | Adopted by the San Joaquin Valley Unified APCD on September 20, 2007. See 40 CFR 52.220(c)(356)(ii)(A)(1).
California Air Resources Board, Staff Report, Analysis of the San Joaquin Valley 2007 PM10 Maintenance Plan, Release Date: October 12, 2007, Appendix B Emission Inventory | San Joaquin Valley | November 16, 2007 | November 12, 2008, 73 FR 66759 | See 40 CFR 52.220(c)(356)(ii)(A)(2).
Letter dated May 13, 2008, from James N. Goldstene, California Air Resources Board, to Wayne Nastri, EPA, providing revised motor vehicle emission budgets for the 2007 San Joaquin Valley PM10 Maintenance Plan | San Joaquin Valley | May 13, 2008 | November 12, 2008, 73 FR 66759 | See 40 CFR 52.220(c)(356)(ii)(A)(3).
2003 PM10 Plan, San Joaquin Valley Plan to Attain Federal Standards for Particulate Matter 10 Microns and Smaller (all except “Contingency Control Measures” section, pages 4-53 to 4-55), and “Regional Transportation Planning Agency Commitments for Implementation,” dated April 2003 (Volume 3) | San Joaquin Valley | August 19, 2003 | May 26, 2004, 69 FR 30006 | Adopted by San Joaquin Valley Unified APCD on June 19, 2003. See 40 CFR 52.220(c)(317)(i)(A)(2).
Amendments to the 2003 San Joaquin Valley Plan to Attain Federal Standards for Particulate Matter 10 Microns and Smaller | San Joaquin Valley | December 30, 2003 | May 26, 2004, 69 FR 30006 | Adopted by San Joaquin Valley Unified APCD on December 18, 2003. See 40 CFR 52.220(c)(327)(i)(A)(1).
Amended 2002 and 2005 Ozone Rate of Progress Plan for San Joaquin Valley: Appendix E, “Regional Transportation Planning Agency Commitments for Implementation” | San Joaquin Valley | April 10, 2003 | May 26, 2004, 69 FR 30006; codified at 69 FR 53835 (September 3, 2004) | Adopted by San Joaquin Valley Unified APCD on December 19, 2002. Approved as part of the approval of the PM10 plan. See 40 CFR 52.220(c)(330)(i)(A)(1).
Railroad Grade Separations TCM | San Joaquin Valley | March 2, 1995 | August 18, 1995, 60 FR 43015 | Revised ozone transportation control measure (TCM) for the San Joaquin Valley adopted on September 14, 1994. See 40 CFR 52.220(c)(223)(i)(A).
Post-1996 Rate-of-Progress plan, as contained in “San Joaquin Valley Revised Post-1996 Rate-of-Progress Plans” | San Joaquin Valley | July 12, 1996 | January 8, 1997, 62 FR 1150 | Adopted by San Joaquin Valley Unified APCD on September 20, 1995. See 40 CFR 52.220(c)(238)(i)(B)(1).
Control measures, emissions inventory, 15% Rate-of-Progress plan, Post-1996 Rate-of-Progress plan, modeling, and ozone attainment demonstration, as contained in “San Joaquin Valley Attainment and Rate-of-Progress Plans” | San Joaquin Valley | November 15, 1994 | January 8, 1997, 62 FR 1150 | Adopted by San Joaquin Valley Unified APCD on November 14, 1994. See 40 CFR 52.220(c)(204)(i)(D)(1).
Negative Declaration Finding No Major Sources of Nitrogen Oxides in the following Categories: Nitric and Adipic Acid Manufacturing; Cement Manufacturing; Asphalt Batch Plants; Iron and Steel Manufacturing; and Driers | San Joaquin Valley | October 17, 1994 | August 15, 1997, 62 FR 43645 | Resolution adopted by San Joaquin Valley Unified APCD on September 14, 1994. See 40 CFR 52.222(b)(2)(i).
The 1982 Ozone and CO Clean Air Plan for the Fresno nonattainment area, except for the attainment and RFP demonstration portions of the plans | San Joaquin Valley | December 1, 1982 | July 30, 1984, 49 FR 30300 | See 40 CFR 52.220(c)(146).
The San Joaquin Valley Air Basin Control Strategy | San Joaquin Valley Air Basin | October 11, 1979 | July 1, 1982, 47 FR 28617 | This plan is chapter 16 of the Comprehensive Revisions to the State of California Implementation Plan for the Attainment and Maintenance of Ambient Air Quality Standards. Those portions of the San Joaquin Valley Air Basin Control Strategy identified by Tables 16-1a, 1b and 1c (Summary of Plan Compliance with Clean Air Act Requirements) except for those portions which pertain to Fresno County and the six transportation control measures for Stanislaus County, comprise the submitted plan. The remaining portions are for informational purposes only. See 40 CFR 52.220(c)(71).
Part X—San Joaquin Valley Air Basin | San Joaquin Valley Air Basin | February 21, 1972 | May 31, 1972, 37 FR 10842 | Part of original SIP submittal. See 40 CFR 52.220(b).
The 1982 Ozone Air Quality Plan for Stanislaus County | Stanislaus County | December 1, 1982 | December 20, 1983, 48 FR 56215 | See 40 CFR 52.220(c)(129).

Table 9—South Central Coast Air Basin
Name of SIP provision | Applicable geographic area | State submittal date | EPA approval date | Explanation
Emission Inventories, 1-hour ozone maintenance demonstration, commitments to continue ambient monitoring and to track progress, and contingency measures, as contained in the Final 2001 Clean Air Plan | Santa Barbara County | February 21, 2003 | July 9, 2003, 68 FR 40789 | Adopted by Santa Barbara County APCD on December 19, 2002. See 40 CFR 52.220(c)(314)(i)(A)(1).
2001 Clean Air Plan Contingency Control Measures R-SC-1 (Architectural Coatings); N-IC-1 and N-IC-3 (Control of Emissions from Reciprocating Internal Combustion Engines); N-XC-2 (Large Water Heaters and Small Boilers, Steam Generators, and Process Heaters); R-SL-2 (Solvent Degreasers) [incorrectly identified as CAP Control Measure R-SL-1 in Table 4-3, “Proposed APCD Control Measures”]; R-SL-2 (Solvent Cleaning Operations); N-IC-2 (Gas Turbines); R-SL-4 (Electronic Industry-Semiconductor Manufacturing); N-XC-4 (Small Industrial and Commercial Boilers, Steam Generators, and Process Heaters) | Santa Barbara County | May 29, 2002 | August 27, 2002, 67 FR 54963 | Adopted by Santa Barbara County APCD on adopted on November 15, 2001. See 40 CFR 52.220(c)(298)(i)(A)(1).
Control measures 333, 352, 353, T13, T18, T21, and T22; 1999 rate-of-progress plan; and motor vehicle emissions budgets (cited on page 5-4), as contained in the Santa Barbara 1998 Clean Air Plan | Santa Barbara County | March 19, 1999 | August 14, 2000, 65 FR 49499 | See 40 CFR 52.220(c)(275)(i)(A)(1).
Baseline and projected emissions inventories, and ozone attainment demonstration, as contained in the Santa Barbara 1998 Clean Air Plan | Santa Barbara County | March 19, 1999 | August 14, 2000, 65 FR 49499 | See 40 CFR 52.220(c)(275)(ii)(A)(1).
Negative Declaration in Lieu of Rules and Negative Declaration Findings on: Reactor Processes and Distillation Operations Processes in the Synthetic Organic Chemical Manufacturing Industry; Batch Processes; and Wood Furniture Manufacturing Operations | Santa Barbara County | April 9, 2002 | August 26, 2002, 67 FR 54739 | Adopted by Santa Barbara County APCD on February 21, 2002. See 40 CFR 52.222(a)(3)(ii).
Resolution of the Air Pollution Control District Board, County of Santa Barbara County, State of California, Resolution No. 96-5 | Santa Barbara County | July 12, 1996 | July 31, 1997, 62 FR 40934 | Negative declaration for Industrial Wastewater, Plastic Parts Coating: Business Machines, Plastic Parts Coating: Other, Industrial Cleaning Solvents, Offset Lithography, and Shipbuilding Coatings adopted by Santa Barbara County APCD on May 16, 1996. See 40 CFR 52.222(a)(3)(i).
Emissions inventory, 15% Rate-of-Progress plan, and control measures, as contained in “1994 Clean Air Plan for Santa Barbara County” | Santa Barbara County | November 14, 1994 | January 8, 1997, 62 FR 1187 | Adopted by Santa Barbara County APCD on November 2, 1994. See 40 CFR 52.220(c)(211)(i)(A)(2).
TCM-5, Improve Commuter Public Transit Service | Santa Barbara County | November 14, 1994 | May 1, 1995, 60 FR 21045 | Adopted by Santa Barbara County APCD on November 2, 1994. See 40 CFR 52.220(c)(211)(i)(A)(1).
The 1982 Ozone Air Quality Plan for Santa Barbara County | Santa Barbara County | December 31, 1982 | December 20, 1983, 48 FR 56215 | See 40 CFR 52.220(c)(130).
Schedule to study Nontraditional Total Suspended Particulate Sources and commitment to implement control measures necessary to provide for attainment | Santa Barbara County | November 18, 1981 | May 5, 1982, 47 FR 19330 | See 40 CFR 52.220(c)(105).
Part V—South Central Coast Air Basin | South Central Coast Air Basin | February 21, 1972 | May 31, 1972, 37 FR 10842 | Part of original SIP submittal. See 40 CFR 52.220(b).
The South Central Coast Air Basin Control Strategy | South Central Coast Air Basin—Santa Barbara County | October 18, 1979 | May 5, 1982, 47 FR 19330 | This plan is chapter 17 of the Comprehensive Revision to the State of California Implementation Plan for the Attainment and Maintenance of Ambient Air Quality Standards. Those portions of the South Central Coast Air Basin Control Strategy identified by Tables 17-1 “Location of Plan Elements Which Meet Clean Air Act Requirements-Santa Barbara County” together with the rules comprise the submitted nonattainment area plan. The remaining portions are for informational purposes only. See 40 CFR 52.220(c)(77)(ii).
The South Central Coast Air Basin Control Strategy | South Central Coast Air Basin—Ventura County portion | October 18, 1979 | July 1, 1982, 47 FR 28617 | This plan is chapter 17 of the Comprehensive Revision to the State of California Implementation Plan for the Attainment and Maintenance of Ambient Air Quality Standards. Those portions of the South Central Coast Air Basin Control Strategy identified by Table 17-2 “Location of Plan Elements Which Meet Clean Air Act Requirements—Ventura County” together with the rules comprise the submitted nonattainment area plan. The remaining portions are for informational purposes only. See 40 CFR 52.220(c)(77)(ii).
Certification of the Nonattainment New Source Review Program Compliance Demonstration for the 2015 Federal Ozone Standard | Ventura County | August 3, 2021 | August 15, 2023, 88 FR 55377 | Adopted by the Ventura County Air Pollution Control District on June 8, 2021. Submitted on August 3, 2021, as an attachment to a letter of the same date. See 40 CFR 52.220(c)(591)(ii)(C)(1).
2020 Emissions Statement Certification for Ventura County, California | Ventura County | July 29, 2020 | July 29, 2022, 87 FR 45657 | Adopted by Ventura County APCD on July 14, 2020. See 40 CFR 52.220(c)(579)(ii)(A)(1).
Final 2016 Ventura County Air Quality Management Plan, excluding chapter 7 (“Contingency Measures”) | Ventura County | April 11, 2017 | February 27, 2020, 85 FR 11814 | Adopted by Ventura County APCD on February 14, 2017. See 40 CFR 52.220(c)(532)(ii)(A)(1).
2018 Updates to the California State Implementation Plan, chapter III (“SIP Elements for Ventura County”), excluding section III.C (“Contingency Measures”); and pages A-7 through A-10 of appendix A (“Nonattainment Area Inventories”), only | Ventura County | December 11, 2018 | February 27, 2020, 85 FR 11814 | Adopted by California Air Resources Board on October 25, 2018. Submitted electronically on December 11, 2018 as an attachment to a letter dated December 5, 2018. See 40 CFR 52.220(c)(514)(ii)(A)(4).
NNSR Compliance Demonstrations for the 2008 Ozone NAAQS | Ventura County | August 31, 2018 | December 3, 2019, 84 FR 66074 | Adopted by the Ventura County APCD on July 31, 2018. See 40 CFR 52.220(c)(528)(ii)(B)(1).
Reasonably Available Control Technology State Implementation Plan Revision | Ventura County | July 18, 2014 | January 15, 2015, 80 FR 2016 | Adopted by the Ventura County APCD on June 10, 2014. See 40 CFR 52.220(c)(449)(ii)(A)(1) and 40 CFR 52.222(a)(10)(ii).
Reasonably Available Control Technology State Implementation Plan Revision (2009 RACT SIP Revision) | Ventura County | November 17, 2009 | May 15, 2014, 79 FR 27761 | Adopted by the Ventura County APCD on September 15, 2009. See 40 CFR 52.220(c)(437)(ii)(A)(1) and 40 CFR 52.222(a)(10)(i).
Ventura County Air Pollution Control Board Resolution approving and adopting the 2006 Reasonably Available Control Technology State Implementation Plan Revision, dated June 27, 2006 | Ventura County | January 31, 2007 | April 21, 2009, 74 FR 18148 | See 40 CFR 52.220(c)(358)(i)(B)(1).
Final Ventura County Air Pollution Control District 2006 Reasonably Available Control Technology (RACT) State Implementation Plan (SIP) Revision, including Tables A-1, A-2, B, C, and D, dated June 27, 2006 | Ventura County | January 31, 2007 | April 21, 2009, 74 FR 18148 | See 40 CFR 52.220(c)(358)(i)(B)(2).
Attachment 3 to California Air Resources Board Executive Order S-07-003, Appendix H, Revised Proposed Revision to the Pesticide Element of the 1994 Ozone SIP for the Ventura County Nonattainment Area (August 13, 2007) | Ventura County | November 30, 2007 | July 18, 2008, 73 FR 41277 | See 40 CFR 52.220(c)(355)(i)(A)(1).
California Air Resources Board Executive Order S-07-003, November 30, 2007; to Wit: Revised Pesticide Element of the 1994 Ozone SIP for the Ventura County Nonattainment Area | Ventura County | November 30, 2007 | July 18, 2008, 73 FR 41277 | See 40 CFR 52.220(c)(355)(i)(A)(2).
Commitments to adopt and implement control measures contained in the Ventura 1997 Air Quality Management Plan | Ventura County | November 5, 1997 | April 21, 1998, 63 FR 19659 | Adopted by Ventura County APCD on October 21, 1997. See 40 CFR 52.220(c)(251)(i)(A)(1).
“Revised Rule Adoption and Implementation Schedule” (Table 4-2) and “Architectural Coatings” (Appendix E-95, Tables E-43 and E-45) contained in “Ventura County 1995 Air Quality Management Plan Revision” | Ventura County | July 12, 1996 | January 8, 1997, 62 FR 1150 | Adopted by Ventura County APCD on December 19, 1995. See 40 CFR 52.220(c)(238)(i)(A)(1).
Control measures, emissions inventory, 15% Rate-of-Progress plan, Post-1996 Rate-of-Progress plan, modeling, and ozone attainment demonstration, as contained in “1994 Air Quality Management Plan for Ventura County” | Ventura County | November 15, 1994 | January 8, 1997, 62 FR 1150 | Adopted by Ventura County APCD on November 8, 1994. See 40 CFR 52.220(c)(204)(i)(E)(1).
The 1982 Ozone Air Quality Management Plan for Ventura County, except for the attainment and RFP demonstration portions of the plan | Ventura County | December 31, 1982 | July 30, 1984, 49 FR 30300 | See 40 CFR 52.220(c)(145).
Appendix B-81, Empirical Kinetic Modeling Approach: Ozone Formation, Transport, and Concentration Relationships in Ventura County; Update of Emission Reduction Required for Attainment of Ozone NAAQS | Ventura County | April 1, 1980 | July 1, 1982, 47 FR 28617 | See 40 CFR 52.220(c)(110)(i).
Letter: Jan Bush to Mike Redemer, January 23, 1981 | Ventura County | January 23, 1981 | July 1, 1982, 47 FR 28617 | See 40 CFR 52.220(c)(110)(ii).
Letter and enclosures: Janet Lyders to Mike Scheible, February 6, 1981 | Ventura County | February 6, 1981 | July 1, 1982, 47 FR 28617 | See 40 CFR 52.220(c)(110)(iii).
Letter and enclosures: Jan Bush to William Lockett, December 15, 1980 | Ventura County | December 15, 1980 | July 1, 1982, 47 FR 28617 | See 40 CFR 52.220(c)(110)(iv).
Letter and enclosures: Jan Bush to William Lockett, October 23, 1980 | Ventura County | October 23, 1980 | July 1, 1982, 47 FR 28617 | See 40 CFR 52.220(c)(110)(v).
Attachment V—Transportation Control Measures | Ventura County | July 16, 1981 | July 1, 1982, 47 FR 28617 | See 40 CFR 52.220(c)(111)(i).
Ventura Air Quality Management Plan, Appendix O, Plan for Attainment of Standards for Total Suspended Particulates In Ventura County: Interim Report, July, 1980 | Ventura County | July 16, 1981 | July 1, 1982, 47 FR 28617 | See 40 CFR 52.220(c)(111)(ii).
Attachment IV—Population Forecasts | Ventura County | July 16, 1981 | July 1, 1982, 47 FR 28617 | See 40 CFR 52.220(c)(111)(iii).
Attachment VI—Implementation of Emission Reductions Required for Attainment of TSP Standards | Ventura County | July 16, 1981 | July 1, 1982, 47 FR 28617 | See 40 CFR 52.220(c)(111)(iv).

Table 10—South Coast Air Basin
Name of SIP provision | Applicable geographic area | State submittal date | EPA approval date | Explanation
“Final South Coast Air Basin Attainment Plan for the 2006 24-hour PM2.5 Standard,” portions of Chapter 3 (“Base-Year and Future Emissions”) and Appendix I (“Emissions Inventory”) pertaining to the 2018 base year emissions inventory | South Coast Air Basin | December 29, 2020 | June 3, 2025, 90 FR 23443 | Adopted by the South Coast Air Quality Management District on December 4, 2020. Submitted on December 29, 2020 as an attachment to a letter dated December 28, 2020. See 40 CFR 52.220(c)(627)(ii)(A)(1).
Final Certification of Nonattainment New Source Review and Clean Fuels for Boilers Compliance Demonstration for 2015 8-hour Ozone Standard, excluding the “Clean Fuels for Boilers Compliance Demonstration” | South Coast Air Basin | August 3, 2021 | August 15, 2023, 88 FR 55377 | Relates to both the South Coast Air Basin and Coachella Valley. Adopted by the South Coast Air Quality Management District on June 4, 2021. Submitted on August 3, 2021, as an attachment to a letter of the same date. See 40 CFR 52.220(c)(591)(ii)(B)(2).
Final Certification of Nonattainment New Source Review and Clean Fuels for Boilers Compliance Demonstration for 2015 8-hour Ozone Standard, excluding the “Nonattainment New Source Review Compliance Demonstration” | South Coast Air Basin | August 3, 2021 | May 8, 2023, 88 FR 29539 | Adopted by the South Coast Air Quality Management District on June 4, 2021. Submitted on August 3, 2021, as an attachment to a letter of the same date. See 40 CFR 52.220(c)(591)(ii)(B)(1).
California Air Resources Board Resolution 18-3, adopted March 22, 2018, as revised by Executive Order S-20-030, adopted November 23, 2020 | South Coast Air Basin | May 4, 2018 | January 15, 2021, 86 FR 3820 | Relates to CARB's South Coast On-Road Heavy-Duty Vehicle Incentive Program. See 40 CFR 52.220(c)(550)(ii)(A)(1).
Emissions Statement Certification | South Coast Air Basin | August 3, 2020 | July 29, 2022, 87 FR 45657 | Adopted by South Coast AQMD on June 5, 2020. See 40 CFR 52.220(c)(574)(ii)(E)(1).
Final 2016 Air Quality Management Plan (March 2017) and appendices, excluding the portions of the plan and appendices related solely to PM2.5 and Coachella Valley, and excluding the portion of chapter 6 that is titled “California Clean Air Act Requirements,” chapter 8 (“Looking Beyond Current Requirements”), chapter 9 (“Air Toxics Control Strategy”) and chapter 10 (“Climate and Energy”) | South Coast Air Basin | April 27, 2017 | October 1, 2019, 84 FR 52005 | Adopted by South Coast AQMD on March 3, 2017. See 40 CFR 52.220(c)(517)(ii)(B)(4).
The following portions of the “Final 2016 Air Quality Management Plan (March 2017): Chapter 5 (“PM2.5 Modeling Approach”), pages 5-17 through 5-27; Appendix III (“Base and Future Year Emission Inventory”), Attachment A (“Annual Average Emissions by Source Category in South Coast Air Basin”) for PM2.5, NOX, SO2, VOC, and NH3 for years 2012, 2019, 2021, and 2022, and Attachment D, tables D-1, D-7, D-11, and D-13; Appendix IV-A (“SCAQMD's Stationary and Mobile Source Control Measures”), Table IV-A-4 and Section 2 (“PM2.5 Control Measures”); Appendix IV-C (“Regional Transportation Strategy and Control Measures”), Section III (“Reasonably Available Control Measure Analysis”); Appendix V (“Modeling and Attainment Demonstration”), Chapter 6 (“Annual PM2.5 Attainment Demonstration”) and Attachment 7 (“Annual Unmonitored Area Analysis Supplement”); Appendix VI-A (“Reasonably Available Control Measures (RACM)/Best Available Control Measures (BACM) Demonstration”), pages VI-A-5 through VI-A-11, pages VI-A-22 through VI-A-32, pages VI-A-36 through VI-A-38, Attachment VI-A-1 (“Evaluation of SCAQMD Rules and Regulations”), Attachment VI-A-2 (“Control Measure Assessment”), and Attachment VI-A-3 (“California Mobile Source Control Program Best Available Control Measures/Reasonably Available Control Measures Assessment”); Appendix VI-B (“Impracticability Demonstration for Request for “Serious” Classification for 2012 Annual PM2.5 Standard”); Appendix VI-C (“Reasonable Further Progress (RFP) and Milestone Years”), pages VI-C-5 through VI-C-14, and Attachment VI-C-1 (“California Existing Mobile Source Control Program”); Appendix VI-D (“General Conformity and Transportation Conformity Budget”), pages VI-D-2 through VI-D-4, excluding tables VI-D-1 and VI-D-2; and Appendix VI-F (“PM Precursor Requirements”) | South Coast Air Basin | April 27, 2017 | November 9, 2020, 85 FR 71264 | Adopted by South Coast AQMD on March 3, 2017. See 40 CFR 52.220(c)(517)(ii)(B)(7).
The following portions of the “Final 2016 Air Quality Management Plan (March 2017)”: Chapter 5 (“PM2.5 Modeling Approach”), pages 5-17 through 5-27; Appendix III (“Base and Future Emission Inventory”), Attachment A (“Annual Average Emissions by Source Category in South Coast Air Basin”) for PM2.5, NOX, SO2, VOC, and NH3 for years 2012, 2017, 2019, and 2020 and Attachment D, tables D-1, D-3, D-7 and D-9; Appendix IV-A (“SCAQMD's Stationary and Mobile Source Control Measures”), Table IV-A-4 and section 2 (“PM2.5 Control Measures”); Appendix IV-C (“Regional Transportation Strategy and Control Measures”), section IV (“TCM Best Available Control Measure (BACM) Analysis for 2006 24-Hour and 2012 Annual PM2.5 NAAQS”); Appendix V (“Modeling and Attainment Demonstration”), Chapter 7 (“24-hour PM2.5 Demonstration”) and Attachment 8 (“24-hour Unmonitored Area Analysis Supplement”); Appendix VI-A (“Reasonably Available Control Measures (RACM)/Best Available Control Measures (BACM) Demonstration”), pages VI-A-13 through VI-A-42, Attachment VI-A-1 (“Evaluation of SCAQMD Rules and Regulations”), Attachment VI-A-2 (“Control Measure Assessment”), and Attachment VI-A-3 (“California Mobile Source Control Program Best Available Control Measures/Reasonably Available Control Measures Assessment”); Appendix VI-C (“Reasonable Further Progress (RFP) and Milestone Years”), pages VI-C-5 through VI-C-8, and Attachment VI-C-1 (“California Existing Mobile Source Control Program”); Appendix VI-D (“General Conformity and Transportation Conformity Budget”), pages VI-D-2 through VI-D-6 and excluding tables VI-D-1 through 3; and Appendix VI-F (“Precursor Requirements”) | South Coast Air Basin | April 27, 2017 | February 12, 2019, 84 FR 3305; corrected at 84 FR 19680 (May 3, 2019). | Adopted by the South Coast AQMD on March 3, 2017. See 40 CFR 52.220(c)(517)(ii)(B)(1).
South Coast AQMD Resolution 17-2, March 3, 2017, commitments to develop, adopt, submit and implement the ozone control measures in tables 4-2 and 4-4 of chapter 4 in the AQMP as expeditiously as possible to meet or exceed the commitments identified in tables 4-9, 4-10 and 4-11 of the AQMP, and to substitute any other measures as necessary to make up any emissions reduction shortfall | South Coast Air Basin | April 27, 2017 | October 1, 2019, 84 FR 52005 | Resolution titled “A Resolution of the South Coast Air Quality Management District (SCAQMD or District) Governing Board certifying the Final Program Environmental Impact Report (PEIR) for the 2016 Air Quality Management Plan (AQMP or Plan), and adopting the 2016 AQMP, which is to be submitted into the California State Implementation Plan (SIP).” Adopted by South Coast AQMD on March 3, 2017. See 40 CFR 52.220(c)(517)(ii)(B)(5).
California Air Resources Board Resolution 17-8, March 23, 2017, commitments to develop, adopt, and submit contingency measures by 2028 for the 2008 ozone NAAQS if advanced technology measures do not achieve planned reductions | South Coast Air Basin | April 27, 2017 | October 1, 2019, 84 FR 52005 | Resolution titled “2016 Air Quality Management Plan for Ozone and PM2.5 in the South Coast Air Basin and the Coachella Valley.” Adopted on March 23, 2017. See 40 CFR 52.220(c)(517)(ii)(A)(5).
Letter from Dr. Michael T. Benjamin, Chief, Air Quality Planning and Science Division, California Air Resources Board, to Amy Zimpfer, Associate Director, Air Division, EPA Region IX, May 20, 2019 | South Coast Air Basin | May 20, 2019 | October 1, 2019, 84 FR 52005 | Letter clarifies that commitments in Resolution 17-8 to submit contingency measures by 2028 if advanced technology measures do not achieve planned reductions includes a contingency measures to satisfy the requirements in sections 172(c)(9) and 182(c)(9) of the Clean Air Act, only. See 40 CFR 52.220(c)(517)(ii)(A)(6).
Revised Proposed 2016 State Strategy for the State Implementation Plan, subchapter titled “South Coast Commitment” in chapter 3 (“Proposed SIP Commitment”) | South Coast Air Basin | April 27, 2017 | October 1, 2019, 84 FR 52005 | Adopted by California Air Resources Board on March 23, 2017. See 40 CFR 52.220(c)(517)(ii)(A)(4).
California Air Resources Board Resolution 17-7, March 23, 2017, commitments to a rulemaking schedule; to achieve aggregate emissions reductions of 113 tons per day (tpd) of NOX and 50 to 51 tpd of VOC in the South Coast by 2023, and 111 tpd of NOX and 59 to 60 tpd of VOC in the South Coast by 2031; and the rulemaking schedule included in attachment A to Resolution 17-7, only | South Coast Air Basin | April 27, 2017 | October 1, 2019, 84 FR 52005 | Resolution titled “2016 State Strategy for the State Implementation Plan.” Adopted on March 23, 2017. See 40 CFR 52.220(c)(517)(ii)(A)(3).
Updated Federal 1979 1-Hour Ozone Standard Attainment Demonstration (November 2018) | South Coast Air Basin | December 20, 2018 | October 1, 2019, 84 FR 52005 | Adopted by South Coast AQMD on November 2, 2018. See 40 CFR 52.220(c)(525)(ii)(A)(1).
2018 Updates to the California State Implementation Plan, excluding chapters II through VIII, and chapter X, and excluding pages A-3 through A-30 of appendix A (“Nonattainment Area Inventories”) | South Coast Air Basin | December 11, 2018 | October 1, 2019, 84 FR 52005 | Adopted by California Air Resources Board on October 25, 2018. Submitted electronically on December 11, 2018 as an attachment to a letter dated December 5, 2018. See 40 CFR 52.220(c)(514)(ii)(A)(3).
Letter dated March 14, 2018 from Philip Fine, Deputy Executive Officer, Planning, Rule Development, and Area Sources, South Coast AQMD, to Amy Zimpfer, Associate Director, Air Division, EPA Region IX | South Coast Air Basin | March 14, 2018 | February 12, 2019, 84 FR 3305; corrected at 84 FR 19680 (May 3, 2019) | See 40 CFR 52.220(c)(517)(ii)(B)(2).
Letter dated June 15, 2018 from Philip Fine, Deputy Executive Officer, Planning, Rule Development, and Area Sources, South Coast AQMD, to Amy Zimpfer, Associate Director, Air Division, EPA Region IX, regarding “Condensable and Filterable Portions of PM2.5 Emissions in the 2016 AQMD” | South Coast Air Basin | June 15, 2018 | February 12, 2019, 84 FR 3305; corrected at 84 FR 19680 (May 3, 2019) | See 40 CFR 52.220(c)(517)(ii)(B)(3).
Nonattainment New Source Review (NSR) Compliance Demonstration for the 2008 Ozone National Ambient Air Quality Standard (NAAQS) | South Coast Air Basin | November 16, 2017 | December 13, 2018, 83 FR 64026 | Adopted by South Coast AQMD on July 7, 2017. See 40 CFR 52.220(c)(510)(ii)(A)(1).
2016 AQMP Reasonably Available Control Technology (RACT) Demonstration (May 22, 2014) | South Coast Air Basin | July 18, 2014 | September 20, 2017, 82 FR 43850 | Relates to both the South Coast Air Basin and Coachella Valley. See 40 CFR 52.220(c)(449)(ii)(C)(1).
Supplemental RACM/RACT Analysis for the NOX RECLAIM Program (May 2017), excluding Appendices A and B | South Coast Air Basin | July 27, 2017 | September 20, 2017, 82 FR 43850 | Relates to both the South Coast Air Basin and Coachella Valley. Submitted as attachment B to agenda item No. 35, South Coast AQMD Board meeting, July 17, 2017. Appendices A and B include permit conditions for certain stationary sources. The permit conditions are listed elsewhere in part 52, subpart F. See 40 CFR 52.220(c)(492)(ii)(A)(1).
Negative Declaration for Control Techniques Guidelines of Surface Coating Operations at Shipbuilding and Repair Facilities, and Paper, Film and Foil Coatings (May 2017) | South Coast Air Basin | July 27, 2017 | September 20, 2017, 82 FR 43850 | Relates to both the South Coast Air Basin and Coachella Valley. Submitted as attachment C to agenda item No. 35, South Coast AQMD Board meeting, July 17, 2017. See 40 CFR 52.220(c)(492)(ii)(A)(2) and 40 CFR 52.222(a)(13)(i).
2015 Supplement to the 24-Hour PM2.5 State Implementation Plan for the South Coast Air Basin (February 2015), excluding Attachment C (“New Transportation Conformity Budgets for 2015”). South Coast AQMD's commitments to adopt and implement specific rules and measures in accordance with the schedule provided in Chapter 4 of the 2012 PM2.5 Plan as modified by Table F-1 in Attachment F to the 2015 Supplement, to achieve the emissions reductions shown therein, and to submit these rules and measures to CARB within 30 days of adoption for transmittal to EPA as a revision to the SIP, as stated on pp. 7-8 of South Coast AQMD Resolution 12-19 and modified by South Coast AQMD Resolution 15-3, excluding all commitments pertaining to control measure IND-01 (Backstop Measures for Indirect Sources of Emissions from Ports and Port-Related Facilities) | South Coast Air Basin | March 4, 2015 | April 14, 2016, 81 FR 22025 | See 40 CFR 52.220(c)(471)(ii)(A)(1).
South Coast AQMD Resolution No. 15-3, dated February 6, 2015 | South Coast Air Basin | March 4, 2015 | April 14, 2016, 81 FR 22025 | Resolution approving the 2015 Supplement to the 24-Hour PM2.5 SIP for the South Coast Air Basin. See 40 CFR 52.220(c)(471)(ii)(A)(2).
California Air Resources Board Resolution 15-2, dated February 19, 2015 | South Coast Air Basin | March 4, 2015 | April 14, 2016, 81 FR 22025 | Resolution adopting “Minor Revision to the South Coast Air Basin 2012 PM2.5 State Implementation Plan.” See 40 CFR 52.220(c)(471)(ii)(B)(1).
The following portions of the Final 2012 Air Quality Management Plan (December 2012): PM2.5-related portions of chapter 4 (“Control Strategy and Implementation”); Appendix III (“Base and Future Year Emissions Inventory”); Appendix IV-A (“District's Stationary Source Control Measures”); and Appendix V (“Modeling and Attainment Demonstrations”). South Coast AQMD's commitments to adopt and implement specific rules and measures in accordance with the schedule provided in Chapter 4 of the 2012 PM2.5 Plan as modified by Table F-1 in Attachment F to the 2015 Supplement, to achieve the emissions reductions shown therein, and to submit these rules and measures to CARB within 30 days of adoption for transmittal to EPA as a revision to the SIP, as stated on pp. 7-8 of South Coast AQMD Resolution 12-19 and modified by South Coast AQMD Resolution 15-3, excluding all commitments pertaining to control measure IND-01 (Backstop Measures for Indirect Sources of Emissions from Ports and Port-Related Facilities) | South Coast Air Basin | February 13, 2013 | April 14, 2016, 81 FR 22025 | See 40 CFR 52.220(c)(439)(ii)(B)(5).
The PM2.5-related portions of Appendix VI (“Reasonably Available Control Measures (RACM) Demonstration”) of the Final 2012 Air Quality Management Plan (December 2012) | South Coast Air Basin | February 13, 2013 | February 12, 2018, 83 FR 5923 | See 40 CFR 52.220(c)(439)(ii)(B)(6).
The following portions of the Final 2012 Air Quality Management Plan (December 2012): Ozone-related portions of chapter 4 (“Control Strategy and Implementation”); Appendix IV-A (“District's Stationary Source Control Measures”); Appendix IV-B (“Proposed Section 182(e)(5) Implementation Measures”); Appendix IV-C (“Regional Transportation Strategy and Control Measures”); and Appendix VII (“1-Hour Ozone Attainment Demonstration”) | South Coast Air Basin | February 13, 2013 | September 3, 2014, 79 FR 52526 | See 40 CFR 52.220(c)(439)(ii)(B)(2).
Appendix VIII (“Vehicle Miles Traveled Emissions Offset Demonstration”) (December 2012) of the Final 2012 Air Quality Management Plan | South Coast Air Basin | February 13, 2013 | September 3, 2014, 79 FR 52539 | See 40 CFR 52.220(c)(439)(ii)(B)(4).
Letter and enclosures from Lynn Terry, Deputy Executive Officer, California Air Resources Board, dated April 3, 2014 | South Coast Air Basin | April 3, 2014 | September 3, 2014, 79 FR 52539 | Letter and enclosures provide supplemental information related to Appendix VIII (“Vehicle Miles Traveled Emissions Offset Demonstration”) of the Final 2012 Air Quality Management Plan. See 40 CFR 52.220(c)(439)(ii)(A)(3).
South Coast AQMD Resolution No. 12-19, dated December 7, 2012 | South Coast Air Basin | February 13, 2013 | September 3, 2014, 79 FR 52526 | Resolution adopting the Final 2012 Air Quality Management Plan. See 40 CFR 52.220(c)(439)(ii)(B)(1).
Letter from Barry R. Wallerstein, D.Env, Executive Officer, South Coast AQMD, May 1, 2014 | South Coast Air Basin | May 1, 2014 | September 3, 2014, 79 FR 52526 | See 40 CFR 52.220(c)(439)(ii)(B)(3).
California Air Resources Board Resolution 13-3, January 25, 2013 | South Coast Air Basin | February 13, 2013 | September 3, 2014, 79 FR 52526 | Resolution adopting the Final 2012 Air Quality Management Plan (December 2012) prepared by the South Coast AQMD. See 40 CFR 52.220(c)(439)(ii)(A)(1).
Letter from Richard W. Corey, Executive Officer, California Air Resources Board, dated May 2, 2014 | South Coast Air Basin | May 2, 2014 | September 3, 2014, 79 FR 52526 | See 40 CFR 52.220(c)(439)(ii)(A)(2).
South Coast AQMD Proposed Contingency Measures for the 2007 PM2.5 SIP (dated October 2011) (“Contingency Measures SIP”) | South Coast Air Basin | November 14, 2011 | October 29, 2013, 78 FR 64402 | Adopted by South Coast AQMD on October 7, 2011. See 40 CFR 52.220(c)(432)(ii)(A)(1).
South Coast AQMD Resolution No. 11-24, dated October 7, 2011 | South Coast Air Basin | November 14, 2011 | October 29, 2013, 78 FR 64402 | Resolution adopting the Contingency Measures SIP. See 40 CFR 52.220(c)(432)(ii)(A)(2).
Letter dated April 24, 2013 from Elaine Chang, Deputy Executive Officer, South Coast AQMD, to Deborah Jordan, Director, Air Division, EPA Region 9, Re: “Update of the 2012 RFP Emissions and 2015 Reductions from Contingency Measures for the 2007 Annual PM2.5 Air Quality Management Plan for the South Coast Air Basin,” including attachments | South Coast Air Basin | April 24, 2013 | October 29, 2013, 78 FR 64402 | See 40 CFR 52.220(c)(432)(ii)(A)(3).
California Air Resources Board Executive Order S-11-023, dated November 14, 2011 | South Coast Air Basin | November 14, 2011 | October 29, 2013, 78 FR 64402 | Executive Order adopting the Contingency Measures SIP. See 40 CFR 52.220(c)(432)(ii)(B)(1).
Final PM10 Redesignation Request and Maintenance Plan for the South Coast Air Basin (December 2009) (“2009 South Coast PM10 Redesignation Request and Maintenance Plan”) | South Coast Air Basin | April 28, 2010 | June 26, 2013, 78 FR 38223 | Adopted by South Coast AQMD on January 8, 2010. See 40 CFR 52.220(c)(426)(ii)(A)(1).
South Coast AQMD Resolution 10-1, dated January 8, 2010 | South Coast Air Basin | April 28, 2010 | June 26, 2013, 78 FR 38223 | Resolution adopting the 2009 South Coast PM10 Redesignation Request and Maintenance Plan. See 40 CFR 52.220(c)(426)(ii)(A)(2).
California Air Resources Board Resolution 10-21, dated March 25, 2010 | South Coast Air Basin | April 28, 2010 | June 26, 2013, 78 FR 38223 | Resolution adopting the 2009 South Coast PM10 Redesignation Request and Maintenance Plan. See 40 CFR 52.220(c)(426)(ii)(B)(1).
Final South Coast 2007 Air Quality Management Plan (excluding those portions of Chapter 4 (“AQMP Control Strategy”) and Chapter 7 (“Implementation”) addressing District-recommended measures for adoption by California Air Resources Board and references to those measures (pp. 4-43 through 4-54 and the section titled “Recommended Mobile Source and Clean Fuel Control Measures” in table 7-3, pp. 7-8 and 7-9); those portions of Chapter 6 (“Clean Air Act Requirements”) and Chapter 7 (“Implementation”) addressing California Clean Air Act Requirements (pp. 6-13 through 6-22 and page 7-3); those portions of Chapter 4 (“AQMP Control Strategy”) addressing emission and risk reduction goals identified in the AQMP's proposed control measure MOB-03 (“Proposed Backstop Measures for Indirect Sources of Emissions from Ports and Port-Related Facilities”) (p. 4-24); the motor vehicle emissions budgets in Chapter 6 (“Clean Air Act Requirements”) (pp. 6-24 through 6-26), and Chapter 8 (“Future Air Quality—Desert Nonattainment Areas”)) | South Coast Air Basin | November 28, 2007 | November 9, 2011, 76 FR 69928; revised at 82 FR 26854 (June 12, 2017) | Adopted by South Coast AQMD on June 1, 2007. See 40 CFR 52.220(c)(398)(ii)(A)(1).
South Coast AQMD Resolution 07-9, June 1, 2007. Commitments to achieve emissions reductions (including emissions reductions of 19.3 tpd of VOC and 9.2 tpd of nitrogen oxides by 2023) as described by South Coast AQMD Governing Board Resolution No. 07-9, p. 10, June 1, 2007, and modified by South Coast AQMD Governing Board Resolution 11-9, p. 3, March 4, 2011, and commitments to adopt and submit control measures as described in Table 4-2A of the Final 2007 AQMP, as amended March 4, 2011 | South Coast Air Basin | November 28, 2007 | March 1, 2012, 77 FR 12674 | Resolution titled “A Resolution of the Governing Board of the South Coast Air Quality Management District certifying the final Program Environmental Impact Report for the 2007 Air Quality Management Plan, adopting the Final 2007 Air Quality Management Plan (AQMP), to be referred to after adoption as the Final 2007 AQMP, and to fulfill USEPA Requirements for the use of emissions reductions form the Carl Moyer Program in the State Implementation Plan.” See 40 CFR 52.220(c)(398)(ii)(A)(3).
South Coast AQMD Resolution 07-9, June 1, 2007. Commitments to achieve emissions reductions (including emissions reductions of 2.9 tons per day (tpd) of direct PM2.5, 2.9 tpd of SOX, 10.4 tpd of VOC and 10.8 tpd of nitrogen oxides by 2014) as described by South Coast AQMD Resolution No. 07-9, p. 10, June 1, 2007, and modified by South Coast AQMD Resolution 11-9, p. 3, March 4, 2011, and commitments to adopt and submit control measures as described in Table 4-2A of the Final 2007 AQMP, as amended March 4, 2011 | South Coast Air Basin | November 28, 2007 | November 9, 2011, 76 FR 69928 | Resolution titled “A Resolution of the Governing Board of the South Coast Air Quality Management District certifying the final Program Environmental Impact Report for the 2007 Air Quality Management Plan, adopting the Final 2007 Air Quality Management Plan (AQMP), to be referred to after adoption as the Final 2007 AQMP, and to fulfill USEPA Requirements for the use of emissions reductions form the Carl Moyer Program in the State Implementation Plan.” See 40 CFR 52.220(c)(398)(ii)(A)(2).
California Air Resources Board Resolution No. 07-41, September 27, 2007 | South Coast Air Basin | November 28, 2007 | November 9, 2011, 76 FR 69928 | See 40 CFR 52.220(c)(398)(ii)(B)(1).
Proposed State Strategy for California's 2007 State Implementation Plan | South Coast Air Basin | November 16, 2007 | November 9, 2011, 76 FR 69928 | Adopted by California Air Resources Board on September 27, 2007. See 40 CFR 52.220(c)(397)(ii)(A)(1).
California Air Resources Board Resolution No. 07-28 with Attachments A and B, September 27, 2007. Commitment to achieve the total emissions reductions necessary to attain the Federal standards in the South Coast air basin, which represent 152 tpd of NOX and 46 tpd of VOC by 2014, and 54 tpd of VOC and 141 tpd of nitrogen oxides by 2023 for purposes of the 1997 8-hour ozone NAAQS, as described in Resolution No. 07-28 at Attachment B, p. 4, and modified by California Air Resources Board Resolution No. 09-34 (April 24, 2009) adopting the “Status Report on the State Strategy for California's 2007 State Implementation Plan (SIP) and Proposed Revision to the SIP reflecting Implementation of the 2007 State Strategy” | South Coast Air Basin | November 16, 2007 | March 1, 2012, 77 FR 12674 | See 40 CFR 52.220(c)(397)(ii)(A)(5).
California Air Resources Board Resolution No. 07-28 with Attachments A and B, September 27, 2007. Commitment to achieve the total emissions reductions necessary to attain the Federal standards in the South Coast air basin, which represent 6.1 tons per day (tpd) of direct PM2.5, 38.1 tpd of SOX, 33.6 tpd of VOC and 118.2 tpd of nitrogen oxides by 2014 for purposes of the 1997 PM2.5 NAAQS, as described in Resolution No. 07-28 at Attachment B, pp. 3-5, and modified by California Air Resources Board Resolution No. 09-34 (April 24, 2009) adopting the “Status Report on the State Strategy for California's 2007 State Implementation Plan (SIP) and Proposed Revision to the SIP reflecting Implementation of the 2007 State Strategy,” and by California Air Resources Board Resolution 11-24 (April 28, 2011) adopting the “Progress Report on Implementation of PM2.5 State Implementation Plans (SIP) for the South Coast and San Joaquin Valley Air Basins and Proposed SIP Revisions” | South Coast Air Basin | November 16, 2007 | November 9, 2011, 76 FR 69928 | See 40 CFR 52.220(c)(397)(ii)(A)(2).
California Air Resources Board Executive Order S-07-002, November 16, 2007 | South Coast Air Basin | November 16, 2007 | November 9, 2011, 76 FR 69928 | Executive Order Relating to Approval of the State Strategy for California's State Implementation Plan (SIP) for the Federal 8-Hour Ozone and PM2.5 Standards. See 40 CFR 52.220(c)(397)(ii)(A)(3).
Progress Report on Implementation of PM2.5 State Implementation Plans (SIP) for the South Coast and San Joaquin Valley Air Basins and Proposed SIP Revisions, Appendices B and C. Release Date: March 29, 2011 | South Coast Air Basin | May 18, 2011 | November 9, 2011, 76 FR 69928 | See 40 CFR 52.220(c)(399)(ii)(A)(1).
California Air Resources Board Resolution No. 11-24, April 28, 2011 | South Coast Air Basin | May 18, 2011 | November 9, 2011, 76 FR 69928 | See 40 CFR 52.220(c)(399)(ii)(A)(2).
California Air Resources Board Executive Order S-11-010, May 18, 2011 | South Coast Air Basin | May 18, 2011 | November 9, 2011, 76 FR 69928 | Executive order titled “Approval of Revisions to the Fine Particulate Matter State Implementation Plans for the South Coast Air Quality Management Plans for the South Coast Air Quality Management District and the San Joaquin Valley Air Pollution Control District.” See 40 CFR 52.220(c)(399)(ii)(A)(3).
Revisions to the 2007 PM2.5 and Ozone State Implementation Plan for South Coast Air Basin and Coachella Valley (SIP Revisions), adopted on March 4, 2011 | South Coast Air Basin | May 19, 2011 | November 9, 2011, 76 FR 69928 | See 40 CFR 52.220(c)(400)(ii)(A)(1).
South Coast AQMD Resolution 11-9, March 4, 2011 | South Coast Air Basin | May 19, 2011 | November 9, 2011, 76 FR 69928 | Resolution titled “A Resolution of the South Coast Air Quality Management District Governing Board (AQMD) certifying the Addendum to Final Program Environmental Impact Report (PEIR) for the 2007 Air Quality Management Plan, (AQMP), for a revision to the Final 2007 AQMP, to be referred to after adoption as the Revision to the Final 2007 AQMP.” See 40 CFR 52.220(c)(400)(ii)(A)(2).
California Air Resources Board Resolution No. 11-24, April 28, 2011. Commitment to propose measures as described in Appendix B of the “Progress Report on the Implementation of the PM2.5 State Implementation Plans (SIP) for the South Coast and San Joaquin Valley Air Basins and Proposed SIP Revisions” | South Coast Air Basin | May 19, 2011 | November 9, 2011, 76 FR 69928 | See 40 CFR 52.220(c)(400)(ii)(B)(1).
8-Hour Ozone State Implementation Plan Revisions and Technical Revisions to the PM2.5 State Implementation Plan Transportation Conformity Budgets for the South Coast and San Joaquin Valley Air Basins, Appendix A, page A-5 (dated June 20, 2011), adopted July 21, 2011 | South Coast Air Basin | July 29, 2011 | November 9, 2011, 76 FR 69928 | See 40 CFR 52.220(c)(401)(ii)(A)(1).
Commitment to develop and submit by 2020 revisions to the SIP that will reflect modifications to the 2023 emissions reduction target based on updated science, and identify additional strategies and implementing agencies needed to achieve the needed reductions by 2023 as given in the 2011 Ozone SIP Revision on page A-8 | South Coast Air Basin | July 29, 2011 | March 1, 2012, 77 FR 12674 | Commitment included in California Air Resources Board Resolution No. 11-22, July 21, 2011. See 40 CFR 52.220(c)(401)(ii)(A)(1)(i).
California Air Resources Board Resolution No. 11-22, July 21, 2011 | South Coast Air Basin | July 29, 2011 | November 9, 2011, 76 FR 69928 | See 40 CFR 52.220(c)(401)(ii)(A)(2).
Commitment to develop, adopt and submit by 2020 contingency measures to be implemented if advanced technology measures do not achieve the planned emissions reductions, and attainment contingency measures meeting the requirements of CAA section 172(c)(9), pursuant to CAA section 182(e)(5) as given on p. 4 | South Coast Air Basin | July 29, 2011 | March 1, 2012, 77 FR 12674 | See 40 CFR 52.220(c)(401)(ii)(A)(2)(i).
Commitment to propose measures as provided in Appendix B Table B-1 of the Progress Report on the Implementation of PM2.5 State Implementation Plans (SIP) for the South Coast and San Joaquin Valley Air Basins and Proposed SIP Revisions (Release Date: March 29, 2011), adopted April 28, 2011 | South Coast Air Basin | July 29, 2011 | March 1, 2012, 77 FR 12674; codified on November 27, 2012, 77 FR 70707 | Commitment included in California Air Resources Board Resolution No. 11-22, July 21, 2011. See 40 CFR 52.220(c)(401)(ii)(A)(2)(ii).
California Air Resources Board Executive Order S-11-016, July 21, 2011 | South Coast Air Basin | July 29, 2011 | November 9, 2011, 76 FR 69928 | Executive Order titled “Approval of Revisions to the 8-Hour Ozone State Implementation Plans and Technical Revisions to the PM2.5 State Implementation Plan Transportation Conformity Budgets for the South Coast San Joaquin Valley Air Basin.” See 40 CFR 52.220(c)(401)(ii)(A)(3).
South Coast AQMD Staff Report, SCAQMD 8-Hour Ozone Reasonably Available Control Technology (RACT) State Implementation Plan (SIP) Demonstration, including appendices, dated June 2006 | South Coast Air Basin | January 31, 2007 | December 18, 2008, 73 FR 76947 | See 40 CFR 52.220(c)(358)(i)(A)(2).
South Coast AQMD Resolution 06-24, dated July 14, 2006 | South Coast Air Basin | January 31, 2007 | December 18, 2008, 73 FR 76947 | Resolution titled “A Resolution of the South Coast Air Quality Management District (SCAQMD) Board certifying that the SCAQMD's current air pollution rules and regulations fulfill the 8-hour Reasonably Available Control Technology (RACT) requirements, and adopting the RACT SIP revision.” See 40 CFR 52.220(c)(358)(i)(A)(1).
Notice of Exemption from the California Environmental Quality Act, SCAQMD 8-Hour Ozone Reasonably Available Control Technology (RACT) State Implementation Plan (SIP), dated June 2, 2006 | South Coast Air Basin | January 31, 2007 | December 18, 2008, 73 FR 76947 | See 40 CFR 52.220(c)(358)(i)(A)(3).
EPA comment letter to South Coast AQMD dated June 28, 2006, on 8-hour Ozone Reasonably Available Control Technology-State Implementation Plan (RACT SIP) Analysis, draft staff report dated May 2006, from Andrew Steckel, Chief, Rulemaking Office, EPA to Mr. Joe Cassmassi, Planning and Rules Manager, South Coast AQMD | South Coast Air Basin | January 31, 2007 | December 18, 2008, 73 FR 76947 | See 40 CFR 52.220(c)(358)(i)(A)(4).
2005 Carbon Monoxide Redesignation Request and Maintenance Plan for the South Coast Air Basin | South Coast Air Basin | February 24, 2006 | May 11, 2007, 72 FR 26718 | Adopted by South Coast AQMD on March 4, 2005, and by California Air Resources Board on February 24, 2006. See 40 CFR 52.220(c)(346)(i)(A)(1).
The following portions of the Final 2003 State and Federal Strategy (2003 State Strategy) for the California State Implementation Plan: State agency commitments with respect to the following near-term defined measures for the South Coast Air Basin: LT/MED-DUTY-1 [Air Resources Board (ARB)], LT/MED-DUTY-2 (Bureau of Automotive Repair), ON-RD HVY-DUTY-1 (ARB), ON-RD HVY-DUTY-3 (ARB), OFF-RD CI-1 (ARB), OFF-RD LSI-1 (ARB), OFF-RD LSI-2 (ARB), SMALL OFF-RD-1 (ARB), SMALL OFF-RD-2 (ARB), MARINE-1 (ARB), MARINE-2 (ARB), FUEL-2 (ARB), CONS-1 (ARB), CONS-2 (ARB), FVR-1 (ARB), FVR-2 (ARB), and PEST-1 (Department of Pesticide Regulation) in Resolution 03-22 Attachments A-2, A-3, A-4 and A-6 Table I-7 and in 2003 State Strategy Section I Appendix I-1 and Sections II and III | South Coast Air Basin | January 9, 2004 | March 10, 2009, 74 FR 10176 | Adopted by California Air Resources Board on October 23, 2003. See 40 CFR 52.220(c)(339)(ii)(A).
The following portions of the South Coast 2003 Air Quality Management Plan (AQMP): Base year and future year baseline planning inventories (summer and winter) in AQMP Chapter III and Appendix III; South Coast AQMD commitment to adopt and implement control measures CTS-07, CTS-10, FUG-05, MSC-01, MSC-03, PRC-07, WST-01, WST-02, FSS-04, FLX-01, CMB-10, MSC-05, MSC-07, MSC-08, FSS-06, and FSS-07 in AQMP Chapter 4, Table 4-1, as qualified and explained in AQMP, Chapter 4, pages 4-59 through 4-61 and in Appendix IV-A Section 1, and South Coast AQMD commitments to achieve near-term and long-term emissions reductions through rule adoption and implementation in AQMP Chapter 4, Tables 4-8A and 4-8B; contingency measure CTY-01 in AQMP Chapter 9, Table 2 and in Appendix IV-A Section 2 (excluding FSS-05); nitrogen dioxide maintenance demonstration in AQMP Chapter 6 page 6-11; and motor vehicle emissions budget for nitrogen dioxide in year 2003 of 686 tons per day (winter planning inventory) in AQMP Chapter 6 Table 6-7 | South Coast Air Basin | January 9, 2004 | March 10, 2009, 74 FR 10176 | Adopted by South Coast AQMD on August 1, 2003 and adopted by California Air Resources Board on October 23, 2003. See 40 CFR 52.220(c)(339)(ii)(B)(1).
South Coast 2003 Air Quality Management Plan (AQMP): Baseline and projected emissions inventories in AQMP Chapter III Tables 3-1A and 3-3A, in Appendix III Tables A-1, A-2, A-3, A-5, and A-7, and in Appendix V Attachment 4; South Coast AQMD commitment to adopt and implement control measures CMB-07, CMB-09, WST-01, WST-02, PRC-03, BCM-07, BCM-08, MSC-04, MSC-06, TCB-01 in AQMP Chapter 4 Table 4-8A, and in Appendix IV-A); PM-10 reasonable further progress in AQMP Chapter 6, Table 6-1 and in Appendix V Chapter 2; contingency measures CTY-01, CTY-14, TCB-01 in Appendix IV-A Section 2; PM-10 attainment demonstration in AQMP Chapter 5, and in Appendix V Chapter 2; and motor vehicle emissions budgets in “2003 South Coast AQMP On-Road Motor Vehicle Emissions Budgets” | South Coast Air Basin | January 9, 2004 | November 14, 2005, 70 FR 69081 | Adopted by South Coast AQMD on August 1, 2003, and by California Air Resources Board on October 23, 2003. See 40 CFR 52.220(c)(339)(i)(A)(1).
South Coast AQMD commitment to adopt and implement control measures, and reasonable further progress, as contained in the Implementation Status of the PM-10 Portion of the 1997 AQMP and PM-10 Emissions Budgets for Transportation Conformity use (2002 status report) | South Coast Air Basin | November 18, 2002 | April 18, 2003, 68 FR 19316 | Adopted by South Coast AQMD on June 7, 2002. See 40 CFR 52.220(c)(309)(i)(A)(1).
South Coast AQMD commitment to adopt and implement control measures, as contained in the 1999 Amendment to the South Coast Air Quality Management Plan, with respect to PM-10 | South Coast Air Basin | February 4, 2000 | April 18, 2003, 68 FR 19316 | See 40 CFR 52.220(c)(272)(i)(A)(2).
South Coast AQMD commitment to adopt and implement short- and intermediate-term control measures; South Coast AQMD commitment to adopt and implement long-term control measures; South Coast AQMD commitment to achieve overall emissions reductions for the years 1999-2008; South Coast AQMD commitment to implement those measures that had been adopted in regulatory form between November 1994 and September 1999; rate-of-progress plan for the 1999, 2002, 2005, 2008, and 2010 milestone years; amendment to the attainment demonstration in the 1997 Air Quality Management Plan for ozone; and motor vehicle emissions budgets for purposes of transportation conformity, as contained in the 1999 Amendment to the South Coast 1997 Air Quality Management Plan | South Coast Air Basin | February 4, 2000 | April 10, 2000, 65 FR 18903 | See 40 CFR 52.220(c)(272)(i)(A)(1).
California Air Resources Board Executive Order G-99-037, dated May 20, 1999, State commitment to continue working with EPA and the affected parties to achieve the emission reductions identified in the SIP for federal measures, and to adopt by December 31, 2000, and submit as a SIP revision, a revised attainment demonstration for the federal one-hour ozone standard in the South Coast Air Basin, and adopt by December 31, 2001, control measures needed to achieve any additional emission reductions which are determined to be appropriate for California Air Resources Board; Attachment A, update to the 1994 ozone SIP for the South Coast | South Coast Air Basin | May 20, 1999 | July 23, 1999, 64 FR 39923 | See 40 CFR 52.220(c)(265)(i)(A)(1).
Appendix V, page V-5-4, Table 5-2—“Carbon Monoxide Emissions (tons/day) Projected from 1993 through 2000 for the South Coast Air Basin” | South Coast Air Basin | February 5, 1997 | May 11, 2007, 72 FR 26718 | See 40 CFR 52.220(c)(247)(i)(A)(6).
Baseline and projected emissions inventories, South Coast AQMD commitment to adopt and implement control measures, reasonable further progress, contingency measures, attainment demonstration, PM-10 attainment date extension request to December 31, 2006, as contained in the South Coast 1997 Air Quality Management Plan, with respect to PM-10 | South Coast Air Basin | February 5, 1997 | April 18, 2003, 68 FR 19316 | See 40 CFR 52.220(c)(247)(i)(A)(4).
Baseline and projected emissions inventories and ozone attainment demonstration, as contained in the South Coast 1997 Air Quality Management Plan for ozone | South Coast Air Basin | February 5, 1997 | April 10, 2000, 65 FR 18903 | See 40 CFR 52.220(c)(247)(i)(A)(3).
Nitrogen dioxide attainment plan and maintenance plan, as contained in the South Coast 1997 Air Quality Management Plan | South Coast Air Basin | February 5, 1997 | July 24, 1998, 63 FR 39747 | Adopted by South Coast AQMD on November 15, 1996. See 40 CFR 52.220(c)(247)(i)(A)(2).
Carbon monoxide emissions inventory, VMT forecasts and commitments to monitor actual VMT levels and revise and replace the VMT projections as needed in the future, as contained in the South Coast 1997 Air Quality Management Plan | South Coast Air Basin | February 5, 1997 | April 21, 1998, 63 FR 19661 | See 40 CFR 52.220(c)(247)(i)(A)(1).
Revised rule adoption schedule | South Coast Air Basin | July 10, 1996 | January 8, 1997, 62 FR 1150 | Adopted by South Coast AQMD on April 12, 1996. See 40 CFR 52.220(c)(237)(i)(A)(1).
15% Rate-of-Progress plan and Post-1996 Rate-of-Progress plan for the Los Angeles-South Coast Air Basin Area, as contained in the “Rate-of-Progress Plan Revision: South Coast Air Basin & Antelope Valley & Coachella/San Jacinto Planning Area” | South Coast Air Basin | December 29, 1994 | January 8, 1997, 62 FR 1150 | Adopted by South Coast AQMD on December 9, 1994. See 40 CFR 52.220(c)(233)(i)(A)(1).
Long Term Measures, Advance Technology for Coating Technologies (Measure ADV-CTS-01), Advance Technology for Fugitives (Measure ADV-FUG), Advance Technologies for Process Related Emissions (Measure ADV-PRC), Advance Technologies for Unspecified Stationary Sources (Measure ADV-UNSP), and Advance Technology for Coating Technologies (Measure ADV-CTS-02), as contained in the “1994 Air Quality Management Plan” | South Coast Air Basin | November 15, 1994 | August 21, 1995, 60 FR 43379 | Adopted by South Coast AQMD on September 9, 1994. See 40 CFR 52.220(c)(204)(i)(B)(1).
Control measures, emissions inventory, modeling, and ozone attainment demonstration, as contained in “1994 Air Quality Management Plan” | South Coast Air Basin | November 15, 1994 | January 8, 1997, 62 FR 1150 | Adopted by South Coast AQMD on September 9, 1994. See 40 CFR 52.220(c)(204)(i)(B)(2).
The 1982 Ozone and CO Air Quality Management Plan for the South Coast Air Basin, except for: (i) The attainment and RFP demonstration portions of the plan and (ii) The emission reduction credit for the New Source Review control measure | South Coast Air Basin | December 31, 1982 and subsequently amended on February 15, and June 28, 1984 | July 30, 1984, 49 FR 30300 | See 40 CFR 52.220(c)(144).
Supplemental material for the South Coast Nonattainment Area Plan | South Coast Air Basin | July 24, 1981 | April 13, 1982, 47 FR 15785 | See 40 CFR 52.220(c)(116).
Supplemental material for the South Coast Nonattainment Area Plan | South Coast Air Basin | December 24, 1981 | April 13, 1982, 47 FR 15785 | See 40 CFR 52.220(c)(117).
Supplemental material for the South Coast Nonattainment Area Plan | South Coast Air Basin | February 18, 1982 | April 13, 1982, 47 FR 15785 | See 40 CFR 52.220(c)(118).
The South Coast Air Basin Control Strategy | South Coast Air Basin | July 25, 1979 | January 21, 1981, 46 FR 5965 | This plan is chapter 18 of the Comprehensive Revision to the State of California Implementation Plan for the Attainment and Maintenance of Ambient Air Quality Standards. Those portions of the South Coast Air Basin Control Strategy identified by Table 18-1, “Location of Plan Elements Which Meet Clean Air Act Requirements,” together with Rules 1115 and 1126, comprise the submitted nonattainment area plan control strategy. The remaining portions are for informational purposes only. See 40 CFR 52.220(c)(65)(i).
Part VI—South Coast Air Basin | South Coast Air Basin | February 21, 1972 | May 31, 1972, 37 FR 10842 | Part of original SIP submittal. See 40 CFR 52.220(b).
Final 2012 Lead State Implementation Plan—Los Angeles County (May 2012) | South Coast Air Basin—Los Angeles County portion | June 20, 2012 | March 12, 2014, 79 FR 13875 | Adopted by South Coast AQMD on May 4, 2012. See 40 CFR 52.220(c)(433)(ii)(A)(1).
South Coast AQMD Resolution 12-11, dated May 4, 2012 | South Coast Air Basin—Los Angeles County portion | June 20, 2012 | March 12, 2014, 79 FR 13875 | Resolution adopting the 2012 Los Angeles County Lead SIP. See 40 CFR 52.220(c)(433)(ii)(A)(2).
California Air Resources Board Resolution 12-20, dated May 24, 2012 | South Coast Air Basin—Los Angeles County portion | June 20, 2012 | March 12, 2014, 79 FR 13875 | Resolution adopting the 2012 Los Angeles County Lead SIP. See 40 CFR 52.220(c)(433)(ii)(B)(1).

* * * * *

[FR Doc. 2025-12586 Filed 7-3-25; 8:45 am]

BILLING CODE 6560-50-P